OFFICE OF PERSONNEL MANAGEMENT

SES Positions That Were Career Reserved During CY 2014

AGENCY: U.S. Office of Personnel Management (OPM).

ACTION: Notice.

SUMMARY: As required by section 3132(b)(4) of title 5, United States Code, this gives notice of all positions in the Senior Executive Service (SES) that were career reserved during calendar year 2014.

FOR FURTHER INFORMATION CONTACT: Eloise Jefferson, Senior Executive Resource Services, Senior Executive Services and Performance Management, Employee Services, 202-606-2246.

SUPPLEMENTARY INFORMATION: Below is a list of titles of SES positions that were career reserved at any time during calendar year 2014, regardless of whether those positions were still career reserved as of December 31, 2014. Section 3132(b)(4) of title 5, United States Code, requires that the head of each agency publish such lists by March 1 of the following year. The Office of Personnel Management is publishing a consolidated list for all agencies.

Agency | Organization | Title
ADMINISTRATIVE CONFERENCE OF THE UNITED STATES | Administrative Conference of the United States | Executive Director. General Counsel.
ADVISORY COUNCIL ON HISTORIC PRESERVATION | Office of the Executive Director | Executive Director.
DEPARTMENT OF AGRICULTURE | Office of Communications | Deputy Director, Creative Development.
| Office of the Chief Information Officer | Associate Chief Information Officer, International Technology Services. Deputy Chief Information Officer, Operations.
| Office of the Chief Financial Officer | Associate Chief Financial Officer, Financial Policy and Planning. Associate Chief Financial Officer, Financial Systems Planning and Management. Deputy Chief Financial Officer.
| National Finance Center | Director, Information Resources Management Division. Deputy Director, National Finance Center. Director, Financial Services Division.
| Office of the General Counsel | Associate General Counsel, General Law and Research Division. Assistant General Counsel, Natural Resources and Environment Division.
| Office of the Chief Economist | Director, Office of Energy Policy and New Uses. Director, Global Change Program Office.
|  | Director, Office of Risk Assessment and Cost-Benefit Analysis.
|  | Chairperson.
| Office of Human Resources Management | Provost, United States Department of Agriculture Virtual University. Executive Director, Executive Resources Management Division.
| Office of Advocacy and Outreach | Director, Office of Advocacy and Outreach.
| Office of Operations | Director, Office of Operations. Deputy Director, Office of Operations.
| Procurement and Property Management | Director, Procurement and Property Management. Associate Director, Procurement and Property Management.
| Rural Business Service | Deputy Administrator, Business Programs.
| Rural Housing Service | Deputy Administrator, Centralized Servicing Center. Deputy Administrator, Multi-Family Housing.
|  | Director, Loans Receivable Center of Excellence.
|  | Chief Financial Officer.
|  | Director, Human Resources.
|  | Deputy Administrator, Operations and Management.
| Agricultural Marketing Service | Deputy Administrator, Dairy Programs. Deputy Administrator, Poultry Programs.
|  | Deputy Administrator, Science and Technology Programs.
|  | Deputy Administrator, Cotton and Tobacco Programs.
|  | Deputy Administrator, Transportation and Marketing Programs.
|  | Deputy Administrator, National Organic Programs.
|  | Deputy Administrator, Compliance and Analysis.
|  | Deputy Administrator, Livestock and Seed Programs.
|  | Deputy Administrator, Information Technology Services.
|  | Associate Administrator.
|  | Deputy Administrator, Fruit and Vegetable Programs.
| Animal and Plant Health Inspection Service | Chief Advisor (Government, Academia and Industry Partnership). Chief Financial Officer.
|  | Human Resources Officer.
|  | Director, National Wildlife Research Center.
|  | Director, Investigative and Enforcement Services.
|  | Director, Information Technology Division.
|  | Director, Center for Veterinary Biologics.
|  | Associate Deputy Administrator, Emerging and International Programs.
|  | Deputy Administrator, Legislative and Public Affairs.
|  | Deputy Administrator, International Services.
|  | Deputy Administrator, Biotechnology Regulatory Programs.
|  | Associate Deputy Administrator, Veterinary Services.
|  | Director, Western Region, Wildlife Services.
|  | Deputy Administrator, Wildlife Services.
|  | Associate Deputy Administrator, Marketing and Regulatory Programs-Business Services.
|  | Deputy Administrator, Marketing and Regulatory Programs-Business Services.
|  | Deputy Administrator, Animal Care.
|  | Director, Center for Plant Health Science and Technology.
|  | Assistant Deputy Administrator, Emergency and Domestic Programs.
|  | Associate Deputy Administrator, Wildlife Services.
|  | Director, Eastern Region, Wildlife Services.
|  | Associate Deputy Administrator, Animal Care.
| Veterinary Services | Director, Western Region, Veterinary Services.
|  | Executive Director, Surveillance, Preparedness and Response Services, Veterinary Services.
|  | Director, National Center for Veterinary Epidemiology.
|  | Associate Deputy Administrator, National Animal Health Policy Programs.
| Plant Protection and Quarantine Service | Director, Plant Health Programs, Plant Protection and Quarantine.
|  | Director, Eastern Region, Plant Protection and Quarantine.
|  | Director, Western Region, Plant Protection and Quarantine.
| Office of the Under Secretary for Food Safety | Deputy Under Secretary, Food Safety.
| Food Safety and Inspection Service | International Affairs Liaison Officer.
|  | Executive Associate, Regulatory Operations, Office of Field Operations.
|  | Chief Information Officer.
|  | Chief Financial Officer.
|  | Assistant Administrator, Office of Field Operations.
|  | Deputy Administrator.
|  | Deputy Assistant Administrator, Office of Data Integration and Food Program.
|  | Assistant Administrator, Office of Data Integration and Food Protection.
|  | Assistant Administrator, Office of Management.
|  | Assistant Administrator, Office of Public Affairs, Education and Outreach.
|  | Deputy Assistant Administrator, Office of Public Health Science.
|  | Deputy Assistant Administrator, Office of Field Operations.
|  | Assistant Administrator.
|  | Assistant Administrator, Office of International Affairs.
|  | Executive Associate, Laboratory Services, Office of Public Health Science.
|  | Executive Associate, Regulatory Operations, Office of Field Operations.
|  | Deputy Assistant Administrator, Office of International Affairs.
|  | Executive Associate, Regulatory Operations, Office of Field Operations.
|  | Executive Associate, Public Health.
|  | Executive Associate, Regulatory Operations, Office of Field Operations.
|  | Deputy Assistant Administrator, Office of Management.
|  | United States Manager, Codex.
|  | Assistant Administrator, Office of Program Evaluation Enforcement and Review.
|  | Deputy Administrator.
|  | Assistant Administrator, Office of Policy and Program Development.
|  | Deputy Assistant Administrator, Office of Policy and Program Development.
|  | Director, Enforcement Operations.
|  | Assistant Administrator, Office of Catfish Inspection Programs.
| Food and Nutrition Service | Associate Administrator, Management and Finance. Program Manager and Deputy Administrator, Management.
|  | Financial Manager.
|  | Program Manager and Associate Administrator, Regional Operations and Support.
|  | Director, Office of Research, Nutrition and Analysis.
| Foreign Agricultural Service | Associate Administrator and Chief Operating Officer. Deputy Administrator, Office of Global Analysis.
| Farm Service Agency | Director, Business and Program Integration. Deputy Administrator, Farm Loan Programs.
|  | Assistant Deputy Administrator, Farm Programs.
|  | Director, Human Resources Division.
|  | Director, Office of Budget and Finance.
| Risk Management Agency | Deputy Administrator, Research and Development. Deputy Administrator, Insurance Services Division.
| Office of the Under Secretary for Research, Education, and Economics | Director, Office of the United States Department of Agriculture Chief Scientist.
| Agricultural Research Service | Deputy Administrator, Nutrition, Food Safety and Quality. Deputy Administrator, Animal Production and Protection.
|  | Associate Administrator, Research Operations and Management.
|  | Chief Information Officer.
|  | Assistant Administrator, Technology Transfer.
|  | Director, Office of Pest Management Policy.
|  | Deputy Administrator, Administrative and Financial Management.
|  | Associate Deputy Administrator, Administrative and Financial Management.
|  | Chief Financial Officer.
| National Program Staff Office | Deputy Administrator, Natural Resources and Sustainable Agriculture Systems.
|  | Associate Administrator, National Programs.
|  | Deputy Administrator.
| Northeast Area Office | Associate Director, Northeast Area.
|  | Director, Beltsville Agricultural Research Center.
|  | Director, Eastern Regional Research Center.
|  | Director, Northeast Area Office.
|  | Associate Director, Northeast Area.
| Beltsville Area Office | Associate Director, Beltsville Agricultural Research Center. Director, United States National Arboretum.
| North Atlantic Area Office | Associate Director, North Atlantic Area.
| Southeast Area Office | Director, Southeast Area. Associate Director, Southeast Area (2). Director, Southern Regional Research Center.
| Midwest Area Office | Associate Director, Midwest Area. Director, National Center for Agriculture Utilization. Director, Midwest Area.
| Mid-South Area Office | Director, Mid-South Area.
| Plains Area Office | Associate Director, Plains Area Office. Director, United States Meat Animal Research Center. Associate Director, Plains Area. Director, Plains Area.
| Southern Plains Area Office | Director, Southern Plains Area.
| Pacific West Area Office | Director, Western Regional Research Center. Associate Director, Pacific West Area Office (2). Director, Pacific West Area Office. Director, Western Human Nutrition Research Center.
| National Institute of Food and Agriculture | Deputy Director, Office of Information Technology. Deputy Director, Institute of Food Safety and Nutrition. Deputy Director, Institute of Bioenergy, Climate, and Environment.
|  | Deputy Director, Office of Grants and Financial Management.
| Economic Research Service | Director, Market and Trade Economics Division.
|  | Director, Information Services Division.
|  | Associate Administrator, Economic Research Service.
|  | Director, Resource and Rural Economics Division.
|  | Director, Food Economics Division.
|  | Administrator, Economic Research Service.
| National Agricultural Statistics Service | Director, Census and Survey Division. Director, Statistics Division. Director, Eastern Field Operations. Director, Western Field Operations. Associate Administrator. Chairperson, United States Agricultural Statistics Board. Director, National Operations Center. Director, Methodology Division. Director, Information Technology Division. Administrator, National Agricultural Statistics Service. Director, Research and Development Division.
| Natural Resources Conservation Service | Director, Resource Economics, Analysis and Policy Division.
|  | Director, Conservation Planning and Technical Assistance Division.
|  | Director, Resource Inventory Division.
|  | Deputy Chief, Strategic Planning and Accountability.
|  | Director, Easement Programs Division.
|  | Associate Chief, Operations/Chief Operating Officer.
|  | Director, Conservation Engineering Division.
|  | Director, Ecological Sciences Division.
|  | Director, Soil Science Division.
|  | Chief Financial Officer.
|  | Special Assistant to Chief (2).
|  | Director, Resource Assessment Division.
|  | Deputy Chief, Programs.
|  | Director, Financial Assistance Programs Division.
|  | Special Assistant to the Chief.
|  | Regional Conservationist, Northeast.
| Forest Service | Associate Deputy Chief, Research and Development (2).
|  | Director, Law Enforcement and Investigations.
|  | Director, Acquisition Management.
|  | Director, Fire and Aviation Staff.
|  | Associate Deputy Chief, Business Operations.
|  | Deputy Chief, Business Operations.
|  | Chief Financial Officer.
| Office of Research | Director, Environmental Sciences.
|  | Director, Forest Management Sciences.
|  | Director, Resource Use Sciences.
|  | Director, Science Policy, Planning, and Information Staff.
| National Forest System | Director, Forest Management Staff.
|  | Director, Rangeland Management.
|  | Director, Minerals and Geology Management Staff.
|  | Director, Water, Fish, Wasteland, Air and Rare Plants.
|  | Director, Ecosystem Management Coordination.
|  | Director, Lands Management Staff.
|  | Director, Engineering.
| Office of State and Private Forestry | Director, Cooperative Forestry.
|  | Senior Advisor to the Deputy Chief, State and Private Forestry.
|  | Director, Forest Health Protection.
| Field Units | Director, Southern Research Station, Asheville.
|  | Director, Forest Products Laboratory, Madison.
|  | Director, Rocky Mountain Forest and Range Experiment Station, Fort Collins.
|  | Director, Pacific Southwest Forest and Range Experiment Station, Vallejo.
|  | Director, Pacific Northwest Research Station.
|  | Director, North Eastern Forest Experiment Station, Newtown Square.
|  | Northeast Area Director, State and Private Forestry.
| International Forest System | Director, International Institute of Tropical Forest, Rio Piedras.
DEPARTMENT OF AGRICULTURE OFFICE OF THE INSPECTOR GENERAL | Office of the Inspector General | Counsel to the Inspector General. Deputy Inspector General.
| Office of the Assistant Inspector General for Management | Assistant Inspector General, Management.
| Office of the Assistant Inspector General for Audit | Deputy Assistant Inspector General, Audit. Deputy Assistant Inspector General, Audit.
|  | Assistant Inspector General, Audit.
|  | Deputy Assistant Inspector General, Audit.
| Office of the Assistant Inspector General for Investigations | Assistant Inspector General, Investigations. Deputy Assistant Inspector General, Investigations.
AMERICAN BATTLE MONUMENTS COMMISSION | Office of the Executive Director Office of the Director, European Region | Deputy Secretary. Director, European Region.
ARCHITECTURAL AND TRANSPORTATION BARRIERS COMPLIANCE BOARD (UNITED STATES ACCESS BOARD) | Architectural and Transportation Barriers Compliance Board (United States Access Board) | Director, Office of Technical and Information Services. Executive Director.
BROADCASTING BOARD OF GOVERNORS | International Broadcasting Bureau | Deputy, Engineering Resource Control. Deputy, Network Operations. Associate Director, Management. Chief Executive Officer.
CHEMICAL SAFETY AND HAZARD INVESTIGATION BOARD | Office of the Chief Operating Officer | Chief Operating Officer.
DEPARTMENT OF COMMERCE | Office of the Secretary | Deputy Assistant Inspector General, Auditing.
|  | Deputy Chief Financial Officer/Deputy Chief Administrative Officer.
|  | Regional Director, Detroit.
|  | Director, Finance.
| Office of the Deputy Secretary | Interim Executive Director.
| Office of the Chief Information Officer | Deputy Chief Information Officer and Chief Technology Officer.
|  | Special Assistant, Program Management.
|  | Director, Cyber Security and Chief Information Security Officer.
| Office of the General Counsel | Chief, Ethics Division. General Counsel. Assistant General Counsel, Finance and Litigation.
| Office of the Chief Financial Officer and Assistant Secretary for Administration | Director, Human Resources Operations Center.
|  | Executive Director, Business, United States.
|  | Director, Office of Budget.
|  | Deputy, Acquisition Program Management.
|  | Deputy Assistant Secretary, Resource Management.
|  | Deputy, Procurement Performance Excellence.
|  | Deputy Chief Information Officer, Management and Business Operations.
|  | Deputy Director, Office of Budget.
|  | Director, Facilities and Environmental Quality.
|  | Deputy Director, Facilities and Environmental Quality.
|  | Director, Office of Acquisition Management.
| Office of the Deputy Assistant Secretary for Administration | Deputy Director, Sustainability and Facilities Asset Management.
|  | Deputy, Procurement Management, Policy and Performance Excellence.
|  | Director, Office of Security.
|  | Director, Human Capital Strategy and Diversity.
| Office of Human Resources Management | Deputy Director, Human Resources Management and Deputy Chief Human Capital Officer.
|  | Director, Human Resources Management.
|  | Deputy Director, Human Resources Management.
|  | Director, Human Resources Management and Chief Human Capital Officer.
| Office of the Deputy Chief Financial Officer for Financial Management | Director, Financial Reporting and Internal Controls.
|  | Director, Office of the Secretary Financial Management.
|  | Director, Financial Management and Deputy Chief Financial Officer.
| Office of Budget | Director, Office of Budget.
| Office of Security | Deputy Director, Office of Security.
| Office of the Inspector General | Deputy Assistant Inspector General, Economic and Statistical Program Assessment.
| Office of Inspector General | Assistant Inspector General, Systems Evaluation.
|  | Assistant Inspector General, Administration.
| Office of Counsel to the Inspector General | Counsel to the Inspector General.
| Office of Inspections and Program Evaluation | Assistant Inspector General, Inspections and Program Evaluation.
| Office of Audits | Assistant Inspector General, Auditing.
| Office of Investigations | Assistant Inspector General, Investigations.
| Economics and Statistics Administration | Director, Policy and Planning. Chief Financial Officer and Director, Administration.
| Bureau of the Census | Chief, Office of Survey and Census Analytics.
|  | Chief, Application Services Division.
|  | Assistant Director, IT and Deputy Chief Information Officer.
|  | Chief, Center for Survey Measurement.
|  | Senior Advisor, Service Delivery.
|  | Chief, Decennial Research and Planning Office.
|  | Associate Director, 2020 Census.
|  | Chief, Center, Administrative Records Research and Applications.
|  | Assistant Director, Research and Methodology (2).
|  | Chief Technology Officer.
|  | Senior Advisor, Project Management.
|  | Associate Director, Administration and Chief Financial Officer.
|  | Chief, Budget Division.
|  | Associate Director, Performance Improvement.
|  | Associate Director, Information Technology and Chief Information Officer.
|  | Chief, Center for Economic Studies and Chief Economist.
|  | Assistant Director, American Community Survey and Decennial Census.
|  | Chief, Field Division.
|  | Chief, Human Resources Division.
| Office of the Director | Associate Director, Field Operations.
|  | Chief, Decennial Systems and Contracts Management Office.
| Administrative and Customer Services Division | Chief, Administrative and Customer Services Division.
| Office of Associate Director for Information Technology | Executive Advisor, Cloud Solutions.
| Office of Associate Director for Finance and Administration | Chief, Acquisition Division. Chief, Finance Division.
| Data Preparation Division | Chief, National Processing Center.
| Office of Associate Director for Economic Programs | Chief, Economic Management Division. Chief, Economy-Wide Statistics Division.
|  | Chief, Company Statistics Division.
|  | Assistant Director, Economic Programs.
|  | Chief, Economic Indicators Division.
|  | Chief, Economic Applications Division.
|  | Chief, International Trade Management Division.
|  | Associate Director, Economic Programs.
|  | Chief, Economic Reimbursable Surveys Division.
| Manufacturing and Construction Division | Chief, Manufacturing and Construction Division.
| Office of Associate Director for Decennial Census | Chief, American Community Survey Office. Associate Director, Decennial Census.
| Decennial Management Division | Chief, Decennial Management Division.
| Geography Division | Chief, Geography Division.
| Decennial Statistical Studies Division | Chief, Decennial Statistical Studies Division.
| Office of Associate Director for Demographic Programs | Chief, Population Division. Chief, Demographic Surveys Division.
|  | Assistant Director, Demographic Programs.
|  | Associate Director, Demographic Programs.
| Housing and Household Economic Statistics Division | Chief, Social, Economic, and Housing Statistics Division.
| Demographic Statistical Methods Division | Chief, Demographic Statistical Methods Division.
| Statistical Research Division | Chief, Statistical Research Division.
| Bureau of Economic Analysis | Chief Administrative Officer.
|  | Chief, Balance of Payments Division.
|  | Chief Information Officer.
|  | Associate Director, Industry Accounts.
|  | Chief, Direct Investment Division.
| Office of the Director | Chief Economist.
|  | Director, Bureau of Economic Analysis.
|  | Deputy Director, Bureau of Economic Analysis.
|  | Chief Statistician.
| Office of Associate Director for Regional Economics | Associate Director, Regional Economics.
| Office of Associate Director for International Economics | Associate Director, International Economics.
| Office of Associate Director for National Income, Expenditure and Wealth Accounts | Chief, National Income and Wealth Division.
|  | Associate Director, National Income, Expenditure and Wealth Accounts.
| Bureau of Industry and Security | Chief Financial Officer and Director, Administration.
|  | Director, Office of Enforcement Analysis.
|  | Deputy Chief Financial Officer.
| Office of the Assistant Secretary for Export Enforcement | Deputy Director, Office of Export Enforcement.
|  | Director, Office of Export Enforcement.
|  | Deputy Assistant Secretary, Export Enforcement.
| Office of the Assistant Secretary for Economic Development | Chief Financial Officer and Chief Administrative Officer.
| Office of the Deputy Assistant Secretary | Chief Financial Officer and Chief Administrative Officer.
| Office of the Under Secretary | Deputy Chief Financial and Administrative Officer.
|  | Chief Financial and Administrative Officer.
| Office of the Assistant Secretary for Industry and Analysis | Director, Office of Standards and Investment Policy.
| Office of the Assistant Secretary for Enforcement and Compliance | Associate Deputy Assistant Secretary, Antidumping/Countervailing Duty Operations.
|  | Senior Director, Antidumping/Countervailing Duty Enforcement Office VII.
| Office of the Director General of the U.S. and Foreign Commercial Service and Assistant Secretary for Global Markets | Executive Director, China.
| Office of the Assistant Secretary for Global Markets | Director, Trade Compliance Center.
| Office of the Director | Associate Director, Management.
| National Oceanic and Atmospheric Administration | Chief, Resource and Operations Management.
|  | Director, Joint Polar Satellite Systems.
|  | Deputy Chief Information Officer.
|  | Director, Acquisition and Grants Office.
|  | Deputy Director, Workforce Management.
|  | Deputy Director, Office of Marine and Aviation Operations.
|  | Director, Office of Ocean Exploration and Research.
|  | Chief Administrative Officer.
|  | Director, Integrated Ocean Observing System.
|  | Deputy Assistant Administrator, Systems.
|  | Director, Ocean Prediction Center.
|  | Director, Office of Education.
|  | Deputy Director, Acquisition and Grants Office.
|  | Deputy Director, Office of Satellite and Product Operations.
|  | Director, Program Risk Management.
|  | Chief Financial Officer and Chief Administrator Officer.
|  | Assistant Chief Information Officer, National Environmental Satellite, Data and Information Services.
|  | Chief Information Officer and Director, High Performance Computing and Communications.
|  | Chief Financial Officer.
|  | Deputy Chief Administrative Officer.
|  | Director, Space Weather Prediction Center.
| National Oceanic and Atmospheric Administration Coastal Ocean Program Office | Director, Budget Office.
| Office of Finance and Administration | Director, Workforce Management.
|  | Director, Finance Office and Comptroller.
|  | Director, Real Property, Facilities and Logistics Office.
| National Ocean Service | Director, Center for Operational Oceanographic Products and Services.
|  | Associate Assistant Administrator, Management and Chief Financial Officer/Chief Administrative Officer.
|  | Director, Office of National Geodetic Survey.
| National Oceanic and Atmospheric Administration Coastal Services Center | Director, National Centers for Coastal Ocean Science.
| Hazardous Materials Response and Assessment Division | Director, Office of Response and Restoration.
| Office of the Assistant Administrator for Weather Services | Director, Strategic Planning and Policy Office.
| Office of the Chief Information Officer | Chief Information Officer, Weather Service.
| Office of the Federal Coordinator for Meteorology | Director, Office of the Federal Coordinator for Meteorology.
| Office of Hydrologic Development | Director, Office of Hydrologic Development.
| Hydrology Laboratory | Chief, Hydrology Laboratory.
| Office of Science and Technology | Chief, Programs and Plans Division.
|  | Director, Office of Science and Technology.
| Meteorological Development Laboratory | Director, Meteorological Development Laboratory.
| Systems Engineering Center | Director, Systems Engineering Center.
| Office of Operational Systems | Director, Office of Operational Systems.
| Telecommunications Operations Center | Chief, Telecommunications Operations Center.
| Maintenance, Logistics, and Acquisition Division | Chief, Operations Division.
| Radar Operations Center | Director, Radar Operations Center.
| National Data Buoy Center | Director, National Data Buoy Center.
| Office of Climate, Water, and Weather Services | Director, Office of Climate, Water, and Weather Services.
|  | Chief, Meteorological Services Division.
| Eastern Region | Director, Eastern Region National Weather Service.
| Southern Region | Director, Southern Region.
| Central Region | Director, Central Region.
| Western Region | Director, Western Region.
| Alaska Region | Director, Alaska Region, Anchorage.
| National Centers for Environmental Prediction | Director, Aviation Weather Center.
|  | Director, Weather Prediction Center.
|  | Director, National Centers for Environmental Prediction.
|  | Director, National Severe Storms Laboratory.
|  | Director, Environmental Modeling Center.
| National Centers for Environmental Prediction Central Operations | Director, Central Operations.
| Climate Prediction Center | Director, Climate Prediction Center.
| Storm Prediction Center | Director, Storm Prediction Center.
| Tropical Prediction Center | Director, National Hurricane Center.
| Office of Assistant Administrator for Fisheries | Director, Office of Management and Budget.
| National Marine Fisheries Service | Director, Office of Habitat Conservation.
|  | Director, Office of Sustainable Fisheries.
|  | Director, Science and Research, Southwest Region.
|  | Director, Science and Research, Pacific Island Region.
|  | Director, International Affairs and Seafood Inspection.
|  | Deputy Assistant Administrator, Regulatory Programs.
| Office of Fisheries Conservation and Management | Director, Scientific Programs and Chief Science Advisor.
|  | Director, Office of Enforcement.
| Office of Protected Resources | Director, Office of Science and Technology.
| Northeast Fisheries Science Center | Director, Science and Research, Northeast Region.
| Southeast Fisheries Science Center | Director, Science and Research, Southeast Region.
| Northwest Fisheries Science Center | Director, Science and Research, Northwest Region.
| Alaska Fisheries Science Center | Director, Science and Research.
| Office of Assistant Administrator Satellite, Data Information Service | Director, Satellite Ground Services.
|  | Senior Scientist, Environmental Satellite, Data and Information Services (National Environmental Satellite, Data and Information Services).
|  | System Program Director, Goes-R Program.
|  | Chief Financial Officer and Chief Administrative Officer.
| National Climatic Data Center | Director, National Climatic Data Center.
| National Oceanographic Data Center | Director, National Oceanographic Data Center.
| National Geophysical Data Center | Director, National Geophysical Data Center.
| Office of Systems Development | Director, Office of Systems Development.
|  | Director, Systems Engineering Program.
| Office of Assistant Administrator, Ocean and Atmospheric Research | Deputy Assistant Administrator, Laboratories and Cooperative Institutes and Director, Air Resources Laboratory.
|  | Director, Earth System Research Laboratory and Principal Science Advisor.
|  | Director, Climate Program Office.
|  | Chief Financial Officer and Chief Administrative Officer.
| National Sea Grant College Program | Director, National Sea Grant College Program.
| Aeronomy Laboratory | Director, Chemical Science Division.
| Atlantic Ocean and Meteorology Laboratory | Director, Atlantic Oceanographic and Meteorological.
| Geophysical Fluid Dynamics Laboratory | Director, Office of Geophysical Fluid Dynamics Laboratory.
| Great Lake Environmental Research Laboratory | Director, Office of Great Lakes Environmental Research Laboratory.
| Pacific Marine Environmental Research Laboratory | Director, Office of Pacific Marine Environmental Laboratory.
| Environmental Technology Laboratory | Director, Physical Science Division.
| Forecast Systems Laboratory | Director, Global Systems Division.
| Climate Monitoring and Diagnostics Laboratory | Director, Global Monitoring Division.
| National Telecommunications and Information Administration | Chief Financial Officer and Director, Administration.
|  | Chief Digital Officer.
| Office of the Assistant Secretary for Communications and Information | Chief Information Officer and Deputy Director, Administration.
| First Responder Network Authority | Chief Information Officer, First Responder Network Authority.
|  | Chief Administrative Officer, First Responder Network Authority.
|  | Chief Financial Officer, First Responder Network Authority.
|  | Chief Technical Officer, First Responder Network Authority.
| Office of International Affairs | Associate Administrator, Office of International Affairs.
| Institute for Telecommunication Sciences | Deputy Director, Systems and Networks.
| Office of the Under Secretary | Executive, Patent Trail and Appeal Board.
|  | Chairman, Trademark Trial and Appeal Board.
|  | Chief Administrative Patent Judge.
|  | Vice Chief Administrative Patent Judge.
|  | Deputy Chief Administrative Patent Judge.
|  | Deputy Chief Administrative Trademark Judge.
|  | Director, Office of Equal Employment Opportunity and Diversity.
| Office of Policy and International Affairs | Deputy Chief Policy Officer, Operations.
|  | Deputy Chief Policy Officer.
|  | Administrator, Policy and External Affairs.
|  | Deputy Director, Intellectual Property Policy and Enforcement.
|  | Chief Policy Officer and Director, International Affairs.
|  | Director, Intellectual Property Policy and Enforcement.
|  | Director, Governmental Affairs.
| Office of the General Counsel | Deputy General Counsel, Intellectual Property Law and Solicitor.
|  | Deputy Solicitor and Assistant General Counsel, Intellectual Property Law.
|  | Deputy General Counsel, Enrollment and Discipline.
| Board of Patent Appeals and Interferences | Executive, Patent Trial and Appeal Board.
| Office of the Chief Administrative Officer | Director, Human Capital Management.
|  | Director, Office of Administrative Services.
|  | Deputy Chief Administrative Officer.
|  | Director, Office of Administrative Services.
| Office of the Chief Financial Officer | Director, Office of Budget and Planning (2).
|  | Director, Office of Procurement.
|  | Chief Financial Officer.
|  | Deputy Chief Financial Officer.
| Office of the Chief Information Officer | Director, Organizational Policy and Governance.
|  | Director, Office of Infrastructure Engineering and Operations.
|  | Director, Office of Information Management Services.
|  | Director, Office of Program Administration Organization.
|  | Chief Technology Officer.
| Office of the Commissioner for Trademarks | Director, Trademark Information Resources.
|  | Group Director, Trademark Law Offices (2).
|  | Deputy Commissioner, Trademark Examination Policy.
|  | Deputy Commissioner, Trademark Operations (2).
| Office of the Commissioner for Patents | Associate Commissioner, Patent Information Management.
|  | Deputy Commissioner, International Patent Cooperation.
|  | Deputy Commissioner, Patent Administration.
|  | Director, Office of Patent Training.
|  | Associate Commissioner, Patent Resources and Planning.
|  | Deputy Director, Patent Training Academy.
|  | Administrator, Search and Information Resources Administration.
|  | Deputy Associate Commissioner, Patent Information Management.
|  | Director, Office of the Central Reexamination Unit.
|  | Deputy Commissioner, Patent Operations.
|  | Director, Office of Patent Legal Administration.
|  | Regional Director.
|  | Associate Administrator, Telecommunications Science.
|  | Associate Commissioner, Patent Examination Policy.
| Examining Group Directors | Assistant Deputy Commissioner, Patents (3).
|  | Regional Group Director.
|  | Group Director (39).
|  | Regional Director, Denver.
|  | Assistant Deputy Commissioner for Patent Operations (2).
| National Institute of Standards and Technology | Chief Facilities Management Officer.
|  | Associate Director, Management Resources.
|  | Director, National Institute of Standards and Technology Center for Neutron Research.
|  | Chief of Staff, National Institute for Standards and Technology.
|  | Deputy Director, National Institute of Standards and Technology Center for Neutron Research.
|  | Director, Center for Nanoscale Science and Technology.
|  | Deputy Director, Center for Nanoscale Science and Technology.
|  | Chief Cybersecurity Advisor.
|  | Chief Safety Officer.
|  | Boulder Laboratories Site Manager.
|  | Senior Advisor, Cloud Computing.
|  | Associate Director, Innovation and Industry Services.
|  | Director, Law Enforcement Standards Office.
|  | Associate Director, Laboratory Programs.
|  | Senior Advisor, Voting Standards.
|  | Director, Standards Coordination Office.
|  | Senior Information Technology Policy Advisor.
|  | Director, Smart Grid and Cyber-Physical Systems Program Office.
|  | Director, Special Programs Office.
|  | Deputy Director, Special Program Office.
|  | Director, Information Technology and Applications Office.
| Office of the Director, National Institute of Standards and Technology | Senior Advisor, Laboratory Programs.
|  | Chief Information Officer, National Institute of Standards and Technology.
|  | Chief Financial Officer, National Institute of Standards and Technology.
|  | Chief Manufacturing Officer.
|  | Director, Communications Technology Laboratory.
|  | Senior Advisor to the Director, Physical Measurement Laboratory.
| Baldrige Performance Excellence Program | Deputy Director, Office of Quality Programs.
|  | Director, Baldrige Performance Excellence Program.
| Manufacturing Extension Partnership Program | Director, Manufacturing Extension Partnership Program.
|  | Deputy Director, Manufacturing Extension Partnership Program.
| Electronics and Electrical Engineering Laboratory | Deputy Director, Measurement Services.
| Manufacturing Engineering Laboratory | Deputy Director, Manufacturing.
| Chemical Science and Technology Laboratory Office | Deputy Director, Chemical Scientist and Technology Laboratory.
|  | Director, Material Measurement Laboratory.
| Physics Laboratory Office | Director, Physical Measurement Laboratory.
| Building and Fire Research Laboratory | Chief, Fire Safety Engineering Division.
|  | Director, Engineering Laboratory.
| National Technical Information Service | Deputy Director, National Technical Information Service.
| Information Technology Laboratory | Deputy Director, Information Technology Laboratory.
|  | Director, Information Technology Laboratory.
| Office of the Chief Financial Officer | Director, Acquisition and Grants Management.
DEPARTMENT OF COMMERCE OFFICE OF THE INSPECTOR GENERAL | Office of Inspector General | Deputy Inspector General and Assistant Inspector General, Investigations.
| Office of Audit and Evaluation | Deputy Assistant Inspector General, Audits.
|  | Assistant Inspector General, Intellectual Property and Special Program Audits.
|  | Assistant Inspector General.
|  | Principal Assistant Inspector General, Audit and Evaluation.
| Office of Economic and Statistical Program Assessment | Assistant Inspector General, Economic and Statistical Program Assessment.
| Office of Systems Acquisitions and Information Technology Security | Assistant Inspector General, Systems Acquisitions and Information Technology Security.
| Office of Audit | Assistant Inspector General, Audit.
| Office of Program Assessment | Assistant Inspector General, Administration.
| Office of Investigations | Assistant Inspector General, Investigations.
| Office of Counsel | Counsel to the Inspector General.
CONSUMER PRODUCT SAFETY COMMISSION | Office of Executive Director | Assistant Executive Director, Information and Tech Services.
|  | Director, Office of International Programs and Intergovernmental Affairs.
|  | Assistant Executive Director, Compliance and Administrative Litigation.
| Office of Hazard Identification and Reduction | Associate Executive Director, Epidemiology.
|  | Associate Executive Director, Engineering Sciences.
|  | Associate Executive Director, Economic Analysis.
|  | Assistant Executive Director, Hazard Identification and Reduction.
|  | Deputy Assistant Executive Director, Hazard Identification and Reduction.
| Office of Import Surveillance | Director, Office of Import Surveillance.
COURT SERVICES AND OFFENDER SUPERVISION AGENCY FOR THE DISTRICT OF COLUMBIA | Court Services and Offender Supervision Agency for the District of Columbia | Associate Director, Research and Evaluation.
|  | Deputy Director.
|  | Associate Director, Human Resources.
|  | Associate Director, Administration.
|  | Chief Financial Officer.
|  | Associate Director, Special Criminal Justice Programs.
|  | Associate Director, Legislative, Intergovernmental and Public Affairs.
|  | Associate Director, Community Justice Programs.
|  | Associate Director, Community Supervision.
|  | Chief Information Officer.
| Pretrial Services Agency | Associate Director, Operations.
|  | Director.
|  | Deputy Director.
|  | Associate Director, Management and Administration.
OFFICE OF THE SECRETARY OF DEFENSE | Office of the Secretary | Assistant to the Secretary of Defense, Intelligence Oversight.
| Office of the Under Secretary of Defense (Policy) | Special Assistant, Career Broadening.
|  | Foreign Relations and Defense Policy Manager/Defense Technology Security Administration (DTSA).
|  | Special Assistant, Career Broadening.
| Office of Principal Deputy Under Secretary for Policy | Foreign Relations and Defense Policy Manager, Special Assistant to the Principal Deputy Under Secretary of Defense, Policy.
| Office of the Assistant Secretary of Defense (Asian and Pacific Security Affairs) | Deputy Assistant Secretary of Defense, East Asia.
| Director, Operational Test and Evaluation | Deputy Director, Live Fire Test and Evaluation.
| Office of the Deputy Chief Management Officer | Director, Oversight and Compliance.
|  | Director, Enterprise Performance Division.
|  | Director, Administration.
|  | Department of Defense Senior Intelligence Oversight Official and Deputy Director, Oversight and Compliance.
| Office of Inspector General | Assistant Inspector General, Acquisition and Contract Management.
| Office of the Under Secretary of Defense (Personnel and Readiness) | Chief of Staff.
| Office Assistant Secretary of Defense (Health Affairs) | Military Health System Chief Information Officer.
|  | Deputy Chief, Tricare Acquisitions Directorate.
|  | General Counsel.
|  | Regional Director, Tricare Regional Office, South.
|  | Regional Director, Tricare Regional Office, North.
| Office of Assistant Secretary of Defense (Reserve Affairs) | Principal Director, Manpower and Personnel.
| Office of the Under Secretary of Defense (Comptroller) | Deputy Chief Financial Officer.
| Washington Headquarters Services | Deputy Director, Defense Facilities Directorate.
|  | Deputy Director, Human Resources Directorate.
|  | Director, Facilities Services Directorate.
|  | Director, Human Resources Directorate.
|  | Director, Department of Defense Consolidated Adjudications Facility.
|  | Director, Acquisition Directorate.
|  | Director, Policy, Plans and Requirements.
|  | Principal Assistant Responsible for Contracting.
| Pentagon Force Protection Agency | Director, Pentagon Force Protection Agency.
|  | Assistant Director, Law Enforcement.
|  | Principal Deputy Director, Pentagon Force Protection Agency.
| Office of the General Counsel | Director, Defense Office of Hearings and Appeals.
|  | Director, Office of Litigation.
|  | General Counsel.
| Office of the Under Secretary of Defense (Acquisition, Technology, and Logistics) | Principal Deputy Director, Administration.
|  | Principal Deputy, Acquisition Resources and Analysis.
|  | Deputy Director, Enterprise Information.
|  | Deputy Director, Office of the Secretary Studies and Federally Funded Research and Development Center Management.
|  | Deputy Director, Acquisition Technology.
|  | Deputy Director, Resource Analysis.
|  | Deputy Director, Enterprise Information and Office of the Secretary Studies.
|  | Director, Defense Procurement and Acquisition Policy.
|  | Director, Administration.
|  | Director, Acquisition Resources and Analysis.
|  | Deputy Director, Treaty Compliance and Homeland Defense.
| Assistant Secretary of Defense (Acquisition) | Special Assistant, Concepts and Plans.
|  | Principal Deputy Assistant Secretary of Defense, Acquisition.
|  | Deputy Director, Naval Warfare.
|  | Deputy Director, Defense Acquisition Regulations System.
|  | Technical Director, Force Development.
|  | Deputy Director, Program Acquisition and Strategic Sourcing.
|  | Deputy Director, Assessments and Support.
|  | Deputy Director, Land Warfare and Munitions.
|  | Deputy Director, Contract Policy and International Contracting.
|  | Deputy Director, Naval Warfare.
|  | Assistant Deputy Under Secretary of Defense, Acquisition Process and Policies.
| Assistant to the Secretary of Defense for Nuclear and Chemical and Biological Defense Programs | Deputy Assistant Secretary of Defense, Nuclear Matters.
| Office of the Director of Defense Research and Engineering | Deputy Director, Information Systems and Cyber Security.
|  | Principal Deputy Assistant Secretary of Defense, Research and Engineering and Director, Plans and Programs.
|  | Director, Human Performance, Training and Bio systems.
|  | Director, Weapons Systems.
|  | Director, Space and Sensor Technology.
| Defense Advanced Research Projects Agency | Special Assistant, Procurement Policy Strategy.
|  | Director, Contracts Management Office.
|  | Director, Support Services Office.
|  | Deputy Director, Strategic Technology Office.
|  | Director, Tactical Technology Office.
|  | Deputy Director, Special Programs.
|  | Deputy Director, Defense Advanced Research Projects Agency.
| Office of the Joint Chiefs of Staff | Vice Assistant Deputy Director, Joint Development.
|  | Executive Director, Force Generation.
|  | Assistant Deputy Director, Synchronization and Integration.
|  | Vice Deputy Director, Joint and Coalition Warfighting.
|  | Assistant Deputy Director, Command and Control.
|  | Vice Director, C4/Cyber.
| Missile Defense Agency | Deputy Director, Joint National Integration Center.
|  | Director, Contracting.
|  | Director, Systems Engineering and Integration.
|  | Program Director, Targets and Countermeasures.
|  | Chief Engineer, Ground-Based Midcourse Defense.
|  | Program Director, Ground Missile Defense.
|  | Director, Advanced Technology.
|  | Deputy, Engineering.
|  | Director, Operations.
|  | Program Director, Battle Management, Command and Control.
|  | Program Director, Ground-Based Midcourse Defense.
|  | Deputy Program Director, Baseline Concepts.
|  | Director, Acquisition.
|  | Deputy Program Manager, Assessment and Integration, Ballistic Missile Defense System.
| Defense Contract Audit Agency | Deputy Director, Defense Contract Audit Agency.
|  | Special Assistant.
|  | Deputy Regional Director, Western Region.
|  | Director, Defense Contract Audit Agency.
|  | Assistant Director, Policy and Plans.
|  | Director, Field Detachment.
|  | Assistant Director, Operations.
| Regional Managers | Regional Director, Northeastern.
|  | Regional Director, Eastern.
|  | Regional Director, Central.
|  | Regional Director, Western.
|  | Regional Director, Mid-Atlantic.
|  | Deputy Regional Director, Eastern Region.
|  | Deputy Regional Director, Northeastern Region.
|  | Deputy Regional Director, Central Region.
|  | Deputy Regional Director, Mid-Atlantic Region.
|  | Assistant Director, Integrity and Quality Assurance.
| Defense Logistics Agency | Acquisition Executive, Defense Logistics Agency Acquisition.
|  | Executive Director, Operations and Sustainment.
|  | Executive Director, Joint Contingency Acquisition Support Office.
|  | Chief of Staff.
|  | Program Executive Officer, Defense Logistics Agency Information Operations.
|  | Vice Director, Defense Logistics Agency.
|  | Deputy Director, Defense Logistics Agency Acquisition.
|  | Executive Director, Enterprise Solutions.
|  | Director, Defense Logistics Agency Acquisition (J-7).
|  | Deputy Commander, Defense Logistics Agency Energy.
|  | Executive Director, Contracting and Acquisition Management.
|  | Executive Director, Troop Support Contracting and Acquisition Management.
|  | Deputy Director, Customer Operations and Readiness.
|  | Director, Defense Logistics Agency Disposition Services.
|  | Director, Enterprise Planning and Transformation.
|  | General Counsel.
|  | Director, Defense Logistics Agency Human Resources.
|  | Director, Defense Logistics Agency Information Operation.
|  | Executive Director, Aviation Contracting and Acquisition Management.
|  | Principal Deputy Comptroller.
|  | Deputy Commander, Defense Logistics Agency Distribution.
|  | Deputy General Counsel, Defense Logistics Agency.
|  | Deputy Commander, Defense Logistics Agency Troop Support.
|  | Deputy Commander, Defense Logistics Agency Aviation.
|  | Deputy Commander, Defense Logistics Agency, Land and Maritime.
|  | Executive Director, Support—Policy and Strategic Programs.
|  | Program Executive Officer.
|  | Chief Financial Officer and Director, Defense Logistics Agency.
|  | Deputy Director, Information Operations and Chief Technical Officer.
| Defense Human Resources Activity | Deputy Director, Advisory Services, Defense Human Resources Activity.
|  | Director, Human Resources Operational Programs and Advisory Services.
|  | Deputy Director, Defense Manpower Data Center.
|  | Director, Defense Manpower Data Center.
|  | Chief Actuary, Defense Human Resources Activity.
| Defense Contract Management Agency | Chief Operations Officer.
|  | Deputy Director, Defense Contract Management Agency.
|  | Executive Director, Financial and Business Operations and Comptroller.
|  | General Counsel.
|  | Deputy Executive Director, Contract Management Operations.
|  | Executive Director, Ground Systems and Munitions Division.
|  | Executive Director, Naval Sea Systems Division, Boston Division.
|  | Executive Director, Contracts.
|  | Director, Defense Contract Management Agency.
|  | Deputy Executive Director, Portfolio Management and Integration.
|  | Deputy Chief Operations Officer.
|  | Executive Director, Quality Assurance.
|  | Executive Director, Portfolio Management and Integration.
| Defense Information Systems Agency | Vice Director, Procurement and Vice Chief, Defense Information Technology Contracting Office.
|  | Test and Evaluation Executive.
|  | Program Executive Officer, Communication.
|  | Vice Director, Network Services.
|  | Director, Network Services.
|  | Principal Director, Operations Director.
|  | Component Acquisition Executive.
|  | Base Realignment and Closure Transition Executive.
|  | Director, Procurement and Chief, Defense Information Technology Contracting Organization.
|  | Director, Enterprise Engineering.
|  | Director, Enterprise Information Services.
|  | Vice Principal Director, Operations.
|  | Congressional Liaison Officer.
|  | Inspector General.
|  | Director, Strategic Planning and Information.
|  | Chief Financial Executive and Comptroller.
|  | Principal Director, Computing Services.
|  | Chief Technology Officer.
|  | Deputy Chief Financial Executive and Comptroller.
|  | Chief, Corporate Planning and Mission Integrations.
|  | Chief Information Assurance Executive and Program Executive Officer, Mission Assurance and Network Operations.
|  | Deputy Chief Technology Officer, Mission Assurance.
|  | Director, Department of Defense Information Network Readiness and Security Inspections.
|  | Director, Joint Information Environmental Technical Synchronization Office.
|  | Director, Manpower, Personnel and Security.
|  | Cyber Security, Risk Management and Authorizing Official Executive.
|  | Deputy Chief Technology Officer, Enterprise Services.
| Defense Threat Reduction Agency | Director, Basic and Applied Sciences Department.
|  | Deputy Director, Operations Directorate.
|  | Director, On-Site Inspection Department.
|  | Executive Director.
|  | Director, Research and Development Directorate.
|  | Chief Scientist.
|  | Director, Acquisition, Finance and Logistics Directorate.
|  | Director, Nuclear Technologies Department.
|  | Director, Cooperative Threat Reduction Department.
|  | Associate Director, Strategy and Plans Enterprise.
|  | Director, Operations, Readiness and Exercises Directorate.
|  | Director, Counter Weapons of Mass Destruction Technologies Department.
| Defense Security Cooperation Agency | Foreign Relations Defense Policy Manager and Principal Director, Strategy.
| Defense Commissary Agency | Director.
DEPARTMENT OF THE AIR FORCE | Department of the Air Force | Executive Director, Africa.
|  | Director, Civilian Force Management.
|  | Deputy Director, Logistics.
|  | Director, 448 Combat Sustainment Wing.
|  | Deputy Director, Operations.
|  | Deputy Director, Military Force Management.
|  | Director of Policy, Programs and Strategy, International Affairs.
|  | Associate Deputy Assistant Secretary, Programs.
|  | Executive Director.
|  | Deputy Assistant Secretary, Logistics.
|  | Chief Information Officer and Deputy Director, Plans and Integration.
|  | Director, Diversity and Inclusion (2).
|  | Director, Programs and Resources.
|  | Director, Cyber Capabilities and Compliance.
|  | Deputy Director, Requirements.
|  | Director, Space Security and Defense Program.
|  | Deputy Director, Security, Special Program Oversight, and Information Protection.
|  | Deputy Director, Strategic Planning.
|  | Deputy Director, Manpower, Organization and Resources.
|  | Director, Contracting.
|  | Deputy Director, Security Forces.
|  | Deputy Director, Force Development and Air Force Senior Language Authority.
|  | Director, Engineering and Technical Management.
|  | Director, Joint Staff and Assistant to Chief and Vice Chief National Guard Bureau.
|  | Director, Installations, Logistics and Mission Support.
|  | Director, Communications and Information.
|  | Director, Financial Management and Comptroller.
|  | Deputy Director, Policy, Programs and Strategy, International Affairs.
|  | Executive Director, Air National Guard.
| Office of the Secretary | Deputy Director, Legislative Liaison.
|  | Deputy and Technical Director, Rapid Capabilities Office.
|  | Deputy Director, Warfighter Systems Integration and Deployment.
|  | Director, Air Force Rapid Capabilities Office.
| Office of the Under Secretary | Deputy Under Secretary, Air Force, Space Programs.
| Office of Deputy Under Secretary (International Affairs) | Deputy Under Secretary, International Affairs.
|  | Director, Strategy, Operations, and Resources.
|  | Director, Policy, International Affairs.
| Office of Administrative Assistant to the Secretary | Director Security, Special Program Oversight and Information Protection.
|  | Director, Headquarters Air Force Information Management.
|  | Administrative Assistant.
|  | Deputy Administrator Assistant.
|  | Executive Director, Office of Special Investigations.
| Office of Small and Disadvantaged Business Utilization | Director, Office of Small and Disadvantaged Business Utilization.
| Office of Public Affairs | Deputy Director, Public Affairs.
| Office of Auditor General | Auditor General, Air Force.
|  | Assistant Auditor General, Field Offices Directorate.
| Air Force Audit Agency (Field Operating Agency) | Assistant Auditor General, Support and Personnel Audits.
|  | Assistant Auditor General, Acquisition and Logistics Audits.
| Air Force Office of Special Investigations (Field Operating Agency) | Executive Director, Defense Cyber Crime Center.
|  | Deputy Director, Security, Special Program Oversight and Information Protection.
| Office of the General Counsel | Principal Deputy General Counsel.
|  | Deputy General Counsel, International Affairs.
|  | Deputy General Counsel, Acquisition.
|  | Deputy General Counsel, Installations and Environmental Law.
|  | Director, Global Combat Support.
| Office of Assistant Secretary Air Force for Financial Management and Comptroller | Chief Information Officer.
| Office of Deputy Assistant Secretary Budget | Associate Deputy Assistant Secretary, Budget.
|  | Director, Budget Investment.
|  | Director, Budget Management and Execution.
| Office of Deputy Assistant Secretary Cost and Economics | Deputy Assistant, Cost and Economics.
|  | Associate Deputy Assistant Secretary, Cost and Economics.
|  | Deputy Assistant Secretary, Cost and Economics.
| Office of Deputy Assistant Secretary Financial Operations | Associate Deputy Assistant Secretary, Financial Operations.
|  | Deputy Assistant Secretary, Plans, Systems and Analysis.
| Office of Assistant Secretary Air Force for Acquisition | Deputy Assistant Secretary, Science, Technology and Engineering.
|  | Deputy Assistant Secretary, Acquisition Integration.
|  | Associate Deputy Assistant Secretary, Science, Technology and Engineering.
|  | Director, Information Dominance Programs.
|  | Deputy Air Force Program Executive Officer, Combat and Mission Support.
|  | Director of Contracting, Special Access Programs.
|  | Associate Deputy Assistant Secretary, Acquisition Integration.
|  | Associate Deputy Assistant Secretary, Acquisition Integration.
| Chief Information Office | Deputy Chief Information Officer.
| Office of Deputy Assistant Secretary Contracting | Associate Deputy Assistant Secretary, Contracting.
| Office of Directorate of Space and Nuclear Deterrence | Deputy Assistant Chief of Staff, Strategic Deterrence and Nuclear Integration.
|  | Associate Director, Nuclear Weapons and Counter proliferation.
| Air Force Review Boards Agency (Air Force Review Boards Agency)—Field Operating Agency | Deputy, Air Force Review Boards.
| Office of Assistant Secretary Air Force, Installations, Environment, and Logistics | Deputy Assistant Secretary, Energy.
|  | Deputy Assistant Secretary, Logistics.
| Office Deputy Assistant Secretary, Installations | Deputy Assistant Secretary, Installations.
| Office of the Chief of Staff | Director, Air Force History and Museums Policy and Programs.
|  | Deputy Director of Staff.
|  | Air Force Historian.
| Air Force Office of Safety and Air Force Safety Center (Field Operating Agency) | Deputy Chief, Safety.
| Office of Judge Advocate General | Director, Administrative Law.
| Office of Test and Evaluation | Director, Test and Evaluation.
|  | Deputy Director, Test and Evaluation.
| Air Force Studies and Analyses Agency (Direct Reporting Unit (DRU)) | Principle Deputy Director, Studies and Analyses, Assessments and Lessons Learned.
|  | Director, Air Force Studies and Analyses, Assessments and Lessons Learned.
| Office of Deputy Chief of Staff, Warfighting Integration | Director, Architecture and Operational Support Modernization.
|  | Deputy Director, Information Services and Integration.
| Office of Deputy Chief of Staff, Installations and Logistics | Director, CE Center.
|  | Assistant Deputy Chief of Staff, Installation and Logistics.
|  | Deputy Director, Security Forces.
| Office of Civil Engineer | Deputy Civil Engineer.
| Office of Logistics Readiness | Associate Deputy Director, Logistics.
| Office of Resources | Associate Deputy, Logistics.
|  | Director, Resource Integration.
| Air Force Center for Environmental Excellence (Field Operating Agency) | Director, Air Force Civil Engineer Center.
| Office of Deputy Chief of Staff, Plans and Programs | Associate Director, Programs.
|  | Assistant Deputy Chief of Staff, Strategic Plans and Programs.
|  | Deputy Director, Strategic Planning.
| Office of Deputy Chief of Staff, Personnel | Deputy Director, Airman Development and Sustainment.
|  | Deputy Director, Airman Development and Sustainment.
|  | Deputy Director, Air Force Manpower, Organization and Resources.
|  | Deputy Director, Services.
|  | Director, Plans and Integration.
|  | Deputy Director, Force Management Policy.
|  | Assistant Deputy Chief of Staff, Personnel.
|  | Director, Airman Development and Sustainment.
| Air Force Personnel Center (Field Operating Agency) | Executive Director, Air Force Personnel Center.
| Office of Deputy Chief of Staff, Air and Space Operations | Deputy Director, Operational Planning, Policy and Strategy.
|  | Deputy, Operations.
|  | Deputy Director of Operational Planning, Policy, and Strategy.
|  | Director, Weather.
|  | Associate Deputy Chief of Staff Operations, Plans and Requirements.
|  | Director, Irregular Warfare.
| Office of Deputy Chief of Staff for Intelligence, Surveillance and Reconnaissance | Director of Intelligence, Surveillance, and Reconnaissance (ISR) Innovations and Unmanned Aerial Systems (UAS) Task Force.
| Air Force Operational Test and Evaluation Center (Direct Reporting Unit) | Executive Director, Air Force Operational Test and Evaluation Center.
| Air Force Materiel Command | Director, Financial Management.
|  | Director, Communications, Installations, and Mission Support.
|  | Executive Director, Air Force Nuclear Weapons Center (AFNWC).
|  | Director, Enterprise Sourcing Group.
|  | Program Executive Officer, Business Enterprise Systems.
|  | Principal Deputy to the Staff Judge Advocate.
|  | Director, Manpower, Personnel and Services.
|  | Director, National Museum of the United States Air Force.
|  | Executive Director, Air Force Material Command.
| Office of Contracting | Director, Contracting, Air Force Material Command.
| Office of Logistics | Deputy Director, Logistics.
| Office of Engineering and Technical Management | Director, Engineering and Technical Management, Air Force Material Command.
| Office of Financial Management and Comptroller | Deputy Director, Financial Management and Comptroller.
|  | Deputy Director, Financial Management and Comptroller, Air Force Material Command.
| Office of Plans and Programs | Director, Acquisition, Intelligence, and Requirements.
| Office of Requirements | Deputy Director, Intelligence, Surveillance, Reconnaissance and Requirements.
| Office of Operations Directorate | Deputy Director, Air, Space and Information Operations.
| Air Force Materiel Command Law Office | Director, Air Force Materiel Command Law Office.
| Air Force Office of Scientific Research | Director, Physics and Electronics Sciences.
|  | Director, Air Force Office of Scientific Research.
| Electronic Systems Center | Director, Engineering and Technical Management, Electronic Systems Center.
|  | Director, Contracting, Electronic Systems Center.
|  | Program Executive Officer, Battle Management.
| Aeronautical Systems Center | Program Executive Officer, Mobility Aircraft.
|  | Director of Engineering, Joint Strike Fighter.
|  | Program Executive Officer, Agile Combat Support.
|  | Director, Contracting, Aeronautical Systems Center.
|  | Executive Director, Air Force Life Cycle Management Center (AFLCMC).
| Engineering Directorate | Director, Engineering, Air Force Life Cycle Management Center (AFLCMC).
| Air Force Research Laboratory | Executive Director, Air Force Research Laboratory.
|  | Director, Plans and Programs, Air Force Research Laboratory.
|  | Director, Materials and Manufacturing, Air Force Material Command.
| Office of Air Force Research Laboratory, Munitions Directorate | Director, Munitions, Air Armament Center.
| Office of Information Directorate | Director, Information.
| Office of Directed Energy Directorate | Director, Directed Energy.
| Office of Materials and Manufacturing Directorate | Director, Materials and Manufacturing.
| Office of Sensors Directorate | Director, Sensors.
| Office of Human Effectiveness Directorate | Director, Human Effectiveness Directorate.
| Air Force Flight Test Center | Executive Director, Air Force Flight Test Center.
| Air Logistics Center, Oklahoma City | Director of Logistics, Air Force Specialty Codes.
|  | Executive Director, Air Force Specialty Codes.
|  | Director, Engineering and Technical Management, Air Force Specialty Codes.
|  | Director, Contracting, Air Logistics Center, Oklahoma City.
|  | Director, 448th Combat Sustainment Wing.
| Air Logistics Center, Warner Robins | Director, Contracting, Air Logistics Center, Warner Robins.
| Air Logistics Center, Ogden | Director, Engineering and Technical Management, Air Logistics Center, Ogden.
|  | Director, Contracting, Air Logistics Center, Ogden. Director, Engineering and Technical Management, Air Force Material Command.
| Air Armament Center
| Air Combat Command | Director, Air Force Global Cyberspace Integration Center. Director, Acquisition Management and Integration Center. Deputy Director, Logistics, Air Combat Command.
| Air Mobility Command | Deputy Director, Installations and Mission Support, Air Mobility Command. Deputy Director, Logistics, Air Mobility Command.
| Air Education and Training Command | Director, International Training and Education. Director, Logistics, Installations and Mission Support, Air Education and Training Command.
| Air Force Reserve Command | Director of Staff.
| United States Central Command | Director, Resources, Requirements, Budget and Assessment. Deputy Director, Operations Interagency Action Group (IAG). Deputy Director, Logistics and Engineering. Deputy Director, Logistics and Engineering, United States Central Command.
| Air Force Space Command | Director, Space Protection Program Office. Director, Installations and Logistics, Air Force Space Command. Executive Director, Air Force Space Command.
| United States Special Operations Command | Deputy Director, Center for Special Operations Acquisition and Logistics.
|  | Director of Acquisition, United States Special Operations Command.
|  | Director, Plans, Policy and Strategy, United States Special Operations Command.
|  | President, Joint Special Operations University.
|  | Director and Chief Information Officer, Special Operations Networks and Communications Center.
|  | Director, Financial Management and Comptroller, United States Special Operations Command.
|  | Director, Interagency Task Force, United States Special Operations Command.
| Air Force Special Operations Command | Director, Financial Management and Comptroller, Air Force Special Operations Command.
| Space and Missile Systems Center | Deputy Director and Chief Technical Advisor. Director, Launch Enterprise. Director, Milsatcom Systems Wing.
| United States Strategic Command | Director, Capability and Resource Integration.
|  | Director, Global Innovation Strategy Center.
|  | Associate Director, Capability and Resource Integration.
|  | Deputy Director, Plans and Policy, U.S. Strategic Command.
|  | Director, Global Innovation Strategy Center.
|  | Deputy Director, Capability and Resource Integration.
|  | Executive Director, Joint Warfare Analysis Center.
|  | Special Command Advisor, Information Assurance and Cyber Security.
|  | Director, Command, Control, Command Computer Systems.
|  | Director, Joint Exercises and Training, United States Strategic Command.
| United States Transportation Command | Director, Program Analysis and Financial Management.
|  | Deputy Director, Strategies and Policy, United States Transportation Command.
|  | Deputy Director of Command, Control Communications, and Computer Systems.
|  | Director, Acquisition.
|  | Executive Director, Joint Enabling Capabilities Command.
|  | Executive Director.
| Joint Staff | Director, Joint Information Operations Warfare Center.
| United States Northern Command | Director, Programs and Resources, United States Northern Command.
|  | Director, Joint Exercises and Training, United States Northern Command.
|  | Director, Interagency Coordination, United States Northern Command.
|  | Deputy Commander, Joint Forces Headquarters, National Capital Region.
|  | Domestic Policy Advisor.
DEPARTMENT OF THE ARMY | Department of the Army | Deputy to the Commanding General of the Army, North.
| Office of the Secretary | Director, Test and Evaluation Office.
|  | Executive Director, Army National Cemeteries Program.
|  | Deputy Chief Management Officer.
|  | Superintendent, Arlington National Cemetery.
| Office of the Under Secretary | Director, Business Transformation Directorate.
|  | Deputy Director, Office of Business Transformation, Office of the Under Secretary of the Army.
|  | Deputy to the Deputy Under Secretary of the Army.
| Office of the Administrative Assistant to the Secretary of the Army | Deputy Administrative Assistant to the Secretary of the Army, Director for Shared Services.
|  | Administrative Assistant to the Secretary of the Army.
|  | Executive Director, United States Army Headquarters Services.
|  | Executive Director, United States Army Information Technology Agency.
|  | Director, United States Army Center of Military History and Chief, Military History.
| Office of the Assistant Secretary of the Army (Civil Works) | Deputy Assistant Secretary of the Army, Management and Budget.
| Office of the Assistant Secretary of the Army (Financial Management and Comptroller) | Deputy Director and Senior Advisor, Army Budget, Budget. Director, Programs and Strategy.
|  | Deputy Assistant Secretary of the Army, Financial Operations.
|  | Director, Investment.
|  | Deputy Assistant Secretary of the Army, Cost and Economics.
|  | Director, Management and Control.
|  | Director, Accountability and Audit Readiness.
|  | Director, Financial Information Management.
|  | Director, Military Personnel and Facilities.
| Office of the Assistant Secretary of the Army (Installations and Environment) | Deputy Assistant Secretary of the Army, Environment, Safety and Occupational Health. Deputy Assistant Secretary of the Army, Infrastructure Analysis and Evaluation.
| Office of the Assistant Secretary of the Army (Manpower and Reserve Affairs) | Deputy Assistant Secretary of the Army, Diversity and Leadership. Director, Strategic Initiatives Group.
|  | Deputy Assistant Secretary of the Army, Marketing and Director, Army Marketing Research Group.
|  | Deputy Assistant Secretary of the Army, Force Management and Director, Civilian Senior Leader Management Office.
|  | Executive Advisor to the Assistant Secretary of the Army, Manpower and Reserve Affairs.
|  | Deputy Assistant Secretary of the Army, Military Personnel and Quality of Life.
|  | Deputy Assistant Secretary of the Army, Civilian Personnel and Director, Civilian Senior Leader Management Office.
|  | Deputy Assistant Secretary of the Army, Plans and Resources.
|  | Deputy Assistant Secretary of the Army, Military Personnel.
|  | Deputy Assistant Secretary of the Army, Civilian Personnel and Quality of Life.
|  | Deputy Assistant Secretary of the Army, Army Review Boards Agency.
| Office of the Assistant Secretary of the Army (Acquisition, Logistics and Technology) | Executive Director, Agile Acquisition. Director, United States Army Acquisition Support Center and Deputy Director, Acquisition Career Management.
|  | Executive Director, Acquisition Services and Assistant Secretary of the Army, Acquisition, Logistics and Technology.
|  | Deputy Assistant Secretary of the Army, Acquisition Policy and Logistics and Assistant Secretary of the Army, Acquisition, Logistics and Technology.
|  | Director, Systems of Systems Engineering.
|  | Deputy Assistant Secretary, Research and Technology and Chief Scientist.
|  | Director, Technology.
|  | Director, Research and Laboratory Management.
|  | Deputy Assistant Secretary of the Army, Plans, Programs and Resources.
|  | Deputy Assistant Secretary of the Army, Policy and Procurement.
|  | Deputy Assistant Secretary of the Army, Defense Exports and Cooperation.
| Army Acquisition Executive | Deputy Program Executive Officer, Ground Combat Systems. Deputy Program Executive Officer, Missiles and Space, Fires.
|  | Deputy Joint Program Executive Officer, Chemical and Biological Defense.
|  | Deputy Program Executive Officer, Simulation, Training and Instrumentation.
|  | Deputy Program Executive Officer, Enterprise Information Systems.
|  | Program Executive Officer, Combat Support and Combat Service Support.
|  | Deputy Program Executive Officer, Combat Support and Combat Service Support.
|  | Program Executive Officer, Simulation, Training and Instrumentation.
|  | Deputy Program Executive Officer, Soldier.
|  | Deputy Program Executive Officer, Ammunition.
|  | Deputy Program Executive Officer, Aviation.
|  | Program Executive Officer, Enterprise Information Systems.
|  | Deputy Program Executive Officer, Command Control and Communications Tactical.
|  | Program Executive Officer, Ammunition.
|  | Chief Science and Technology Advisor.
|  | Program Executive Officer, Intelligence, Electronic Warfare and Sensors.
|  | Program Executive Officer, Assembled Chemical Weapons Alternative.
|  | Joint Program Executive Officer, Chemical and Biological Defense.
|  | Program Executive Office, Ground Combat Systems.
| Army Contracting Agency | Deputy to the Commanding General, Army Contracting Command.
| Office of the Inspector General | Principal Director to the Inspector General, Inspections.
| Chief Information Officer/G-6 | Director, Cybersecurity. Principal Deputy, Chief Information Officer and G-6, Enterprise Integration.
|  | Deputy Chief Information Officer and G-6.
|  | Director for Army Architecture Integration Cell.
|  | Director, Governance, Acquisition, and Chief Knowledge Officer.
| Office of the Chief of Public Affairs | Principal Deputy Chief of Public Affairs.
| Army Audit Agency | The Auditor General, U.S. Army.
|  | Deputy Auditor General, Manpower and Training Audits.
|  | Principal Deputy Auditor General.
|  | Deputy Auditor General, Acquisition and Logistics Audits.
|  | Deputy Auditor General, Financial Management Audits.
|  | Deputy Auditor General, Installation, Energy and Environment Audits.
| United States Army Test and Evaluation Command | Director, Ballistic Missile Evaluation Directorate, Army Evaluation Center. Executive Director, Operational Test Command.
|  | Executive Director, White Sands.
|  | Director, Army Evaluation Center.
| Office of the Chief of the Army Reserve | Director, Human Capital, Office of the Chief of the Army Reserve.
|  | Assistant Chief of the Army Reserve.
|  | Director, Resource Management and Material.
|  | Chief Executive Officer.
| Office of the Assistant Chief of Staff for Installation Management | Regional Director, Central. Deputy Assistant Chief of Staff, Installation Management.
|  | Regional Director, Pacific.
|  | Regional Director, Europe.
|  | Director, Logistics.
|  | Director, Installation Services.
|  | Executive Director and Director, Services.
|  | Regional Director, Atlantic.
|  | Director, Human Resources.
|  | Director, Resource Integration.
|  | Director, Family, Morale, Welfare and Recreation Programs, G-9.
|  | Chief Information Technology Officer, Office of the Assistant Chief of Staff for Installation Management.
|  | Director, Facilities and Logistics.
| Office of the Deputy Chief of Staff, G-4 | Director, Force Projection and Distribution.
|  | Director for Maintenance Policy, Programs and Processes.
|  | Director, Resource Management.
|  | Director, Logistics Information Management.
|  | Assistant Deputy Chief of Staff, G-4.
|  | Director, Logistics Innovation Agency.
|  | Director, Supply Policy, Programs and Processes.
| Office of the Deputy Chief of Staff, G-8 | Director, Resources and Deputy Director, Force Development.
|  | Assistant Deputy Chief of Staff, G-8.
|  | Director, Quadrennial Defense Review.
| Office of the Deputy Chief of Staff, G-3 | Deputy Director, Training and Leader Development.
|  | Deputy Director, Plans and Policy.
|  | Director, Capabilities Integration Directorate.
|  | Deputy Director, Force Management.
|  | Assistant Deputy Chief of Staff, Operations, G-3/5/7.
| Office of the Deputy Chief of Staff, G-1 | Director, Army Resiliency Directorate for Office Deputy Chief of Staff, G-1.
|  | Director, Military Human Resources Integration.
|  | Assistant G-1, Civilian Personnel Policy.
|  | Assistant Deputy Chief of Staff, G-1.
|  | Director, Plans and Resources.
|  | Director, Manprint Directorate.
| Army Research Institute (Deputy Chief of Staff for Personnel, Field Operating Agency) | Director, United States Army Research Institute and Chief Psychologist.
| Office of the Surgeon General | Chief of Staff. Deputy Chief of Staff and Assistant Surgeon General, Force Management.
|  | Chief of Staff, Health System Administration.
| United States Army Medical Research and Materiel Command | Principal Assistant, Research and Technology. Principal Assistant, Acquisition.
| United States Army Medical Department Center and School | Deputy to the Commanding General.
| United States Army Space and Missile Defense Command | Director, Space and Cyberspace Technology Director. Deputy to the Commander and Senior Department of the Army Civilian for United States Army Space and Missile Defense Command/Army Forces Strategic Command.
|  | Director, Space and Missile Defense Technical Center.
|  | Director, Space and Missile Defense Battle Laboratory.
|  | Director, Emerging Technology.
|  | Chief Technology Officer.
| U.S. Army Training and Doctrine Command (TRADOC) | Deputy to the Commanding General, Army Aviation Center of Excellence and Director, Capabilities Development and Integration.
|  | Deputy Chief of Staff, G6, United States Training and Doctrine Command (TRADOC).
|  | Director, Concepts to Capabilities and Deputy Force 2025 Integration, Army Capabilities Integration Center.
|  | President, Army Logistics University.
|  | Assistant Deputy Chief of Staff, Combat Development.
|  | Assistant Deputy Chief of Staff, G-3/5/7, U.S. Army Training and Doctrine Command and Deputy G-3 for Training.
|  | Deputy to the Commanding General, Combined Arms Support Command.
|  | Deputy Chief of Staff, G8, United States Army Training and Doctrine Command.
|  | Deputy Chief of Staff, G-1/4, Personnel and Logistics).
|  | Deputy to the Commanding General, Fires/Director, Capabilities, Development and Integration.
|  | Deputy to the Commanding General, Signal Center of Excellence.
|  | Deputy to the Commanding General/Director, Capabilities Development and Integration.
|  | Deputy to the Commanding General Maneuver Support/Director, Capabilities Development and Integration.
|  | Deputy to the Commanding General, Combined Arms Center.
|  | Director, Capability Development Integration Directorate (CDID).
|  | Deputy G-3/5 for Operations and Plans, United States Army and Doctrine Command.
| Training and Doctrine Command Analysis Center | Director of Operations. Director of Operations.
|  | Director.
| Military Surface Deployment Distribution Command | Director, Transportation Engineering Agency/Director Joint Distribution Process Analysis Center.
|  | Deputy to the Commander, Surface Deployment and Distribution Command.
| United States Army Forces Command | Assistant Deputy Chief of Staff for Logistics and Readiness.
|  | Assistant Deputy Chief of Staff, G-3/5/7.
|  | Assistant Deputy Chief of Staff, G1.
|  | Deputy Chief of Staff for Resource Management.
|  | Assistant Deputy Chief of Staff, G-6.
| United States Army Network Enterprise Technology Command/9th Army Signal Command | Deputy for Cyber Operations/Director of Operations. Deputy to Commander/Senior Technical Director/Chief Engineer.
|  | Deputy to Commander, Army Cyber Command/2nd Army.
| United States Army Corps of Engineers | Director, Real Estate. Director of Human Resources.
|  | Director Contingency Operations/Chief, Homeland Security Office.
|  | Director of Contracting.
|  | Director, Research and Development and Director, Engineering Research and Development Center.
|  | Chief Military Programs Integration Division.
|  | Director, Information Technology Laboratory.
|  | Director of Resource Management.
|  | Director for Corporate Information.
| Directorate of Research and Development | Deputy Director of Research and Development.
| Directorate of Civil Works | Chief, Programs Management Division.
|  | Director of Civil Works.
|  | Chief, Engineering and Construction Division.
|  | Chief, Operations Division and Regulatory Community of Practice.
|  | Chief, Planning and Policy Division/Community of Practice.
| Directorate of Military Programs | Director of Military Programs. Chief, Environmental Community of Practice.
|  | Chief, Interagency and International Services Division.
|  | Chief, Installation Support Division.
| Directors of Programs Management | Division Programs Director (Southwestern Division).
|  | Division Programs Director (Pacific Ocean Division).
|  | Division Programs Director (Great Lake and Ohio River Division).
|  | Division Programs Director (Northwestern Division).
|  | Division Programs Director (South Pacific Division).
|  | Division Programs Director (Trans-Atlantic Division).
|  | Division Programs Director.
|  | Division Programs Director (North Atlantic Division).
|  | Division Programs Director (South Atlantic Division).
| Directors of Engineering and Technical Services | Regional Business Director, (Mississippi Valley Division).
|  | Regional Business Director (Northwestern Division).
|  | Regional Business Director (South Atlantic Division).
|  | Regional Business Director (South Pacific Division).
|  | Regional Business Director (Southwestern Division).
|  | Regional Business Director (North Atlantic Division).
|  | Regional Business Director (Pacific Ocean Division).
|  | Regional Business Director (Great Lakes, Ohio River Division).
| Engineer Research and Development Center | Director, Environmental Laboratory. Director Geotechnical and Structures Laboratory.
|  | Director, Coastal and Hydraulics Laboratory.
|  | Deputy Director Engineer Research and Development Center.
| Engineer Topographic Laboratories, Center of Engineers | Director, Army Geospatial Center.
| Construction Engineering Research Laboratory Champaign, Illinois | Director, Construction Engineering Research Laboratories.
| Cold Regions Research and Engineering Laboratory Hanover, New Hampshire | Director, Cold Regions Research and Engineering Laboratory.
| United States Army Materiel Command | Deputy G-3/4 for Current Operations. Assistant Deputy Chief of Staff, G-3/4 for Logistics Integration.
|  | Deputy Chief of Staff for Logistics, G-4.
|  | Deputy Chief of Staff for Corporate Information/Chief Information Officer.
|  | Deputy to the Commanding General/Director Logistics and Readiness Center.
|  | Chief Technology Officer.
|  | Deputy to the Commander, Mission Installation Contracting Command.
|  | Deputy to the Commander, United States Army Expeditionary Contracting Command.
|  | Executive Director, Munitions, Army Engineering Technology Center.
|  | Director, Communications-Electronics Life Cycle Management Command Logistics and Readiness Center.
|  | Executive Director, Weapons and Software Engineer Center.
| Office of Deputy Chief of Staff for Logistics and Operations | Principal Deputy G-3 for Operations/Executive Deputy, Supply Chain and Industrial Operations.
|  | Deputy G-3/4 for Strategy and Integration.
| Office Deputy Commanding General | Executive Deputy to the Commanding General.
| Office of Deputy Chief of Staff for Personnel | Deputy Chief of Staff for Personnel.
| Office of the Deputy Chief of Staff for Resource Management | Deputy Chief of Staff for Resource Management. Assistant Deputy Chief of Staff for Resource Management, G-8/Executive Director for Business.
| United States Army Contracting Command | Executive Director, Army Contracting Command-Warren.
|  | Executive Director, Army Contracting Command-National Capital Region.
|  | Executive Director Army Contracting Command at Redstone, Alabama.
| United States Army Security Assistance Command | Deputy to the Commanding General.
| United States Army Sustainment Command | Executive Director for Logistics Civil Augmentation Program.
|  | Executive Director for Ammunition.
|  | Executive Director Army Contracting Command—Rock Island.
|  | Deputy to the Commander.
|  | Executive Director for Field Support.
| Natick Soldier Center | Director, Natick Soldier Research and Development Engineering Center.
| United States Army Soldier and Biological Command (Soldier and Biological Command) | Director, Edgewood Chemical Biological Center. Director, Engineering Directorate.
|  | Director for Programs Integration.
|  | Executive Director, Army Contracting Command—Aberdeen.
|  | Director, Research and Technology Directorate.
| Communications Electronics Command Research, Development and Engineering Center | Director-Night Vision/Electromagnetics Sensors Directorate. Director, Command Power and Integration Directorate.
|  | Director, Space and Terrestrial Committee Directorate.
|  | Director, Intelligence and Information Warfare Directorate.
|  | Director, Software Engineering Directorate.
| United States Army Research Laboratory | Director, United States Army Research Laboratory.
|  | Director, Human Dimension Simulations and Training Directorate.
|  | Director, Computational and Information Sciences Directorate.
| Survivability/Lethality Analysis Directorate | Director, Survivability/Lethality Analysis Directorate.
| Army Research Office | Director, Army Research Office.
| Sensors and Electron Devices Directorate | Director, Sensors and Electron Devices Directorate.
| Weapons and Material Research Directorate | Director, Weapons and Materials Research Directorate.
| United States Army Aviation and Missile Command (Army Materiel Command) | Director for Weapons Development and Integration. Executive Director Integrated Materiel Management Center.
|  | Director for Engineering.
|  | Director for Test Measurement Diagnostic Equipment Activity.
|  | Director for Weapons Development and Integration.
|  | Deputy to the Commander.
| Missile Research Development and Engineering Center (Research Development and Engineering Center) | Director for Aviation and Missile Research, Development and Engineering Center. Director for Aviation Development.
|  | Director for Systems Simulation, Software, and Integration.
| Aviation Research, Development and Engineering Center | Army Aviation and Missile Command Director, Special Programs (Aviation).
|  | Director of Aviation Engineering.
| Research, Development and Engineering Command | Director, Research Development and Engineering Command. Director, Communications-Electronics Research, Development and Engineering Center.
|  | Deputy Director, Research, Development and Engineering Command.
| Tank-Automotive and Armaments Command (Tank-Automotive and Armaments Command) | Director of Acquisition Center. Deputy to the Commander.
|  | Director, Integrated Logistics Support Center.
| Tank-Automotive Research, Development and Engineering Center (Tank-Automotive Research, Development and Engineering Center) | Executive Director for Product Development. Executive Director for Engineering.
|  | Director, Tank-Automotive Research, Development and Engineering Center.
|  | Director, Research, Technology Development and Integration.
| United States Army Armament Research, Development and Engineering Center | Director for Armament Research, Development and Engineering. Executive Director, Enterprise and Systems Integration Center.
| United States Army Joint Munitions Command | Deputy to the Commander, Joint Munitions Command.
| United States Army Materiel Systems Analysis Activity | Technical Director. Director, Army Materiel Systems Analysis Activity.
| Headquarters, United States Army, Europe | Director, European Security and Defense Policy Defense Advisor to United States Mission, Europe.
|  | Deputy Chief of Staff, G1.
|  | Deputy Chief of Staff, G-8.
| United States Army Special Operations Command | Deputy to the Commanding General.
| United States Southern Command | Deputy Director of Operations, J3. Director, J8 (Resources and Assessments Directorate).
|  | Deputy Director, Strategy and Policy.
|  | Director for Partnering.
| United States European Command | Director, Interagency Partnering (J9). Deputy Director, Security Cooperation (Dj5).
| United States Africa Command | Deputy Director of Resources (J1/J8). Director of Resources (J1/J8), United States Africa Command.
|  | Foreign Policy Advisor for United States Africa Command.
|  | Deputy Director of Program (J5), United States Africa Command.
| Joint Special Operations Command | Executive Director for Resources, Support, and Integration.
| Headquarters, United States Army, Pacific | Assistant Chief of Staff, G8. Strategic Effects Director to Commander, United States Army, Pacific.
| United States Forces Korea | Deputy Director for Transformation and Restationing.
|  | Director for Forces, Resources and Assessments (J8).
| Joint Improvised Explosive Device Defeat Organization | Chief Information Officer. Vice Director, Joint Improvised Explosive Device Defeat Organization.
|  | Director, Counter Improvised Explosive Device Operational Integration Center.
|  | Deputy Director, Rapid Acquisition and Technology.
DEPARTMENT OF THE NAVY | Office of the Secretary | Chief Information Officer. Director, Operations Directorate.
|  | Director, Sexual Assault Prevention and Response.
|  | Assistant for Administration (2).
| Office of the Under Secretary of the Navy | Principal Director, Office of the Deputy Chief Management Officer.
|  | Director, Small Business Programs.
|  | Senior Director for Security.
|  | Principal Director to the Under Secretary of the Navy for Plans, Policy, Oversight and Integration.
|  | Principal Deputy Under Secretary of the Navy (Business Operations and Transformation).
|  | Senior Director for Policy.
|  | Director, Operations Integration Group.
|  | Deputy of Business Operations/Office of Business Transformation.
|  | Principal Director Deputy Under Secretary of the Navy (Policy).
|  | Senior Director (Policy and Strategy).
|  | Chief Information Officer.
|  | Senior Director (Capabilities and Concepts).
| Office of the Naval Inspector General | Deputy Naval Inspector General.
| Office of the Auditor General | Assistant Auditor General for Research, Development, Acquisition and Logistics Audits.
|  | Assistant Auditor General for Financial Management and Comptroller Audits.
|  | Auditor General of the Navy.
|  | Assistant Auditor General for Installation and Environment Audits.
|  | Assistant Auditor General for Manpower and Reserve Affairs Audits.
|  | Deputy Auditor General of the Navy.
|  | Assistant Auditor General for Financial Management and Comptroller Audits
|  | Auditor General of the Navy.
| Office of the Assistant Secretary of the Navy (Manpower and Reserve Affairs) | Principal Deputy Manpower and Reserve Affairs. Director, Human Resources Policy and Programs Department.
|  | Principal Deputy Assistant Secretary of the Navy (Manpower and Reserve Affairs).
|  | Deputy Assistant Secretary of the Navy (Reserve Affairs and Total Force Integration).
|  | Assistant General Counsel (Manpower and Reserve Affairs).
|  | Deputy Assistant Secretary of the Navy (Civilian Human Resources).
| Office of Civilian Human Resources | Director, Office of Civilian Human Resources.
|  | Director, Human Resources Policy and Program Department.
|  | Director, Human Resources Operations.
|  | Director, Human Resources Systems and Analytics.
| Office Assistant Secretary of the Navy (Energy, Installations and Environment) | Deputy Assistant Secretary of the Navy for Infrastructure, Strategy and Analysis. Deputy Assistant Secretary of the Navy (Energy).
|  | Director, Joint Guam Program Office.
|  | Assistant General Counsel (Energy, Installations and Environment).
| Office Assistant Secretary of the Navy (Research, Development and Acquisition) | Program Executive Officer for Defense Healthcare Management Systems. Deputy for Test and Evaluation.
|  | Deputy Assistant Secretary of the Navy (Management and Budget).
|  | Deputy Assistant Secretary of the Navy (Command, Control, Communications, Computers and Intelligence) Space).
|  | Executive Director, F-35, Joint Program Office.
|  | Deputy Assistant Secretary of the Navy (Ships).
|  | Chief of Staff/Policy.
|  | Principal Civilian Deputy Assistant Secretary of the Navy (Acquisition Workforce).
|  | Executive Director, Navy International Programs Office.
|  | Director, Program Analysis and Business Transformation.
|  | Assistant General Counsel (Research, Development and Acquisition).
|  | Special Assistant to Assistant Secretary of the Navy (Research, Development and Acquisition).
|  | Director, Ohio Replacement Program Office.
| Office of Program Executive Officers | Executive Director, Amphibious, Auxiliary and Sealift Ships, Program Executive Officers Ships.
|  | Executive Director, Program Executive Office, Littoral Combat Ships.
|  | Executive Director, Program Executive Officers for Integrated Warfare Systems.
|  | Director for Integrated Combat Systems for Integrated Warfare Systems.
|  | Deputy Program Executive Officer for Unmanned Aviation Programs.
|  | Executive Director, Program Executive Office Submarines.
|  | Deputy Program Executive Officers Air Assault and Special Mission.
|  | Program Executive Officer, Land Systems.
|  | Executive Director for Command, Control, Communications, Computers and Intelligence (C4i).
|  | Executive Director, Program Executive Office for Space Systems.
|  | Executive Director, Combatants, Program Executive Officers Ships.
|  | Executive Director, Program Executive Officers for Aircraft Carriers.
|  | Deputy Program Executive Officers for Strike Weapons.
|  | Deputy Program Executive Officers for Tactical Air Programs.
|  | Program Executive Officer (Enterprise Information Systems).
|  | Director for Above Water Sensors Directorate.
| Office of Strategic Systems Programs | Assistant for Systems Integration and Compatibility.
|  | Technical Plans and Payloads Integration Officer.
|  | Head, Resources Branch (Comptroller) and Deputy Director, Plans and Program Division.
|  | Assistant for Missile Engineering Systems.
|  | Assistant for Shipboard Systems.
|  | Director, Plans and Programs Division.
|  | Chief Engineer.
|  | Assistant for Missile Production, Assembly and Operations.
|  | Counsel, Strategic Systems Programs.
|  | Branch Head, Reentry Systems Branch.
|  | Director Integrated Nuclear Weapons Safety and Security, Director Strategic Systems Programs.
| Office of the Assistant Secretary of the Navy (Financial Management and Comptroller) | Director, Civilian Resources and Business Affairs Division. Associate Director, Office of Budget/Fiscal Management Division.
|  | Assistant General Counsel (Financial Management and Comptroller).
|  | Director, Investment and Development Division.
|  | Director, Budget and Policy and Procedures Division.
|  | Director, Program/Budget Coordination Division.
|  | Principal Deputy Assistant Secretary of the Navy (Financial Management and Comptroller).
|  | Special Assistant.
|  | Deputy Director, Financial Operations.
|  | Deputy Assistant Secretary of the Navy for Cost and Economics.
|  | Deputy Assistant Secretary of the Navy for Financial Operations.
| Office of the General Counsel | Assistant General Counsel (Intelligence Law).
|  | Special Counsel for Litigation.
|  | Assistant General Counsel (Acquisition Integrity).
| Naval Criminal Investigative Service | Criminal Investigator, Director, Naval Criminal Investigative Service.
|  | Criminal Investigator, Executive Assistant Director for Criminal Operations.
|  | Criminal Investigator, Executive Assistant Director for Pacific Operations.
|  | Criminal Investigator, Executive Assistant Director for Atlantic Operations.
|  | Criminal Investigator, Deputy Director, Naval Criminal Investigative Service.
|  | Criminal Investigator, Executive Assistant Director for Management and Administration.
|  | Criminal Investigator, Executive Assistant Director for Global Operations.
| Chief of Naval Operations | Head, Campaign Analysis Branch.
|  | Deputy Director, Energy and Environmental Readiness (N45b).
|  | Assistant Deputy Chief of Naval Operations, Fleet Readiness and Logistics.
|  | Director, Naval History and Heritage Command.
|  | Deputy Director, Fleet Readiness Division.
|  | Deputy Director, Undersea Warfare Division.
|  | Deputy Director, Surface Warfare Division.
|  | Deputy Director, Expeditionary Warfare Division.
|  | Deputy Director, Undersea Warfare Division.
|  | Deputy Director, Surface Warfare Division.
|  | Deputy Director, Expeditionary Warfare Division.
|  | Deputy Director, Air Warfare.
|  | Deputy Director, Program Division (N80b).
|  | Assistant Deputy Chief of Naval Operations, Warfare Systems.
|  | Director, Strategic Mobility and Combat Logistics Division.
|  | Director, Special Programs.
|  | Deputy Director, Afloat Readiness and Maintenance Division (N43).
|  | Deputy Director for Strategy and Policy.
|  | Director, Assessment and Compliance (N2/N6bc).
|  | Assistant Deputy Chief of Naval Operations for Information Dominance (N2/N6).
|  | Financial Manager and Chief Resources Officer for Manpower, Personnel, Training and Education.
|  | Assistant Deputy Chief of Naval Operations (Resources, Warfare Requirements and Assessments) N8b.
|  | Assistant Deputy Chief of Naval Operations (Logistics).
|  | Assistant Deputy Chief of Naval Operations (Manpower, Personnel, Training and Education).
| Office of the Commander, Navy Installations Command | Director, Strategy and Future Requirements. Deputy Regional Commander (Southeast).
|  | Director, Total Force Manpower.
|  | Comptroller.
|  | Deputy Regional Commander (Mid-Atlantic).
|  | Counsel, Commander Navy Installations Command.
|  | Deputy Commander.
|  | Director of Operations.
| Bureau of Medicine and Surgery | Deputy Chief, Total Force. Executive Director, Bureau of Medicine and Surgery.
|  | Deputy Chief, Resource Management/Comptroller.
|  | Director, Total Force.
|  | Comptroller/Deputy Chief of Staff for Resource Management.
| Military Sealift Command | Comptroller.
|  | Executive Director.
|  | Counsel, Military Sealift Command.
|  | Director, Government Operations and Special Mission Ships.
|  | Director, Contractor Operated Ships.
|  | Director, Military Sealift Command Manpower and Personnel.
| Naval Meteorology and Oceanography Communications, Stennis Space Center, Mississippi | Technical/Deputy Director.
| Office of Commander, United States Fleet Forces Command/Joint Forces Command | Deputy for Naval Air and Missile Defense Command. Deputy Chief of Staff, Fleet Installation and Environment.
|  | Deputy Director, Force Certification.
|  | Executive Director, Fleet Resources and Readiness Integration.
|  | Assistant Deputy Chief of Staff, Fleet Policy and Capabilities Requirements.
|  | Deputy Chief of Staff, Personnel Development and Allocation.
| Office of Commander, Submarine Forces | Executive Director, Submarine Forces.
| Office of Commander, Naval Expeditionary Combat Command | Executive Director, Navy Expeditionary Combat Command.
| Office of Navy Cyber Forces | Deputy Commander.
| Office of the Commander, United States Pacific Command | Director, Pacific Outreach Directorate. Director for Forces Resources and Management.
|  | Chief Information Officer.
| Office of the Commander, United States Pacific Fleet | Executive Director, Total Force Management. Executive Director, Pacific Fleet Plans and Policy.
|  | Executive Director, Naval Air Forces.
|  | Deputy Chief of Staff for C4/Chief Information Officer.
|  | Executive Director, Naval Surface Forces.
|  | Executive Director, Naval Air Forces.
|  | Deputy for Naval Mine and Anti-Submarine Warfare Command.
|  | Chief of Staff.
| Naval Air Systems Command Headquarters | Director Industrial Operations. F-35 Joint Strike Fighter, Director of Logistics and Sustainment.
|  | Director, Design Interface and Maintenance Planning.
|  | Director, Propulsion and Power.
|  | Deputy Counsel, Office of Counsel.
|  | Director, Strike Weapons, Unmanned Aviation, Naval Air Programs Contracts Department.
|  | Director, Air Anti-Submarine Warfare, Assault and Special Mission Programs Contracts Department.
|  | Director, Aviation Readiness and Resource Analysis.
|  | F-35 Product Support Manager.
|  | Counsel, Naval Air Systems Command.
|  | Director of Contracts, F-35 Joint Strike Fighter.
|  | Director, Cost Estimating and Analysis.
|  | Assistant Commander, Corporate Operations and Total Force.
|  | Deputy Assistant Commander for Logistics and Industrial Operations.
|  | Deputy Commander, Naval Air Systems Command.
|  | Deputy Assistant Commander for Research and Engineering.
|  | Assistant Commander for Acquisition Processes and Execution.
|  | Director, Tactical Aircraft and Missiles Contracts Department.
|  | Director, Logistics Management Integration.
|  | Director, Air Vehicles and Unmanned Air Vehicles.
|  | Director, Avionics Department.
|  | Director, Systems Engineering Department.
|  | Comptroller.
|  | Assistant Commander for Contracts.
|  | Director, Aviation Readiness and Resource Analysis.
|  | Director, Air Platform Systems.
| Naval Air Warfare Center Aircraft Division | Director, Flight Test Engineering. Director, Battlespace Simulation.
|  | Deputy Assistant Commander for Test and Evaluation/Executive Director Naval Air Warfare Center Aircraft Division/Director, Test and Evaluation, Naval Air Warfare Center Aircraft Division.
|  | Director, Aircraft Launch and Recovery Equipment/Support Equipment.
|  | Director, Integrated Systems Evaluation Experimentation and Test Department.
| Naval Air Warfare Center Weapons Division, China Lake, California | Director, Software Engineering. Director, Range Department.
|  | Director, Electronic Warfare/Combat Systems.
|  | Director, Weapons and Energetics Department.
|  | Executive Director, Naval Air Warfare Center Weapons Division/Director, Research Engineering.
| Naval Air Warfare Center Training Systems Division | Director, Human Systems Department.
| Space and Naval Warfare Systems Command | Executive Director. Executive Director, Fleet Readiness Directorate.
|  | Director Corporate Operations/Command Information Officer.
|  | Counsel, Space and Naval Warfare Systems Command.
|  | Director, Contracts.
|  | Assistant Chief Engineer for Mission Architecture and Systems Engineering.
|  | Director, Readiness/Logistics Directorate.
|  | Deputy Chief Engineer.
|  | Assistant Chief Engineer for Mission Engineering.
|  | Assistant Chief Engineer for Certification and Mission Assurance.
|  | Comptroller, Business Resources Manager.
| Space and Naval Warfare Systems Center | Comptroller/Business Resource Manager.
|  | Executive Director.
|  | Director, Science and Technology.
|  | Counsel, Space and Naval Warfare Systems Command.
| Space and Naval Warfare Systems Center, Charleston | Executive Director.
| Naval Facilities Engineering Command | Comptroller. Director, Navy Crane Center.
|  | Counsel, Naval Facilities Engineering Command.
|  | Director of Contracts Support.
|  | Chief Engineer.
|  | Director of Environment.
|  | Executive Director.
|  | Director of Asset Management.
|  | Assistant Commander/Chief Management Officer.
|  | Director, Public Works.
|  | Counsel, Naval Facilities Engineering Command.
|  | Director of Public Works.
|  | Deputy Commander, Acquisition.
|  | Executive Director.
|  | Comptroller.
| Naval Sea Systems Command | Director, Integrated Warfare Systems Engineering Group.
|  | Executive Director Naval Surface and Undersea Warfare Centers.
|  | Division Technical Director, Naval Surface Warfare Center Indian Head Explosive Ordinance Disposal Technology Division.
|  | Director for Ship Integrity and Performance Engineering.
|  | Director for Marine Engineering.
|  | Director of Radiological Controls.
|  | Assistant Deputy Commander, Maintenance, Modernization, Environment and Safety.
|  | Director for Advanced Undersea Integration.
|  | Executive Director, Surface Warfare Directorate.
|  | Executive Director.
|  | Director, Nuclear Components Division.
|  | Director, Undersea Systems Contracts Division.
|  | Head, Advanced Reactor Branch.
|  | Deputy Director for Advanced Submarine Reactor Servicing and Spent Fuel Management.
|  | Director for Aircraft Carrier Design and Systems Engineering.
|  | Deputy Counsel, Naval Sea Systems Command.
|  | Director, Surface Systems Contracts Division.
|  | Executive Director, Ship Design, and Engineering Directorate.
|  | Director, Fleet Readiness Division.
|  | Deputy Director, Advanced Aircraft Carrier System Division.
|  | Executive Director, Acquisition and Commonality.
|  | Division Technical Director, Naval Surface Warfare Center Port Hueneme Division.
|  | Director, Integrated Warfare Systems Engineering Group.
|  | Nuclear Engineering and Planning Manager.
|  | Deputy Commander/Comptroller.
|  | Director, Reactor Refueling Division.
|  | Deputy Commander, Human Systems Integration Directorate.
|  | Director, Office of Resource Management.
|  | Program Manager for Commissioned Submarines.
|  | Director for Submarine/Submersible Design and Systems Engineering.
|  | Director, Reactor Safety and Analysis Division.
|  | Director, Surface Ship Systems Division.
|  | Director, Reactor Plant Components and Auxiliary Equipment Division.
|  | Executive Director, Undersea Warfare Directorate.
|  | Executive Director for Logistics Maintenance and Industrial Operations Directorate.
|  | Deputy Commander, Corporate Operations Directorate.
|  | Deputy for Weapons Safety.
|  | Assistant Deputy Commander for Industrial Operations.
|  | Director, Shipbuilding Contracts Division.
|  | Director, Cost Engineering and Industrial Analysis.
|  | Director for Surface Ship Design and Systems Engineering.
|  | Director, Reactor Materials Division.
|  | Director for Contracts.
|  | Counsel, Naval Sea Systems Command.
| Naval Shipyards | Nuclear Engineering and Planning Manager; Portsmouth Naval Shipyard.
|  | Nuclear Engineering and Planning Manager; Pearl Harbor Naval Shipyard.
|  | Naval Shipyard Nuclear Engineering and Planning Manager, Norfolk Naval Shipyard.
|  | Nuclear Engineering and Planning Manager, Puget Sound Naval Shipyard.
| Naval Surface Warfare Center | Division Technical Director, Naval Surface Warfare Center Dahlgren Division.
| Naval Undersea Warfare Center | Technical Director.
| Naval Surface Warfare Center, Crane Division | Division Technical Director, Naval Surface Warfare Center, Crane Indiana.
| Naval Undersea Warfare Center Division, Keyport, Washington | Division Technical Director, Naval Undersea Warfare Center Division Keyport.
|  | Division Technical Director, Naval Undersea Warfare Center, Keyport Division.
| Naval Surface Warfare Center, Port Hueneme Division | Division Technical Director Naval Surface Warfare Center Port Hueneme Division.
| Naval Surface Warfare Center, Corona Division | Division Technical Director, Naval Surface Warfare Center, Corona Division.
| Naval Surface Warfare Center, Indian Head Division | Division Technical Director, Naval Surface Warfare Center, Indian Head Division.
| Naval Surface Warfare Center, Carderock Division | Division Technical Director, Naval Surface Warfare Center, Carderock Division.
| Naval Surface Warfare Center, Dahlgren Division | Division Technical Director Naval Surface Warfare Center Panama City Division.
| Naval Undersea Warfare Center Division, Newport, Rhode Island | Division Technical Director, Naval Undersea Warfare Center Division, Newport.
| Naval Supply Systems Command Headquarters | Deputy Commander, Corporate Operations. Counsel, Naval Supply Systems Command.
|  | Assistant Commander for Financial Management/Comptroller.
|  | Deputy Commander, Acquisition, Naval Supply Systems Command.
|  | Vice Commander.
|  | Senior Acquisition Logistician/Enterprise Resource Planning Program Manager.
|  | Executive Director, Office of Special Projects.
| Fleet and Industrial Supply Centers | Vice Commander, Global Logistics Support.
| Weapon Systems Support | Vice Commander, Navy Supply Weapon Systems Support.
| United States Marine Corps Headquarters Office | Director, Office of Marine Corps Communication Assistant Deputy Commandant for Plans Policies and Operations (Security).
|  | Deputy Counsel for the Commandant of the Marine Corps.
|  | Assistant Deputy Commandant for Programs and Resources.
|  | Assistant Deputy Commandant, Installations and Logistics.
|  | Assistant Deputy Commandant, Resources and Fiscal Director, Marine Corps.
|  | Assistant Deputy Commandant for Plans, Policies and Operations (Security).
|  | Deputy Counsel for the Commandant.
|  | Counsel for the Commandant.
|  | Assistant Deputy Commandant, Installations and Logistics (E-Business and Contracts).
|  | Director, Manpower Plans and Policy Division.
|  | Deputy Assistant Deputy Commandant Installations and Logistics (Facilities).
|  | Director, Program Assessment and Evaluation Division.
|  | Assistant Deputy Commandant for Aviation (Sustainment).
|  | Assistant Deputy Commandant for Manpower and Reserve Affairs.
| Marine Corps Systems Command | Deputy Commander for Resource Management.
|  | Executive Director.
|  | Deputy Commander, Command, Control, Communications, Computer, Intelligence, Surveillance and Reconnaissance.
| Marine Corps Combat Development Command; Quantico, Virginia | Executive Deputy Training and Education Command.
| Marine Corps Logistics Command Albany, Georgia | Executive Deputy, Marine Corps Logistics Command.
| Office of Naval Research | Head, Command, Control, Communications, Intelligence, Surveillance, and Reconnaissance (C4isr) Science and Technology Department.
|  | Director, Life Sciences Research Division.
|  | Director, Electronics, Sensors, and Networks Research Division.
|  | Director for Aerospace Science Research Division.
|  | Director, Mathematical, Computer, and Information Sciences Division.
|  | Director, Ocean, Atmosphere and Space Science and Technology Processes and Prediction Division.
|  | Director, Undersea Weapons and Naval Materials Science and Technology Division.
|  | Director of Innovation.
|  | Head, Expeditionary Warfare and Combating Terrorism Science and Technology Department.
|  | Patent Counsel of the Navy.
|  | Counsel, Office of Naval Research.
|  | Executive Director.
|  | Head, Warfighter Performance Science and Technology Department.
|  | Head, Command, Control, Communications, Intelligence, Surveillance, and Reconnaissance (C4isr) Science and Technology Department.
|  | Head, Ocean, Battlespace Sensing Science and Technology Department.
|  | Director of Transition.
|  | Head, Sea Warfare and Weapons Science and Technology Department.
|  | Executive Director for Acquisition Management.
|  | Comptroller.
|  | Director, Hybrid Complex Warfare Science and Technology Division.
|  | Head, Air Warfare and Weapons Science and Technology Department.
|  | Director, Ship Systems and Engineering Division.
| Naval Research Laboratory | Superintendent, Marine Geosciences Division.
|  | Superintendent, Information Technology Division.
|  | Superintendent, Material Science and Technology Division.
|  | Superintendent, Optical Sciences Division.
|  | Superintendent, Spacecraft Engineering Department.
|  | Superintendent, Space Sciences Division.
|  | Superintendent, Radar Division.
|  | Superintendent, Plasma Physics Division.
|  | Superintendent, Electronics Science and Technology Division.
|  | Superintendent, Remote Sensing Division.
|  | Superintendent, Marine Meteorology Division.
|  | Superintendent, Center for Bio-Molecular Science and Engineering.
|  | Director of Research.
|  | Associate Director of Research for Material Science and Component Technology.
|  | Superintendent, Chemistry Division.
|  | Superintendent, Optical Sciences Division.
|  | Superintendent, Tactical Electronic Warfare Division.
|  | Associate Director of Research for Business Operations.
|  | Associate Director of Research for Ocean and Atmospheric Science and Technology.
|  | Associate Director of Research for Systems.
|  | Superintendent, Space Systems Development Department.
|  | Director, Naval Center for Space Technology.
|  | Superintendent, Acoustics Division.
|  | Superintendent, Oceanography Division.
OFFICE OF THE SECRETARY OF DEFENSE OFFICE OF THE INSPECTOR GENERAL | Office of the General Counsel | General Counsel.
| Office of Communications and Congressional Liaison | Assistant Inspector General, Office of Communications and Congressional Liaison.
| Office of the Inspector General | Deputy Inspector General for Overseas Contingency Operations.
|  | Principal Deputy Inspector General.
| Office of the Deputy Inspector General for Auditing | Deputy Inspector General for Auditing.
| Office of the Principal Deputy Inspector General for Auditing | Principal Assistant Inspector General for Auditing.
| Office of Acquisition and Contract Management | Assistant Inspector General for Acquisition and Contract Management.
| Department of Defense Payments and Accounting Operations | Assistant Inspector General for Contract Management and Payments.
| Financial Management and Reporting | Assistant Inspector General for Financial Management and Reporting (2).
| Readiness, Operations and Support | Assistant Inspector General for Readiness and Cyber Operations.
| Deputy Inspector General for Investigations | Deputy Inspector General for Investigations.
|  | Deputy Director Defense Criminal Investigative Service.
| Defense Criminal Investigative Service | Assistant Inspector General for Investigations.
|  | Assistant Inspector General for Investigative Operations.
|  | Assistant Inspector General for International Operations.
| Office of the Deputy Inspector General for Policy and Oversight | Deputy Inspector General for Policy and Oversight.
| Office of Audit Policy and Oversight | Assistant Inspector General for Audit Policy and Oversight.
| Office of Investigative Policy and Oversight | Assistant Inspector General for Investigative Policy and Oversight.
| Office of the Deputy Inspector General for Intelligence and Special Program Assessments | Deputy Inspector General for Intelligence and Special Program Assessments (2).
| Office of Administration and Management | Assistant Inspector General for Administration and Management.
| Office of the Deputy Inspector General for Special Plans and Operations | Deputy Inspector General for Special Plans and Operations.
| Office of the Deputy Inspector General for Administrative Investigations | Deputy Inspector General Administrative Investigations.
DEFENSE NUCLEAR FACILITIES SAFETY BOARD | Defense Nuclear Facilities Safety Board | Group Lead for Performance Assurance. Deputy General Manager.
|  | Deputy General Counsel.
|  | Deputy Technical Director.
|  | Group Lead for Nuclear Facility Design and Infrastructure.
|  | Group Lead for Nuclear Weapon Programs.
|  | Group Lead for Nuclear Programs and Analysis.
|  | Group Lead for Nuclear Materials Processing and Stabilization.
|  | Technical Director.
DEPARTMENT OF EDUCATION | Department of Education | Director, Elementary, Secondary, and Vocational Analysis Division.
| Office of the Chief Financial Officer | Director, Contracts and Acquisitions Management.
|  | Executive Assistant to the Chief Financial Officer.
|  | Deputy Chief Financial Officer, Management and Operations.
|  | Deputy Chief Financial Officer.
|  | Director, Financial Improvement and Post Audit Operations.
| Office of the Chief Information Officer | Chief Information Officer. Director, Information Assurance and Chief Information Security Officer.
| Office of Management | Director, Security Services.
|  | Deputy Human Resources Director.
|  | Chairperson, Education Appeal Board.
|  | Director, Human Capital and Client Services.
| Office of the General Counsel | Assistant General Counsel for Educational Equity.
|  | Assistant General Counsel for Business and Administration Law.
|  | Assistant General Counsel for Postsecondary Education and Education Research Division.
| Office for Civil Rights | Enforcement Director (2).
|  | Deputy Assistant Secretary for Enforcement (2).
| Institute of Education Sciences | Associate Commissioner, Assessments Division.
| Office of Federal Student Aid | Chief Financial Officer.
DEPARTMENT OF EDUCATION OFFICE OF THE INSPECTOR GENERAL | Office of the Inspector General | Deputy Inspector General. Deputy Assistant Inspector General for Investigation Services.
|  | Deputy Assistant Inspector General for Audit Services.
|  | Counsel to the Inspector General.
|  | Assistant Inspector General for Information Technology Audits and Computer Crime Investigations.
|  | Assistant Inspector General for Investigative Services.
|  | Assistant Inspector General for Audit Services.
|  | Assistant Inspector General for Management Services.
DEPARTMENT OF ENERGY | Loan Programs Office | Director, Portfolio Management Division.
| National Nuclear Security Administration | Director, Office of Cost Estimating and Program Evaluation.
| Office of Associate Administrator for Acquisition and Project Management | Director, Acquisition Management.
| Office of Management and Budget | Director, Office of Field Financial Management.
| Office of the Deputy Administrator for Defense Programs | Manager, Los Alamos Site. Manager, Sandia Site Office.
|  | Manager, Savannah River Site Office.
|  | Principal Assistant Deputy Administrator for Defense Program.
|  | Manager, Livermore Field Office.
|  | Director, Office of Inertial Confinement Fusion.
|  | Manager, Nevada Site Office.
| Office of the Deputy Administrator for Naval Reactors | Director, Advanced Submarine Systems Division. Director, Regulatory Affairs.
|  | Director, Instrumentation and Control Division.
|  | Senior Naval Reactors Representative (Puget Sound Naval Ship).
|  | Senior Naval Reactors Representative.
|  | Manager, Naval Reactors Laboratory Field Office.
|  | Program Manager for Surface Ship Nuclear Propulsion.
|  | Deputy Director, Nuclear Technology Division.
|  | Senior Naval Reactors Representative (Yokosuka, Japan).
|  | Deputy Director for Naval Reactors.
| Office of Defense Nuclear Security | Director, Office of Security Operations and Programmatic Planning.
|  | Director, Office of Nuclear Materials Integration.
| National Nuclear Security Administration Field Site Offices | Deputy Manager, Sandia Field Office. Deputy Manager, National Nuclear Security Administration Production Office.
|  | Deputy Manager, Nevada Field Office.
| Office of Health, Safety and Security | Deputy Director, Office of Nuclear Safety.
|  | Deputy Director, Office of Headquarters Security Operations.
| Office of the Chief Information Officer | Assistant Deputy Chief Financial Officer, Financial System Integration.
|  | Associate Chief Information Officer for Energy Information Technology Services.
|  | Associate Chief Information Officer for Cyber Security.
|  | Deputy Chief Information Officer.
| Office of the Chief Human Capital Officer | Director, Office of Learning and Workforce Development (Chief Learning Officer).
|  | Director, Office of Human Capital Strategy, Budget and Performance Metrics.
|  | Director, Office of Human Capital Policy Accountability and Technology.
|  | Director, Office of Executive Resources.
| Office of Management | Director, Project Management.
|  | Director, Office of Contract Management.
| Office of the Chief Financial Officer | Deputy Chief Financial Officer.
| Office of Assistant Secretary for Energy Efficiency and Renewable Energy | Director, Geothermal Technologies Office.
|  | Deputy Director, Building Technologies Office.
|  | Director, Wind and Water Power Technologies Office.
|  | Director, Business Services Center.
| United States Energy Information Administration | Director, Office of Energy Consumption and Efficiency Analysis.
|  | Director, Office of Petroleum Gas and Biofuels Analysis.
|  | Assistant Administrator for Resources and Technology Management.
|  | Assistant Administrator for Communications.
|  | Director, Office of Integrated and International Energy Analysis.
|  | Director, Office of Survey Development and Statistical Integration.
|  | Director, Office of Petroleum and Biofuels Statistics.
|  | Director, Office of Oil, Gas and Coal Supply Statistics.
|  | Director, Office of Electricity, Coal Nuclear and Renewables.
|  | Assistant Administrator for Energy Analysis.
| Office of Assistant Secretary for Environmental Management | Chief Nuclear Safety.
|  | Director, Office of Project Assessment.
| Office of Science | Site Office Manager, Fermi.
| Chicago Operations Office | Assistant Manager, Acquisition and Assistance.
|  | Deputy Manager, Chicago Office.
| Oak Ridge Office | Chief Financial Officer.
|  | Assistant Manager for Administration.
| Office of General Counsel | Assistant General Counsel for General Law.
| Office of Hearings and Appeals | Director, Hearings and Appeals (Chief Administrative Judge).
|  | Director, Hearings and Appeals (Chief Administrative Judge).
| Office of Assistant Secretary for International Affairs | Director Office of Russian and Eurasian Affairs.
| Western Area Power Administration | Chief Operating Officer.
|  | Chief Financial Officer.
|  | Transmission Infrastructure Program Manager.
DEPARTMENT OF ENERGY OFFICE OF THE INSPECTOR GENERAL | Department of Energy Office of the Inspector General | Assistant Inspector General for Investigations.
|  | Director, Eastern Audits Division.
|  | Director, Central Audits Division.
|  | Assistant Inspector General for Audits.
|  | Assistant Inspector General for Audits and Administration.
|  | Deputy Inspector General for Investigations.
|  | Director, Western Audits Division.
|  | Deputy Inspector General for Audits and Inspections.
|  | Assistant Inspector General for Inspections.
|  | Assistant Inspector General, Management and Administration.
|  | Counsel to the Inspector General.
|  | Deputy Inspector General for Investigations and Inspections.
ENVIRONMENTAL PROTECTION AGENCY | Office of Executive Services | Director, Office of Executive Services.
| Office of the Chief Financial Officer | Associate Chief Financial Officer.
|  | Deputy Chief Financial Officer.
| Office of Planning, Analysis and Accountability | Director, Office of Planning, Analysis and Accountability.
| Office of Budget | Director, Office of Budget.
| Office of Financial Management | Director, Office of Financial Management.
| Office of Financial Services | Director, Office of Financial Services.
| Office of Technology Solutions | Director, Office of Technology Solutions.
| Office of Environmental Information | Director, Enterprise Information Technology Systems.
| Office of the Assistant Administrator for Administration and Resources Management | Deputy Assistant Administrator for Administration and Resources Management.
| Office of Policy and Resource Management | Director, Office of Policy and Resource Management.
| Office of Administration | Director, Office of Administration.
|  | Deputy Director, Office of Administration.
|  | Director, Facilities Management and Services Division.
|  | Director, Safety, Health and Environmental Management Division.
| Office of Human Resources | Deputy Director, Office of Human Resources.
|  | Director, Executive Resources Division.
|  | Director, Office of Human Resources.
| Office of Acquisition Management | Director, Office of Acquisition Management.
|  | Deputy Director, Office of Acquisition Management.
| Office of Grants and Debarment | Director, Office of Grants and Debarment.
|  | Deputy Director, Office of Grants and Debarment.
| Office of Administration and Resources Management—Cincinnati, Ohio | Director, Office of Administration and Resources Management.
| Office of Administration and Resources Management—Research Triangle Park, North Carolina | Director, Office of Administration and Resources Management.
| Office of Diversity, Advisory Committee Management and Outreach | Director, Office of Diversity, Advisory Committee Management and Outreach.
| Environmental Appeals Board | Environmental Appeals Judge (4).
| Office of the Assistant Administrator for Enforcement and Compliance Assurance | Senior Policy Director for Innovation and Next Generation Compliance.
| Federal Facilities Enforcement Office | Director, Federal Facilities Enforcement Office.
| Office of Environmental Justice | Director, Office of Environmental Justice.
| Office of Compliance | Director, National Enforcement Training Institute.
|  | Deputy Director, Office of Compliance.
|  | Director, Monitoring Assistance and Media Programs Division.
|  | Director, Enforcement Targeting and Data Division.
|  | Director, Office of Compliance.
| Office of Criminal Enforcement, Forensics and Training | Assistant Director, Office of Criminal Enforcement, Forensics and Training.
|  | Director, National Enforcement Investigations Center.
|  | Director, Office of Criminal Enforcement, Forensics and Training.
|  | Deputy Director, Office of Criminal Enforcement, Forensics and Training.
|  | Director, Criminal Investigation Division.
| Office of Federal Activities | Director, International Compliance Assurance Division.
| Office of Civil Enforcement | Deputy Director, Office of Civil Enforcement.
|  | Director, Air Enforcement Division.
|  | Director, Office of Civil Enforcement.
| Office of Site Remediation Enforcement | Director, Office of Site Remediation Enforcement.
|  | Deputy Director, Office of Site Remediation Enforcement.
| Office of Deputy General Counsel | Director, Resources Management Office.
| Office of Ground Water and Drinking Water | Director, Drinking Water Protection Division.
|  | Director, Standards and Risk Management Division.
| Office of Science and Technology | Director, Engineering and Analysis Division.
|  | Director, Standards and Health Protection Division.
|  | Director, Health and Ecological Criteria Division.
| Office of Waste Water Management | Director, Municipal Support Division.
|  | Director, Water Permits Division.
| Office of Wetlands, Oceans and Watersheds | Director, Wetlands Division.
|  | Director, Oceans and Coastal Protection Division.
|  | Director, Assessment and Watershed Protection Division.
| Office of Superfund Remediation and Technology Innovation | Director, Resources Management Division.
|  | Director, Assessment and Remediation Division.
|  | Director, Technology Innovation and Field Services Division.
| Office of Resource Conservation and Recovery | Director, Resource Conservation and Sustainability Division.
|  | Director, Materials Recovery and Waste Management Division.
|  | Director, Program Implementation and Information Division.
| Office of the Assistant Administrator for Air and Radiation | Director, Office of Policy Analysis and Review.
| Office of Air Quality Planning and Standards | Director, Air Quality Policy Division.
|  | Director, Outreach and Information Division.
|  | Director, Sector Policies and Programs Division.
|  | Director, Health and Environmental Impacts Division.
|  | Associate Office Director for Program Integration and International Air Quality Issues.
|  | Director, Air Quality Assessment Division.
| Office of Transportation and Air Quality | Director, Transportation and Climate Division.
|  | Director, Testing and Advanced Technology Division.
|  | Director, Assessment and Standards Division.
|  | Director, National Center for Advanced Technology.
|  | Director, Compliance Division.
| Office of Radiation and Indoor Air | Deputy Director, Office of Radiation and Indoor Air.
|  | Director, Radiation Protection Division.
|  | Director, Indoor Environments Division.
| Office of Atmospheric Programs | Director, Clean Air Markets Division.
|  | Director, Climate Protection Partnership Division.
|  | Director, Climate Change Division.
| Office of Program Management Operations | Associate Assistant Administrator (Management).
| Office of Pesticide Programs | Director, Field and External Affairs Division.
|  | Director, Information Technology and Resources Management Division.
|  | Director, Special Review and Reregistration Division.
|  | Director, Registration Division.
|  | Director, Biological and Economic Analysis Division.
|  | Director, Health Effects Division.
|  | Director, Biopesticides and Pollution Prevention Division.
|  | Director, Antimicrobials Division.
|  | Director, Environmental Fate and Effects Division.
| Office of Pollution Prevention and Toxics | Director, Chemical Control Division.
|  | Director, Risk Assessment Division.
|  | Director, Environmental Assistance Division.
|  | Director, Chemistry, Economics and Sustainable Strategies Division.
|  | Director, National Program Chemicals Division.
|  | Director, Pollution Prevention Division.
|  | Director, Information Management Division.
| Office of the Assistant Administrator for Research and Development | Deputy Director for Management, Office of Science Information Management.
|  | Director, Office of Science Information Management.
|  | Director, Environmental Technology Innovation Cluster Program.
|  | Chief Innovation Officer.
|  | Director for Ecology.
| Office of the Science Advisor | Director, Office of the Science Advisor.
| National Homeland Security Research Center | Director, National Homeland Security Research Center.
|  | Deputy Director for Management, National Homeland Security Research Center.
| Office of Program Accountability and Resource Management | Director, Office of Program Accountability and Resource Management.
| National Health and Environmental Effects Research Laboratory | Deputy Director for Management.
|  | Associate Director for Ecology.
|  | Director, National Health and Environmental Effects Research Laboratory.
|  | Associate Director for Health.
| Atlantic Ecology Division | Director, Atlantic Ecology Division.
| Western Ecology Division | Director, Western Ecology Division.
| Gulf Ecology Division | Director, Gulf Ecology Division.
| Mid-Continent Ecology Division | Director, Mid-Continent Ecology Division.
| Human Studies Division | Director, Human Studies Division.
| National Exposure Research Laboratory (NERL) | Deputy Director for Management.
|  | Director, National Exposure Research Laboratory.
| National Risk Management Research Laboratory (NRMRL) | Deputy Director for Management.
|  | Director, National Risk Management Research Laboratory.
| Air Pollution Prevention and Control Division | Director, Air Pollution Prevention and Control Division.
| Office of National Center for Environmental Assessment | Deputy Director for Management.
|  | Associate Director for Ecology.
|  | Director, National Center for Environmental Assessment.
| Office of National Center for Environmental Assessment—Washington, District of Columbia | Director, National Center for Environmental Assessment.
| National Center for Environmental Assessment- Research Triangle Park, North Carolina | Director, National Center for Environmental Assessment.
| National Center for Environmental Assessment—Cincinnati, Ohio | Director, National Center for Environmental Assessment.
| National Center for Environmental Research | Deputy Director for Management.
|  | Director, National Center for Environmental Research.
| Office of Administrative and Research Support | Director, Office of Administrative and Research Support.
|  | Deputy Director, Office of Administrative and Research Support.
| Region 1—Boston, Massachusetts | Director, Coastal and Ocean Policy and Programs.
|  | Assistant Regional Administrator for Administration and Resources Management.
|  | Director, Office of Site Remediation Restoration.
|  | Director, Office of Environmental Stewardship.
|  | Director, Office of Ecosystem Protection.
| Office of Regional Counsel | Regional Counsel.
| Region 2—New York, New York | Director, Clean Air and Sustainability Division.
|  | Director, Enforcement and Compliance Assistance Division.
|  | Director, Office of Emergency and Remedial Response.
|  | Director, Caribbean Environmental Protection Division.
|  | Director, Division of Environmental Science and Assessment.
|  | Assistant Regional Administrator for Policy and Management.
| Office of Regional Counsel | Regional Counsel.
| Region 3—Philadelphia, Pennsylvania | Director, Environmental Assessment and Innovation Division.
|  | Director, Water Protection Division.
|  | Director, Chesapeake Bay Program Office.
|  | Assistant Regional Administrator for Policy and Management.
|  | Director, Air Protection Division.
|  | Director, Hazardous Site Cleanup Division.
|  | Director, Land and Chemicals Division.
| Office of Regional Counsel | Regional Counsel.
| Region 4—Atlanta, Georgia | Assistant Regional Administrator for Policy and Management.
|  | Director, Gulf of Mexico Program.
|  | Director, Superfund Division.
|  | Director, Science and Ecosystem Support Division.
|  | Director, Air, Pesticides and Toxics Management Division.
|  | Director, Resource Conservation and Recovery Act Division.
|  | Director, Water Management Division.
| Office of Regional Counsel | Regional Counsel.
| Region 5—Chicago, Illinois | Director, Water Division.
|  | Director, Air and Radiation Division.
|  | Director, Land and Chemicals Division.
|  | Assistant Regional Administrator for Resources Management.
|  | Director, Great Lakes National Program Office.
|  | Director, Superfund Division.
| Office of Regional Counsel | Regional Counsel.
| Region 6—Dallas, Texas | Director, Compliance Assurance and Enforcement Division.
|  | Director, Water Quality Protection Division.
|  | Assistant Regional Administrator for Management.
|  | Director, Multimedia Planning and Permitting Division.
|  | Director, Superfund Division.
| Office of Regional Counsel | Regional Counsel.
| Region 7—Kansas City, Kansas | Director, Environmental Services Division.
|  | Director, Superfund Division.
|  | Director, Air and Waste Management Division.
|  | Assistant Regional Administrator for Policy and Management.
|  | Director, Water, Wetlands and Pesticides Division.
| Office of Regional Counsel | Regional Counsel.
| Region 8—Denver, Colorado | Assistant Regional Administrator for Ecosystems Protection and Remediation.
|  | Assistant Regional Administrator for Partnerships and Regulatory Assistance.
|  | Assistant Regional Administrator for Technical and Management Services.
| Office of Regional Counsel | Regional Counsel.
| Region 9—San Francisco, California | Director, Superfund Division.
|  | Director, Communities and Ecosystem Division.
|  | Assistant Regional Administrator for Management and Technical Services.
|  | Director, Water Division.
|  | Director, Air Division.
|  | Director, Land Division.
|  | Director, Enforcement Division.
|  | Director, Waste Management Division.
| Office of Regional Counsel | Regional Counsel.
| Region 10—Seattle, Washington | Director, Office of Ecosystems, Tribal and Public Affairs.
|  | Director, Office of Environmental Cleanup.
|  | Assistant Regional Administrator for Management Programs.
|  | Director, Office of Compliance and Enforcement.
|  | Director, Office of Air, Waste and Toxics.
|  | Director, Office of Water and Watersheds.
| Office of Regional Counsel | Regional Counsel.
ENVIRONMENTAL PROTECTION AGENCY OFFICE OF THE INSPECTOR GENERAL | Environmental Protection Agency Office of the Inspector General | Assistant Inspector General for Program Evaluation.
|  | Assistant Inspector General for Investigations.
|  | Assistant Inspector General for Audit.
|  | Counsel to the Inspector General.
|  | Assistant Inspector General for Mission Systems.
|  | Deputy Inspector General.
|  | Chief of Staff.
|  | Assistant Inspector General for Homeland Security and Customer Liaison.
| Office of Cyber Investigation and Homeland Security | Assistant Inspector General for Cyber Investigation and Homeland Security.
EQUAL EMPLOYMENT OPPORTUNITY COMMISSION | Office of the Inspector General | Inspector General.
| Office of Field Programs | District Director (Denver).
|  | District Director (Indianapolis).
|  | National Systemic Investigations Executive Advisor.
|  | National Legal/Enforcement Executive Advisor.
|  | Program Manager.
|  | District Director (Milwaukee).
|  | District Director (Philadelphia).
|  | District Director (Cleveland).
|  | National Mediation Executive Advisor.
|  | District Director (Charlotte).
|  | District Director (San Antonio).
|  | District Director (Phoenix).
|  | District Director (New Orleans).
|  | District Director (Birmingham).
|  | District Director (Los Angeles).
|  | District Director (Memphis).
|  | District Director (Miami).
|  | District Director (St Louis).
|  | District Director (Chicago).
|  | District Director (Dallas).
|  | District Director (San Francisco).
|  | District Director (Detroit).
|  | District Director (Houston).
|  | District Director (Atlanta).
|  | District Director (New York).
|  | District Director (Baltimore).
| Field Management Programs | Director, Field Management Programs.
| Field Coordination Programs | Director, Field Coordination Programs.
FEDERAL COMMUNICATIONS COMMISSION | Office of Inspector General | Inspector General.
FEDERAL ENERGY REGULATORY COMMISSION | Office of Energy Projects | Director of Dam Safety and Inspection.
| Office of Administrative Litigation | Director, Technical Division.
|  | Director, Legal Division.
| Office of Enforcement | Chief Accountant and Director, Division of Financial Regulations.
FEDERAL LABOR RELATIONS AUTHORITY | Office of the Chairman | Senior Advisor.
|  | Solicitor.
|  | Director, Policy and Performance Management.
|  | Chief Counsel.
| Office of Member | Chief Counsel (2).
| Federal Service Impasses Panel | Executive Director, Federal Service Impasses Panel.
| Office of the Executive Director | Executive Director.
| Office of the General Counsel | Deputy General Counsel (2).
| Office of the General Counsel Regional Offices | Regional Director, Dallas.
| Office of the General Counsel Regional Offices
| Office of the Secretary | Regional Director, Atlanta.
|  | Regional Director, Boston.
|  | Regional Director, Washington, District of Columbia.
|  | Regional Director, San Francisco.
|  | Regional Director, Chicago.
|  | Regional Director, Denver.
|  | Secretary.
FEDERAL MARITIME COMMISSION | Office of Consumer Affairs and Dispute Resolution Services | Director, Office of Consumer Affairs and Dispute Resolution Services.
| Office of the General Counsel | Deputy General Counsel for Reports Opinions and Decisions.
| Office of the Inspector General | Inspector General.
| Office of the Managing Director | Deputy Managing Director.
| Office of the Managing Director
| Bureau of Certification and Licensing | Director, Strategic Planning and Regulatory Review.
|  | Director, Bureau of Certification and Licensing.
| Bureau of Trade Analysis | Director, Bureau of Trade Analysis.
| Bureau of Enforcement | Director, Bureau of Enforcement.
| Office of the Director | National Representative.
FEDERAL MEDIATION AND CONCILIATION SERVICE | Office of the Director | Chief of Staff.
| Office of the Deputy Director | Director of Field Operations.
| Federal Retirement Thrift Investment Board | Chief Operating Officer.
FEDERAL RETIREMENT THRIFT INVESTMENT BOARD | Federal Retirement Thrift Investment Board Office of International Affairs | Director of Resource Management.
|  | Chief Investment Officer.
|  | Director of Benefits.
|  | Director of Communications and Education.
|  | Chief Technology Officer.
|  | Director of Enterprise Risk Management.
|  | Director, Office of Enterprise Planning.
|  | Chief Financial Officer.
|  | Deputy Director for International Consumer Protection.
FEDERAL TRADE COMMISSION | Office of Executive Director | Deputy Executive Director
|  | Chief Information Officer.
| Bureau of Competition | Deputy Director, Bureau of Competition
FEDERAL TRADE COMMISSION OFFICE OF THE INSPECTOR GENERAL | Federal Trade Commission Office of the Inspector General | Inspector General.
GENERAL SERVICES ADMINISTRATION | Office of the Administrator | Senior Advisor for National Security.
| Office of Mission Assurance | Associate Administrator for Mission Assurance.
|  | Associate Administrator for Emergency Response and Recovery.
| Office of Administrative Services | Deputy Chief Administrative Services Officer.
| Office of Citizen Services and Innovative Technologies | Director Federal Citizen Information Center.
| Office of Human Resources Management | Deputy Chief Information Officer.
|  | Director of Human Resources Services.
|  | Chief Information Officer.
|  | Chief Human Capital Officer.
|  | Senior Advisor.
|  | Director of Human Capital Management.
| Office of Government-wide Policy | Deputy Associate Administrator for Information, Integrity and Access.
|  | Deputy Associate Administrator for Real Property Management.
|  | Deputy Chief Acquisition Officer and Senior Procurement Executive.
|  | Director of Government-wide Acquisition Policy.
|  | Director of General Services Acquisition Policy, Integrity and Workforce.
|  | Director of Federal High-Performance Green Buildings.
|  | Director of the Federal Acquisition Institute.
|  | Principal Deputy for Asset and Transportation Management.
|  | Deputy Associate Administrator for Travel, Transportation and Asset Management.
| Office of the Chief Acquisition Officer | Director of Acquisition Systems.
| Office of Inspector General | Assistant Inspector General for Administration.
|  | Deputy Assistant Inspector General for Investigations.
|  | Assistant Inspector General for Investigations.
|  | Counsel to the Inspector General.
|  | Principal Deputy Assistant Inspector General for Auditing.
|  | Deputy Inspector General.
|  | Assistant Inspector General for Auditing.
| Office of the Chief Financial Officer | Director of Budget.
|  | Director of Financial Policy and Operations.
|  | Chief Financial Officer.
|  | Director of Financial Management Systems.
|  | Director of Federal Acquisition Service Financial Services.
|  | Director of Public Buildings Service Financial Services.
| Public Buildings Service | Assistant Commissioner for Client Solutions.
|  | Assistant Commissioner for Leasing.
|  | Deputy Assistant Commissioner for Portfolio Management.
|  | Assistant Commissioner for Real Property Asset Management.
|  | Program Executive.
|  | Assistant Commissioner for Facilities Management and Services Programs.
|  | Assistant Commissioner for Project Delivery.
|  | Assistant Commissioner for Organizational Resources.
| Office of the Chief Information Officer | Associate Chief Information Officer for Government-wide and Enterprise Solutions.
|  | Associate Chief Information Officer for Acquisition Information Technology Services.
|  | Associate Chief Information Officer for Enterprise Planning and Governance.
|  | Associate Chief Information Officer for Enterprise Infrastructure.
|  | Senior Agency Information Security Officer.
| Federal Acquisition Service | Deputy Chief Information Officer.
|  | Assistant Commissioner for Integrated Technology Services.
|  | Assistant Commissioner for Assisted Acquisition Services.
|  | Assistant Commissioner for Customer Accounts and Research.
|  | Assistant Commissioner for Travel, Motor Vehicle and Card Services.
|  | Assistant Commissioner for General Supplies and Services.
|  | Deputy Assistant Commissioner for Integrated Technology Services.
|  | Director of Network Services Programs.
|  | Director of Travel and Transportation Services.
|  | Deputy Assistant Commissioner for General Supplies and Services.
|  | Director of Supply Operations.
|  | Director of Motor Vehicle Management.
|  | Assistant Commissioner for Strategy Management.
|  | Director of Technology Schedule Programs.
|  | Director of Acquisition Operations.
|  | Assistant Commissioner for Integrated Award Environment.
|  | Director of Strategic Programs.
|  | Assistant Commissioner for Acquisition Management.
| New England Region | Regional Commissioner for Federal Acquisition Service, Region 1.
|  | Regional Commissioner for Public Buildings Service.
| Northeast and Caribbean Region | Regional Commissioner for Federal Acquisition Service.
|  | Regional Commissioner for Public Buildings Service.
| Mid-Atlantic Region | Regional Counsel.
|  | Regional Commissioner for Public Buildings Service.
|  | Regional Commissioner for Federal Acquisition Service.
| National Capital Region | Director of Leasing.
|  | Principal Deputy Regional Commissioner for Public Buildings Service.
|  | Principal Deputy Regional Commissioner for Projects and Real Property Asset Management.
|  | Regional Commissioner for Federal Acquisition Service.
|  | Regional Commissioner for Public Buildings Service.
|  | Project Executive for Real Estate Development.
|  | Director of Portfolio Management.
|  | Director of Facilities Management and Services Programs.
|  | Director of Project Delivery.
| Southeast Sunbelt Region | Regional Commissioner for Federal Acquisition Service.
|  | Regional Commissioner for Public Buildings Service.
|  | Deputy Regional Commissioner for Real Estate Design, Construction and Development.
| Great Lakes Region | Regional Commissioner for Public Buildings Service.
|  | Regional Commissioner for Federal Acquisition Service.
| The Heartland Region | Regional Commissioner for Federal Acquisition Service.
|  | Regional Commissioner for Public Buildings Service.
| Greater Southwest Region | Regional Commissioner for Federal Acquisition Service.
|  | Regional Commissioner for Public Buildings Service.
| Rocky Mountain Region | Regional Commissioner for Public Buildings Service.
|  | Regional Commissioner for the Federal Acquisition Service, Region 8.
| Pacific Rim Region | Assistant Regional Administrator for Federal Supply Service.
|  | Regional Commissioner for Public Buildings Service.
|  | Regional Commissioner, Federal Acquisition Service.
|  | Principal Deputy Regional Commissioner for Public Buildings Service.
| Northwest/Arctic Region | Regional Commissioner for Federal Acquisition Service, Region 10.
|  | Regional Commissioner for Public Buildings Service.
GENERAL SERVICES ADMINISTRATION OFFICE OF THE INSPECTOR GENERAL | General Services Administration Office of the Inspector General | Associate Inspector General. Assistant Inspector General for Administration.
|  | Deputy Assistant Inspector General for Investigations.
|  | Assistant Inspector General for Investigations.
|  | Deputy Inspector General.
|  | Deputy Assistant Inspector General for Acquisition Programs Audits.
|  | Deputy Assistant Inspector General for Real Property Audits.
|  | Principal Deputy Assistant Inspector General for Auditing.
|  | Assistant Inspector General for Auditing.
|  | Counsel to the Inspector General.
DEPARTMENT OF HEALTH AND HUMAN SERVICES | Office of Security and Strategic Information | Associate Director for Personnel and Classified Information Security.
|  | Director, Intelligence and Counterintelligence.
|  | Associate Director for Strategic Information.
| Office of the Assistant Secretary for Administration | Director, Atlanta Human Resources Center.
| Office of the Assistant Secretary for Financial Resources | Director, Office of Small and Disadvantaged Business Utilization.
| Office of the Deputy Assistant Secretary for Finance | Associate Deputy Assistant Secretary, Finance.
|  | Deputy Assistant Secretary, Finance.
| Office of the Deputy Assistant Secretary for Information Resources Management | Deputy Chief Information Officer.
| Office of the Assistant Secretary for Planning and Evaluation | Associate Deputy Assistant Secretary for Planning and Evaluation (Health Services Policy).
| Office of the Assistant Secretary for Health | Director, Office of Research Integrity.
|  | Director, Office of Human Immunodeficiency Virus/Acquired Immunodeficiency Syndrome Policy.
| Associate General Counsel Divisions | Deputy Associate General Counsel for Claims and Employment Law.
|  | Deputy Associate General Counsel, Business and Administrative Law Division.
|  | Associate General Counsel, General Law Division.
| Office of the Inspector General | Deputy Inspector General for Legal Affairs.
|  | Principal Deputy Inspector General.
|  | Deputy Inspector General for Management and Policy.
| Office of the Deputy Inspector General for Investigations | Assistant Inspector General for Investigations.
|  | Deputy Inspector General for Investigations.
|  | Assistant Inspector General for Investigative Operations.
|  | Assistant Inspector General for Investigations.
| Office of the Deputy Inspector General for Audit Services | Assistant Inspector General for Financial Management and Regional Operations.
|  | Assistant Inspector General for Medicare and Medicaid Service Audits.
|  | Assistant Inspector General for Audit Management and Policy.
|  | Assistant Inspector General for Grants and Internal Activities.
|  | Deputy Inspector General for Audit Services.
| Office of the Deputy Inspector General for Evaluation and Inspections | Deputy Inspector General for Evaluation and Inspections.
| Program Support Center | Director, Information Systems Management Service.
|  | Deputy Assistant Secretary for Program Support.
| Office of Financial Management Service | Director, Financial Management Service.
| Office of Program Support | Director, Office of Financial Management.
| Office of the Actuary | Director, National Health Statistics Group.
|  | Director, Office of the Actuary (Chief Actuary).
|  | Director, Medicare and Medicaid Cost Estimates Group.
|  | Director, Parts C and D Actuarial Group.
| Center for Medicare | Director, Medicare Contractor Management Group.
| Center for Program Integrity | Director, Medicare Program Integrity Group.
|  | Director, Medicaid Integrity Group.
| Office of Acquisitions and Grants Management | Deputy Director, Office of Acquisition and Grants Management.
|  | Director, Office of Acquisitions and Grants Management.
| Office of Technology Solutions | Deputy Director, Office of Technology Solutions.
|  | Deputy Director, Office of Technology Solutions.
|  | Director, Office of Technology Solutions.
| Office of Financial Management | Deputy Director, Office of Financial Management.
|  | Director, Office of Financial Management.
|  | Director, Financial Services Group.
|  | Director, Accounting Management Group.
| Office of Policy, Planning, and Budget | Associate Administrator for Policy and Programs Coordinator.
| Center for Mental Health Services | Director, Division of State and Community Systems Development.
|  | Director, Center for Mental Health Services.
| Centers for Disease Control and Prevention | Chief Learning Officer.
|  | Director, Centers for Disease Control and Prevention, Washington Office.
|  | Issues Analysis and Coordination Officer.
|  | Director, Procurement and Grants Office.
|  | Chief Management Officer, Office of the Director.
|  | Director, Information Technology Services Office.
|  | Director, Buildings and Facilities Office.
|  | Chief Financial Officer.
| National Institute for Occupational Safety and Health | Deputy Director for Management.
| Office of the Commissioner | Assistant Commissioner for Global Regulatory Operations.
| Office of Chief Counsel | Associate Deputy Chief Counsel for Devices, Foods and Veterinary Medicine.
|  | Associate Deputy Chief Counsel for Drugs and Biologics.
|  | Deputy Chief Counsel for Program Review.
| Office of Management | Director, Office of Acquisitions and Grants Services.
| Office of Regulatory Affairs | District Food and Drug Director, New York District.
|  | Associate Director Investigations.
|  | Deputy Director for Investigations.
|  | District Food and Drug Director, Los Angeles District.
|  | Director, Office of Criminal Investigations.
|  | Regional Food and Drug Director, Southwest Region.
|  | Regional Food and Drug Director, Southeast Region.
|  | Regional Food and Drug Director, Northeast Region.
|  | Deputy Associate Commissioner for Regulatory Affairs.
|  | Associate Commissioner for Regulatory Affairs.
|  | Regional Food and Drug Director, Central Region.
| Center for Biologics Evaluation and Research | Director, Office of Compliance and Biologics Quality.
|  | Associate Director for Compliance and Biologic Quality.
| Center for Drug Evaluation and Research | Director, Office of Generic Drugs.
|  | Director, Office of Epidemiology and Biostatistics.
|  | Director, Office of Compliance.
|  | Senior Advisor for Policy.
|  | Associate Director for Management.
|  | Director, Division of Medical Imaging Surgical and Dental Products.
|  | Director, Office of New Drug Quality Assessment.
| Center for Devices and Radiological Health | Director, Office of Science and Technology.
|  | Director, Office of Device Evaluation.
|  | Director, Office of Compliance.
|  | Director, Office of System and Management.
| Center for Food Safety and Applied Nutrition | Director, Office of Seafood.
|  | Director, Office of Premarket Approval.
|  | Director, Office of Plant and Dairy Foods and Beverages.
|  | Director, Office of Field Programs.
|  | Director, Office of Regulations and Policy.
| Center for Veterinary Medicine | Director, Office of Surveillance and Compliance.
|  | Director, Office of Science.
| Office of Operations | Director, Office of Budget.
|  | Director, Office of Business and Customer Assurance.
|  | Chief Financial Officer.
|  | Director, Office of Human Resources.
|  | Director, Office of Technology and Delivery.
| Special Programs Bureau | Associate Administrator, Special Programs Bureau.
| Human Immunodefiency Virus Infection/Acquired Immune Deficiency Syndrome (HIV/AIDS) Bureau | Director, Office of Science and Epidemiology.
| Indian Health Service | Director, Office of Environmental Health and Engineering.
| National Institutes of Health | Director, Office of Research Information Systems.
|  | Associate Director for Administrative Management.
|  | Director, Office of Acquisition and Logistics Management.
|  | Associate Director for Management.
| Office of the Director | Deputy Director for Science, Outreach, and Policy.
|  | Director, Office of Strategic Planning for Administration.
|  | Senior Policy Officer (Ethics).
|  | Special Advisor to the Director.
|  | Associate Director for Security and Emergency Response.
|  | Director, Office of Research Facilities Development and Operations.
|  | Director, Office of Financial Management.
|  | Director, Office of Medical Applications of Research.
|  | Associate Director for Disease Prevention.
|  | Associate Director for Extramural Affairs.
|  | Associate Director for Administration.
|  | Director, Office of Contracts Management.
|  | Director, Office of Policy for Extramural Research Administration.
|  | Senior Advisor for Policy.
|  | Director, Office of Reports and Analysis.
|  | Scientific Advisor for Capacity Development.
| National Heart, Lung and Blood Institute | Director, Office of Health Education, Communications, and Science Policy.
|  | Director, Division of Heart and Vascular Diseases.
|  | Director, Office of Biostatics Research.
|  | Associate Director for International Programs.
|  | Director, Division of Extramural Affairs.
|  | Director, Epidemiology and Biometry Program.
|  | Director, Division of Lung Diseases.
|  | Deputy Director Division of Epidemiology and Clinical Application.
|  | Deputy Director Division of Heart Vascular Diseases.
|  | Director, National Center for Sleep Disorders.
|  | Director, Division of Blood Diseases and Resources.
| Intramural Research | Chief, Macromolecules Section.
|  | Chief, Laboratory of Biophysical Chemistry.
|  | Chief, Laboratory of Biochemistry.
|  | Chief, Metabolic Regulation Section.
|  | Chief, Laboratory of Cardiac Energetics.
|  | Chief, Laboratory of Kidney and Electrolyte Metabolism.
|  | Chief, Intermediary Metabolism and Bioenergetics Section.
|  | Chief, Laboratory of Biochemical Genetics.
| National Cancer Institute | Associate Director for Extramural Management.
|  | Associate Director for Intramural Management.
|  | Deputy Director for Administrative Operations.
|  | Deputy Director for Management.
|  | Associate Director for Budget and Financial Management.
|  | Associate Director, Cancer Diagnosis Program.
|  | Associate Director, Referral Review and Program Coordination.
| Division of Cancer Biology, Diagnosis and Centers | Associate Director, Centers Training and Resources Program.
|  | Director, Division of Cancer Biology Diagnosis and Centers.
|  | Chief, Laboratory of Tumor and Biological Immunology, Intramural Research Programs.
|  | Chief, Cell Mediated Immunity Section.
|  | Chief, Microbial Genetics and Biochemistry Section, Laboratory of Biochemistry.
|  | Deputy Director, Division of Cancer Biology Diagnosis and Centers.
|  | Associate Director, Extramural Research Program.
|  | Chief, Laboratory of Biochemistry Intramural Research Program.
|  | Chief, Dermatology Branch, Intramural Research Program.
| Division of Cancer Etiology | Chief, Laboratory of Experimental Pathology.
|  | Director, Division of Cancer Etiology.
|  | Chief, Laboratory of Biology.
|  | Chief, Laboratory of Molecular Carcinogenesis.
| Division of Cancer Prevention and Control | Associate Director, Early Development and Conchology Program.
|  | Deputy Director, Division of Cancer Prevention and Control.
|  | Associate Director, Surveillance Research Program.
| Division of Extramural Activities | Director, Division of Extramural Activities.
|  | Deputy Director, Division of Extramural Activities.
| Division of Cancer Treatment | Associate Director, Cancer Therapy Evaluation Program.
|  | Chief, Radiation Conchology Branch.
| National Institute of Diabetes and Digestive and Kidney Diseases | Associate Director for Management.
|  | Director, Division of Extramural Activities.
|  | Chief, Laboratory of Molecular and Cellular Biology.
|  | Associate Director for Management.
|  | Deputy Director for Management and Operations.
|  | Director, Division of Kidney Urologic and Hematologic Diseases.
| Intramural Research | Chief, Section on Molecular Biophysics.
|  | Clinical Director and Chief, Kidney Disease Section.
|  | Chief, Laboratory of Biochemistry and Metabolism.
|  | Chief, Oxidation Mechanisms Section Laboratory of Bioorganic Biochemistry.
|  | Chief, Laboratory of Bio-Organic Chemistry.
|  | Chief, Theoretical Biophysics Section.
|  | Chief, Section Carbohydrates Laboratory of Chemistry/National Institute of Diabetes and Digestive and Kidney Diseases.
|  | Chief, Section on Physical Chemistry.
|  | Chief, Section on Metabolic Enzymes.
|  | Chief, Section on Biochemical Mechanisms.
|  | Chief, Morphogenesis Section.
|  | Chief, Laboratory of Medicinal Chemistry.
|  | Chief, Laboratory of Neuroscience, National Institute of Diabetes and Digestive and Kidney Diseases.
|  | Chief, Section on Molecular Structure.
| National Institute of Arthritis and Musculoskeletal and Skin Diseases | Director, Extramural Program.
|  | Deputy Director.
|  | Associate Director for Management and Operations.
| National Library of Medicine | Associate Director for Extramural Programs.
|  | Associate Director for Administrative Management.
|  | Deputy Director, Lister Hill National Center for Biomedical Commissioners.
|  | Director, Lister Hill National Center for Biomedical Community.
|  | Associate Director for Extramural Programs.
|  | Director, Information Systems.
|  | Deputy Director for Research and Education.
|  | Deputy Director, National Library of Medicine.
|  | Associate Director for Health and Information Programs Development.
|  | Director, National Center for Biotechnology Information.
|  | Associate Director for Library Operations.
| National Institutes of Allergy and Infectious Diseases | Director, Office of Communications and Government Relations.
|  | Director, Division of Intramural Research.
|  | Director, Division of Allergy/Immunology/Transplantation.
|  | Chief, Laboratory of Malaria Research.
|  | Head, Epidemiology Section.
|  | Deputy Director, Division of Acquired Immunodeficiency.
|  | Chief, Laboratory of Infectious Diseases.
|  | Head, Lymphocyte Biology Section.
|  | Chief, Biological Resources Branch.
|  | Chief, Laboratory of Molecular Microbiology.
|  | Chief, Laboratory of Microbial Structure and Function.
|  | Director, Division of Extramural Activities.
|  | Chief, Laboratory of Immunogenetics.
|  | Director, Division of Microbiology/Infectious Diseases.
|  | Deputy Chief, Laboratory of Immunology and Head Lymphocyte Biology Section.
|  | Chief, Laboratory of Parasitic Diseases.
| National Institute on Aging | Associate Director, Biology of Aging Program.
|  | Director of Behavioral and Social Research Program.
|  | Director of Management.
|  | Clinical Director and Chief Clinical Physiology Branch.
|  | Scientific Director, Gerontology Research Center.
|  | Director of Neuroscience and Neuropsychology of Aging Program.
|  | Associate Director, Office of Planning, Analysis and International Activities.
|  | Associate Director, Epidemiology, Demography, and Biometry Program.
|  | Director of Office of Extramural Affairs.
| National Institutes of Child Health and Human Development | Chief, Section on Microbial Genetics.
|  | Chief, Laboratory of Mammalian Genes and Development.
|  | Associate Director for Administration.
|  | Director, National Center for Medical Rehabilitation Research.
|  | Chief, Laboratory of Molecular Genetics.
|  | Chief, Section Neuroendocrinology.
|  | Chief, Section on Molecular Endocrinology.
|  | Chief, Laboratory of Comparative Ethology.
|  | Associate Director for Prevention Research.
|  | Chief, Section on Growth Factors.
|  | Director, Center for Population Research.
|  | Director, Center for Research for Mothers and Children.
|  | Chief, Endocrinology and Reproduction Research Branch.
| National Institute of Dental and Craniofacial Research | Associate Director for Management.
|  | Chief, Laboratory of Immunology.
|  | Director, Extramural Program.
|  | Associate Director for Management.
|  | Associate Director for International Health.
|  | Associate Director for Program Development.
| National Institutes of Environmental Health Sciences | Director, Environmental Toxicology Program.
|  | Chief, Laboratory of Pulmonary Pathobiology.
|  | Head, Mutagenesis Section.
|  | Head, Mammalian Mutagenesis Section.
|  | Senior Scientific Advisor.
|  | Associate Director for Management.
|  | Director, National Institute of Environmental Health Science.
|  | Chief, Laboratory of Molecular Carcinogenesis.
| National Institutes of General Medical Sciences | Associate Director for Extramural Activities.
|  | Associate Director for Administration and Operations.
|  | Director, Minority Opportunities In Research Program Branch.
|  | Deputy Director, National Institute of General Medical Sciences.
|  | Director, Biophysics Physiological Sciences Program Branch.
|  | Director, Genetics Program.
|  | Director, Division of Pharmacology, Physiology, and Biological Chemistry.
| National Institutes of Neurological Disorders and Stroke | Chief, Laboratory of Molecular and Cellular Neurobiology.
|  | Director, Basic Neuroscientist Program/Chief/Laboratory of Neurochemistry.
|  | Associate Director for Administration.
|  | Director, Division of Fundamental Neurosciences.
| Intramural Research | Chief, Neuroimaging Branch.
|  | Chief, Stroke Branch.
|  | Chief, Laboratory of Neurobiology.
|  | Chief, Laboratory of Neural Control.
|  | Chief, Brain Structural Plasticity Section.
|  | Deputy Chief, Laboratory of Central Nervous System Studies.
|  | Chief, Laboratory of Central Nervous System Studies.
|  | Chief, Development and Metabolic Neurology Branch.
| National Eye Institute | Chief, Laboratory of Molecular and Development Biology.
|  | Chief, Laboratory of Retinal Cell and Molecular Biology.
|  | Chief, Laboratory of Sensorimotor Research.
| National Institutes on Deafness and Other Communication Disorders | Associate Director for Administration.
|  | Director, Division of Extramural Research.
|  | Director, Division of Human Communication.
|  | Chief, Laboratory of Cellular Biology.
| National Institutes of Health Clinical Center | Associate Chief, Positron Emission Tomography and Radiochemistry.
|  | Associate Director for Planning.
|  | Deputy Director for Management and Operations.
|  | Chief Operating Officer.
|  | Chief Financial Officer.
| Center for Information Technology | Director, Center for Information Technology and Chief Information Officer.
|  | Director, Division of Computer System Services.
|  | Chief, Computer Center Branch.
|  | Deputy Director.
|  | Associate Director, Office of Computing Resources Services.
|  | Senior Advisor to Director, Center for Information Technology.
| John E. Fogarty International Center | Special Advisor to the Fogarty International Center Director.
|  | Deputy Director, Fogarty International Center.
|  | Associate Director for International Advanced Studies.
| National Center for Research Resources | Associate Director for Biomedical Technology.
|  | Associate Director for Research Infrastructure.
|  | Deputy Director, National Center for Research Resources.
|  | Associate Director for Comparative Medicine.
|  | Director, General Clinical Research Center for Research Resources.
|  | Director, National Center for Research Resources.
| Center for Scientific Review | Director, Division of Biologic Basis of Disease.
|  | Director, Division of Molecular and Cellular Mechanisms.
|  | Director, Division of Physiological Systems.
|  | Director, Division of Clinical and Population-Based Studies.
|  | Associate Director for Statistics and Analysis.
|  | Senior Scientific Advisor.
|  | Associate Director for Referral and Review.
| National Institute of Nursing Research | Director, National Center for Nursing Research.
|  | Deputy Director/Director, Division of Extramural Activities.
| National Human Genome Research Institute | Associate Director for Management.
|  | Deputy Director.
|  | Director, Division of Intramural Research National Center Human Genome Research.
|  | Chief, Laboratory of Genetic Disease Research National Center for Human Genome Research Institute.
|  | Director, Office of Population Genomics.
|  | Chief, Diagnosis Development Branch National Center Human Genome Research Institute.
| National Institute on Drug Abuse | Associate Director for Management and Operations.
|  | Director, Office of Extramural Program Review.
|  | Director, Division of Clinical Research.
|  | Senior Advisor and Counselor for Special Initiatives.
|  | Chief, Neuroscience Research Branch.
|  | Director, Medications Development Division.
|  | Associate Director for Clinical Neuroscience and Medical Affairs, Division of Treatment Research and Development.
| National Institute of Mental Health | Chief, Section on Histopharmacology.
|  | Chief, Laboratory of Clinical Science.
|  | Chief, Biological Psychiatry Branch.
|  | Chief, Child Psychiatry Branch.
|  | Chief, Neuropsychiatry Branch.
|  | Director, Division of Neuroscience and Behavioral Scientist.
|  | Director, Office of Legislative Analysis and Coordinator.
|  | Executive Officer, National Institute of Mental Health.
|  | Associate Director for Prevention.
|  | Associate Director for Special Populations.
|  | Deputy Director, National Institute of Mental Health.
|  | Director, Division of Mental Disorders, Behavioral Research and Acquired Immunodeficiency Syndrome.
|  | Director, Office on Acquired Immunodeficiency Syndrome.
|  | Director, Division of Services and Intervention Research.
|  | Chief, Section on Clinical and Experimental Neuropsychology.
|  | Chief, Section on Cognitive Neuroscience.
| National Center for Advancing Translational Sciences | Associate Director for Administration.
| National Institute on Alcohol Abuse and Alcoholism | Director, Division of Basic Research.
|  | Associate Director for Administration.
| Agency for Healthcare Research and Quality | Executive Officer.
DEPARTMENT OF HEALTH AND HUMAN SERVICES OFFICE OF THE INSPECTOR GENERAL | Department of Health and Human Services Office of the Inspector General | Principal Deputy Inspector General.
| Office of Counsel to the Inspector General | Assistant Inspector General for Legal Affairs.
|  | Chief Counsel to the Inspector General.
| Office of Audit Services | Assistant Inspector General for Audit Services.
|  | Assistant Inspector General for Financial Management and Regional Operations.
|  | Assistant Inspector General for Medicare and Medicaid Service Audits.
|  | Deputy Inspector General for Audit Services.
| Office of Evaluation and Inspections | Assistant Inspector General for Evaluation and Inspections.
|  | Deputy Inspector General for Evaluation and Inspections.
|  | Assistant Inspector General for Evaluation and Inspections.
| Office of Investigations | Assistant Inspector General for Investigations (3).
|  | Deputy Inspector General for Investigations.
| Office of Management and Policy | Assistant Inspector General for Information Technology (Chief Information Officer).
|  | Assistant Inspector General for Management and Policy (Chief Operating Officer).
|  | Deputy Inspector General for Management and Policy.
DEPARTMENT OF HOMELAND SECURITY | Office of the Executive Secretariat | Deputy Executive Secretary, Operations and Administration.
| Office of Operations Coordination and Planning Directorate | Senior Department of Homeland Security Advisor to the Commander, United States Northern Command/North American Aerospace Defense Command.
| Office of the General Counsel | Assistant General Counsel for Acquisition and Procurement.
|  | Associate General Counsel for Ethics.
|  | Deputy Associate General Counsel for General Law.
| Office for Civil Rights and Civil Liberties | Director Civil Rights and Civil Liberties Programs Division.
|  | Deputy Civil Rights and Civil Liberties Officer, Equal Employment Opportunity and Diversity Director.
|  | Deputy Civil Rights and Civil Liberties Officer, Programs and Compliance.
| Domestic Nuclear Detection Office | Assistant Director, Product Acquisition and Deployment Directorate.
|  | Assistant Director, Architecture and Plans Directorate.
|  | Chief of Staff.
|  | Assistant Director, Operations Support Directorate.
|  | Assistant Director, National Technical Nuclear Forensics Center.
|  | Assistant Director, Transformational and Applied Research Directorate.
|  | Deputy Director.
| Office of the Assistant Secretary for Policy | Associate Director, Identity Management.
| United States Citizenship and Immigration Services | Deputy Director, Service Center, Dallas, Texas.
|  | Chief, International Operations.
|  | Director, National Records Center.
|  | Deputy Director, National Benefits Center.
|  | Associate Director, Service Center Operations.
|  | Deputy Associate Director, Refugee, Asylum, and International Operations.
|  | Associate Director, Enterprise Services Division.
|  | Chief, Office of Security and Integrity.
|  | District Director, Field Services, Atlanta, Georgia.
|  | District Director, Field Services, Newark, New Jersey.
|  | District Director, Field Services, Tampa, Florida.
|  | Regional Director, Southeast Region.
|  | District Director, Field Services, San Francisco California.
|  | District Director, Field Services, Los Angeles California.
|  | Director, National Benefits Center.
|  | Chief, Office of Administration.
|  | District Director, Field Services, Miami, Florida.
|  | Chief Financial Officer.
|  | Northeast Regional Director (Burlington, Vermont).
|  | Western Regional Director (Laguna Niguel, California).
|  | Central Regional Director (Dallas, Texas).
|  | Director, Vermont Service Center, Saint Albans, Vermont.
|  | Director, Service Center, Dallas, Texas.
|  | Director, Service Center, Laguna Niguel, California.
|  | Director, Service Center, Lincoln, Nebraska.
|  | Associate Director, Office of Management.
|  | Chief Information Officer.
|  | Chief, Performance and Quality.
|  | Director, Office of Refugee Affairs.
|  | Deputy Associate Director, Customer Service and Public Engagement.
|  | Associate Director, Fraud Detection and National Security.
|  | Chief, Intake and Document Production.
|  | Deputy Associate Director, Fraud Detection and National Security.
|  | Associate Director, Refugee, Asylum and International Operations.
|  | Deputy General Counsel.
|  | Deputy Associate Director, Office of Field Operations.
|  | Deputy Chief Information Officer.
|  | Deputy Associate Director, Enterprise Services Division.
|  | District Director, Field Services, New York, New York.
|  | Chief, Asylum Division.
|  | Chief, Human Capital and Training.
|  | Chief, Immigrant Investor Program.
|  | Deputy Associate Director, Service Center Operations.
|  | Associate Director, Customer Service and Public Engagement.
|  | Deputy Chief Counsel for Field Management.
|  | Deputy Director, Office of Security and Integrity.
|  | Chief, Office of Transformation Coordination.
|  | Deputy Associate Director, Office of Management.
|  | Deputy Chief, Office of Transformation Coordination.
|  | District Director, Field Services, Chicago, Illinois.
|  | District Director, Field Services, Boston, Massachusetts.
|  | Chief, Verification Division.
|  | Chief, Administrative Appeals.
|  | Associate Director, Field Operations.
|  | Deputy Director, Service Center, Saint Albans, Vermont.
|  | Deputy Director, Service Center, Lincoln, Nebraska.
|  | Deputy Director, Service Center, Laguna Niguel, California.
| United States Secret Service | Special Agent In Charge, Dallas Field Office.
|  | Special Agent In Charge, San Francisco Field Office.
|  | Chief Counsel.
|  | Special Agent In Charge, Philadelphia Field Office.
|  | Special Agent In Charge, Technical Security Division.
|  | Special Agent In Charge, Vice Presidential Protective Division.
|  | Assistant Director, Human Resources and Training.
|  | Special Agent In Charge, New York Field Office.
|  | Special Agent In Charge, Presidential Protective Division.
|  | Deputy Assistant Director, Protective Operations.
|  | Assistant Director, Office of Professional Responsibility.
|  | Assistant Director, Office of Administration.
|  | Assistant Director, Office of Technical Development and Mission Support.
|  | Assistant Director, Protective Operations.
|  | Assistant Director, Investigations.
|  | Special Agent In Charge—Information Resources Management Division.
|  | Deputy Director, United States Secret Service.
|  | Deputy Special Agent In Charge for Cyber Security.
|  | Director, United States Secret Service.
|  | Deputy Assistant Director, Technical Development and Support Mission.
|  | Deputy Chief Counsel/Principal Ethics Official.
|  | Special Agent In Charge, Miami Field Office.
|  | Special Agent In Charge, Paris Field Office.
|  | Deputy Assistant Director, Office of Human Resources and Training.
|  | Deputy Assistant Director, Strategic Intelligence and Information.
|  | Assistant Director, Office of Strategic Intelligence and Information.
|  | Assistant Director, Office of Government and Public Affairs.
|  | Special Agent In Charge, Protective Intelligence and Assessment Division.
|  | Special Agent In Charge, Rome Field Office.
|  | Special Agent In Charge, Rowley Training Center.
|  | Special Agent In Charge, Criminal Investigative Division.
|  | Chief of Staff.
|  | Deputy Assistant Director, Office of Government and Public Affairs.
|  | Chief Financial Officer.
|  | Deputy Assistant Director, Office of Protective Operations.
|  | Deputy Assistant Director, Office of Investigations.
|  | Special Agent In Charge, Chicago Field Office.
|  | Chief Technology Officer.
|  | Deputy Assistant Director, Office of Investigations.
|  | Special Agent In Charge, Los Angeles Field Office.
|  | Component Acquisition Executive.
|  | Special Agent In Charge, Washington Field Office.
|  | Deputy Director, National Cyber Investigative Joint Task Force.
|  | Deputy Assistant Director, Special Operations Division.
|  | Special Agent In Charge, Special Services Division.
|  | Special Agent In Charge, Newark.
|  | Deputy Special Agent In Charge, New York Field Office.
|  | Special Agent In Charge, Honolulu Field Office.
|  | Special Agent In Charge, Atlanta Field Office.
|  | Deputy Special Agent In Charge, Vice Presidential Protective Division.
|  | Chief Information Officer.
|  | Deputy Special Agent In Charge (White House Complex).
|  | Deputy Assistant Director, Technical Development and Mission Support.
|  | Deputy Assistant Director, Rowley Training Center.
|  | Special Agent In Charge, Houston Field Office.
|  | Deputy Assistant Director, Investigations.
|  | Deputy Assistant Director, Human Resources and Training.
|  | Deputy Special Agent In Charge, Presidential Protective Division.
|  | Deputy Assistant Director, Administration.
|  | Special Agent In Charge (Dignitary Protective Division).
|  | Secret Service Cyber Security Advisor to the National Protection and Programs Directorate.
| United States Coast Guard | Senior Procurement Executive/Head of Contracting Activity.
|  | Director, Coast Guard Investigative Service.
|  | Director, Marine Transportation System Management.
|  | Chief Procurement Law Counsel and Chief Trial Attorney.
|  | Deputy Assistant Commandant for Resources and Deputy Chief Financial Officer.
|  | Assistant Deputy Commandant for Mission Support.
|  | Deputy Assistant Commandant for Acquisition/Director of Acquisition Services.
|  | Director, Incident Management and Preparedness Policy.
|  | Director of Financial Operations/Comptroller.
|  | Director of Financial Management and Procurement Services Modernization.
|  | Deputy Assistant Commandant for Intelligence and Criminal Investigations.
|  | Director, National Pollution Funds Center.
|  | Deputy Assistant Commandant for Command, Control, Communications, Computers, and Information Technology/Deputy Chief Information Officer.
| Office of the Under Secretary for National Protection and Programs Directorate | Assistant Director, Office of Resource Management, Federal Protective Service.
|  | Director, Enterprise Performance Management.
|  | Deputy Assistant Secretary for Infrastructure Protection.
|  | Chief Technology Officer, Cyber Security and Communications.
|  | Director, Human Resources Management.
|  | Deputy Director, Federal Network Resilience.
|  | Director, Protective Security Coordination.
|  | Director, Office of Cyber and Infrastructure Analysis.
|  | Deputy Director, National Cybersecurity Center.
|  | National Protection and Programs Directorate (NPPD) Chief Information Officer.
|  | Deputy Director, Infrastructure Security Compliance.
|  | Director, Infrastructure Security Compliance.
|  | Director, Sector Outreach and Programs Division.
|  | Assistant Director for Field Operations (East), Federal Protective Service.
|  | Director of Management.
|  | Director, Office of Emergency Communications.
|  | Deputy Director, Office of Biometric Identity Management.
|  | Director, Federal Network Resilience.
|  | Director, Federal Protective Service.
|  | Senior Advisor, Office of Infrastructure Protection.
|  | Assistant Director, Identity Capabilities Management Division, Office of Biometric Identity Management.
|  | Director, Budget and Financial Administration.
|  | Senior Advisor for Regulatory Policies.
|  | Assistant Director of Risk Management, Federal Protective Service.
|  | Assistant Director of Risk Management.
|  | Director, Strategy and Policy/Cybersecurity Coordination.
|  | Assistant Director, Office of Training and Career Development, Federal Protective Service.
|  | Director, Office of Compliance and Security.
|  | Chief Technology Officer, Office of Biometric Identity Management.
|  | Director, National Cybersecurity and Communications Integration Center.
|  | Director, Network Security Deployment.
|  | Deputy Director, National Cybersecurity and Communications Integration Center.
|  | Assistant Director of Field Operations (Central), Federal Protective Services.
|  | Assistant Director of Field Operations (West), Federal Protective Services.
|  | Assistant Director of Operations, Federal Protective Services.
|  | Senior Counselor to the Under Secretary for National Protection and Programs Directorate.
|  | Deputy Director, Office of Emergency Communications.
|  | Deputy Assistant Secretary for Cybersecurity Strategy and Emergency Communications.
|  | Director, Stakeholder Engagement and Cyber Infrastructure Resilience Division.
| Office of the Under Secretary for Intelligence and Analysis | Senior Advisor for Strategic Cyber Security Management.
|  | Director, Border Security Division.
|  | Director, Information Sharing and Intelligence Enterprise Management Division.
|  | Director, Border Intelligence Fusion Section.
|  | Director, Cyber, Infrastructure and Science Division.
|  | Deputy Director, Office of Enterprise and Mission Support.
|  | Director, Operations, State and Local Program Office.
|  | Principal Deputy Director, Terrorist Screening Center.
|  | Director, Collection Requirements Division.
|  | Chief of Staff.
|  | Director, Mission Support Division.
|  | Deputy Director, Office of Analysis.
|  | Director for Strategy, Plans, and Policy.
| Office of Assistant Secretary for Health Affairs and Chief Medical Officer | Deputy Director, Workforce Health and Medical Support.
|  | Deputy Director, Health Threats Resilience.
|  | Associate Chief Medical Officer.
|  | Principal Deputy Assistant Secretary for Health Affairs/Deputy Chief Medical Officer.
| United States Immigration and Customs Enforcement | Special Agent In Charge, Dallas, Texas.
|  | Director, Office of Professional Responsibility.
|  | Special Agent In Charge, San Diego, California.
|  | Special Agent In Charge, San Antonio, Texas.
|  | Special Agent In Charge, New Orleans, Louisiana.
|  | Special Agent In Charge, Los Angeles, California.
|  | Special Agent In Charge, Houston, Texas.
|  | Special Agent In Charge, Chicago, Illinois.
|  | Director, Intelligence, Homeland Security Investigations.
|  | Director, International Affairs.
|  | Deputy Assistant Director (Financial, Narcotics and Public Safety).
|  | Special Agent In Charge (Seattle).
|  | Director, Office of Enforcement and Removal Operations.
|  | Director of Enforcement and Litigation.
|  | Deputy Assistant Director, Mission Support.
|  | Senior Policy Administrator (Brussels).
|  | Field Office Director, Office of Enforcement and Removal Operations, Philadelphia, Pennsylvania.
|  | Field Office Director, Office of Enforcement and Removal, San Francisco, California.
|  | Deputy Director, Joint Task Force West—Operations.
|  | Special Agent In Charge, El Paso.
|  | Special Agent In Charge, Phoenix.
|  | Director, Labor Relations/Employee Relations.
|  | Deputy Director, El Paso Intelligence Center (EPIC).
|  | Component Acquisition Executive.
|  | Director, Facilities and Asset Administration.
|  | Director, Federal Export Enforcement Coordination Center.
|  | Special Agent In Charge, San Juan, Puerto Rico.
|  | Special Agent In Charge, Buffalo, New York.
|  | Special Agent In Charge, Philadelphia, Pennsylvania.
|  | Special Agent In Charge, Boston, Massachusetts.
|  | Special Agent In Charge, Newark, New Jersey.
|  | Special Agent In Charge, Tampa, Florida.
|  | Special Agent In Charge, Saint Paul, Minnesota.
|  | Field Office Director, Office of Enforcement and Removal Operations, New York City, New York.
|  | Field Office Director, Office of Enforcement and Removal Operations, Los Angeles, California.
|  | Field Office Director, Office of Enforcement and Removal Operations, Phoenix, Arizona.
|  | Deputy Assistant Director, Domestic Operations.
|  | Assistant Director for Detention Oversight and Inspections.
|  | Director, Joint Task Force—Investigations.
|  | Chief Counsel for Los Angeles, California.
|  | Chief Counsel for Miami, Florida.
|  | Field Office Director, Office of Enforcement and Removal, New Orleans, Louisiana.
|  | Field Office Director, Office of Enforcement and Removal Operations, Miami, Florida.
|  | Assistant Director, Homeland Security Investigative Programs.
|  | Special Agent In Charge, Denver, Colorado.
|  | Assistant Director, Homeland Security Investigations (Intellectual Property Rights Center).
|  | Field Office Director, Office of Enforcement and Removal, Houston, Texas.
|  | Field Office Director, Office of Enforcement and Removal, Chicago, Illinois.
|  | Field Office Director, Office of Enforcement and Removal, Atlanta, Georgia.
|  | Field Office Director, Office of Enforcement and Removal, El Paso, Texas.
|  | Assistant Director, Enforcement and Removal Operations, Law Enforcement Systems and Analysis Division.
|  | Deputy Chief Information Officer.
|  | Special Agent In Charge, Detroit, Michigan.
|  | Executive Director, Law Enforcement Information Sharing Initiative.
|  | Deputy Assistant Director, Office of Enforcement and Removal Operations, Field Operations.
|  | Assistant Director, Operations Support, Office of Enforcement and Removal Operations.
|  | Executive Director, Management and Administration.
|  | Assistant Director, Office of Investigations (Domestic Operations).
|  | Deputy Assistant Director, Homeland Security Investigative Services.
|  | Deputy Director, Enforcement and Removal Operations.
|  | Deputy Principal Legal Advisor for Headquarters.
|  | Deputy Principal Legal Advisor for Field Operations.
|  | Chief Counsel, New York, New York.
|  | Deputy Director, Medical Affairs, Office of Enforcement and Removal Operations.
|  | Assistant Director, Enforcement and Removal Operations, Custody Operations Division.
|  | Field Office Director, Office of Enforcement and Removal Operations, San Antonio, Texas.
|  | Field Office Director, Office of Enforcement and Removal Operations, San Diego, California.
|  | Director, Office of Training and Development.
|  | Division Director for Investigations, Office of Professional Responsibility.
|  | Deputy Director, Office of Professional Responsibility.
|  | Executive Director, State and Local Coordination.
|  | Assistant Director, Enforcement and Removal Operations, Field Operations.
|  | Deputy Chief Financial Officer.
|  | Deputy Director, International Affairs.
|  | Special Agent In Charge, Washington, District of Columbia.
|  | Special Agent In Charge, Atlanta, Georgia.
|  | Director, Financial Management.
|  | Assistant Director, Enforcement and Removal Operations, Repatriation Division.
|  | Chief Financial Officer.
|  | Director, Office of Procurement.
|  | Assistant Director for Secure Communities and Enforcement, Office of Enforcement and Removal Operations.
|  | Chief Information Officer.
|  | Director, Budget and Program Performance.
|  | Deputy Assistant Director, Critical Infrastructure, Protection, and Fraud.
|  | Assistant Director, Diversity and Civil Rights.
|  | Deputy Director, Joint Task Force East—Operations.
|  | Deputy Assistant Secretary for Immigration and Customs Enforcement.
|  | Assistant Director, Human Resources Management.
|  | Deputy Principal Legal Advisor.
|  | Director, Office of Homeland Security Investigations.
|  | Deputy Director, Office of Homeland Security Investigations.
|  | Special Agent In Charge, New York.
|  | Deputy Assistant Director (National Security Investigations).
|  | Special Agent In Charge, Miami, Florida.
|  | Special Agent In Charge, San Francisco, California.
| United States Customs and Border Protection | Senior Advisor.
|  | Executive Director, National Programs.
|  | Executive Director, Privacy and Diversity.
|  | Assistant Commissioner, International Affairs.
|  | Director, National Targeting Center (Passenger).
|  | Executive Director, Programming.
|  | Deputy Joint Field Commander, Arizona, Joint Operations Directorate.
|  | Joint Field Commander, Arizona, Joint Operations Directorate.
|  | Assistant Commissioner, Intelligence and Investigative Liaison.
|  | Executive Director, Automated Commercial Environment (ACE) Business Office.
|  | Executive Director, Acquisition Management.
|  | Executive Director, Joint Operations Directorate.
|  | Executive Director, Preclearance.
|  | Deputy Assistant Commissioner, International Affairs.
|  | Executive Director, Diversity and Civil Rights.
|  | Port Director, San Ysidro, California.
|  | Deputy Chief Patrol Agent, Tucson, Arizona.
|  | Chief Patrol Agent, El Centro, California.
|  | Deputy Chief Patrol Agent, San Diego, California.
|  | Executive Director, Program Management Office.
|  | Deputy Commissioner.
|  | Director of Operations, Northern Region, Detroit, Office of Customs and Border Protection (CBP) Air and Marine.
|  | Director of Operations, Southeastern Region, Miami, Florida, Office of Customs and Border Protection (CBP) Air and Marine.
|  | Director, Air and Marine Operations Center, Riverside, Office of Customs and Border Protection (CBP) Air and Marine.
|  | Executive Director, Intelligence and Targeting.
|  | Director of Operations, Southwest Border, Office of Customs and Border Protection (CBP) Air and Marine.
|  | Executive Director, Passenger Systems Program Office.
|  | Executive Director, National Air Security Operations, Office of Customs and Border Protection (CBP) Air and Marine.
|  | Executive Director, Training, Safety and Standards.
|  | Executive Director, Human Resources Operations, Programs and Policy.
|  | Executive Director, Commercial Targeting and Enforcement.
|  | Executive Director, Financial Operations.
|  | Port Director, Laredo, Texas.
|  | Deputy Assistant Commissioner, Intelligence and Investigative Liaison.
|  | Chief, Operations Planning and Analyses Division.
|  | Director of Operations, Air and Marine.
|  | Executive Director, Trade Policy and Programs.
|  | Deputy Assistant Commissioner, Technology Innovation and Acquisition.
|  | Executive Director, Mission Support, Office of Customs and Border Protection (CBP) Air and Marine.
|  | Deputy Chief for Operations, Office of Border Patrol.
|  | Deputy Assistant Commissioner, Internal Affairs.
|  | Executive Director, Enterprise Data Management and Engineering.
|  | Executive Director, Targeting and Analysis Systems.
|  | Executive Director, Field Support.
|  | Executive Director, Cargo Systems.
|  | Deputy Chief, Operational Programs, Office of Border Patrol.
|  | Chief Patrol Agent, Yuma, Arizona.
|  | Executive Director, Admissibility and Passenger Programs.
|  | Chief Patrol Agent (Del Rio).
|  | Assistant Commissioner, Air and Marine.
|  | Deputy Director, Policy and Planning.
|  | Executive Director, Cargo and Conveyance Security.
|  | Director, Field Operations (Atlanta, Georgia).
|  | Chief of Operations, Office of Border Patrol.
|  | Executive Director, Enterprise Networks and Technology Support.
|  | Executive Director, Mission Support.
|  | Chief Patrol Agent, Rio Grande Valley.
|  | Deputy Assistant Commissioner, Information and Technology.
|  | Port Director, El Paso, Texas.
|  | Port Director, Los Angeles/Long Beach Seaport.
|  | Chief Patrol Agent, Tucson, Arizona.
|  | Executive Director, Customs and Border Protection (CBP) Basic Training.
|  | Executive Director, Procurement.
|  | Assistant Commissioner, Administration.
|  | Executive Director, Mission Support.
|  | Executive Director, Agriculture Programs and Trade Liaison.
|  | Port Director, Los Angeles Airport.
|  | Director, Field Operations, Boston.
|  | Director, Field Operations, Tucson.
|  | Port Director, San Francisco.
|  | Executive Director, National Targeting Center.
|  | Deputy Assistant Commissioner, International Trade.
|  | Assistant Commissioner, Internal Affairs.
|  | Director, Field Operations, San Juan.
|  | Associate Chief Counsel, Los Angeles.
|  | Associate Chief Counsel, Houston.
|  | Associate Chief Counsel, Chicago.
|  | Associate Chief Counsel, New York.
|  | Associate Chief Counsel, Southeast.
|  | Associate Chief Counsel for Ethics, Labor, and Employment.
|  | Associate Chief Counsel—Trade and Finance.
|  | Associate Chief Counsel—Enforcement.
|  | Director, Field Operations, El Paso.
|  | Chief Patrol Agent, San Diego.
|  | Chief Patrol Agent, El Paso.
|  | Director, Field Operations, San Francisco.
|  | Chief Patrol Agent, Laredo Sector.
|  | Chief, Border Patrol.
|  | Deputy Assistant Commissioner, Air and Marine.
|  | Director, Field Operations, San Diego.
|  | Director, Field Operations, Laredo.
|  | Director, Field Operations, Houston.
|  | Director, Field Operations, Los Angeles.
|  | Director, Field Operations, Chicago.
|  | Director, Field Operations, Miami.
|  | Port Director, Miami International Airport.
|  | Port Director, Newark.
|  | Principal Executive for Program Development.
|  | Director, Field Operations, New York.
|  | Deputy Assistant Commissioner, Office of Training and Development.
|  | Director, Field Operations, Buffalo.
|  | Director, Field Operations, Detroit.
|  | Director, Field Operations, Seattle.
|  | Executive Director, Operations.
|  | Deputy Chief, Border Patrol.
|  | Deputy Assistant Commissioner, Field Operations.
|  | Assistant Commissioner, Field Operations.
|  | Executive Director, Laboratories and Scientific Services.
|  | Assistant Commissioner, Information and Technology.
|  | Deputy Director, Procurement.
|  | Executive Director, Budget.
|  | Chief Financial Officer.
|  | Executive Director, Regulations and Rulings.
|  | Executive Director, Regulatory Audit.
|  | Assistant Commissioner, Office of International Trade.
|  | Assistant Commissioner, Training and Development.
|  | Executive Director, Facilities Management and Engineering.
|  | Executive Director, Labor and Employee Relations.
|  | Deputy Assistant Commissioner, Human Resources Management.
|  | Assistant Commissioner, Human Resources Management.
|  | Deputy Chief Counsel.
|  | Executive Director, Planning, Program Analysis and Evaluation.
|  | Port Director, John F. Kennedy Airport.
|  | Deputy Chief Patrol Agent, El Paso.
|  | Assistant Commissioner, Technology Innovation and Acquisition.
|  | Deputy Chief Patrol Agent, Rio Grande Valley.
| Federal Law Enforcement Training Center | Assistant Director (Mission and Readiness Support Directorate).
|  | Assistant Director, Chief Financial Officer.
|  | Assistant Director (Washington Operations).
|  | Assistant Director (Regional and International Training Directorate).
|  | Assistant Director (Information Technology Directorate).
|  | Chief Counsel.
|  | Assistant Director (Glynco Training Directorate).
|  | Assistant Director (Centralized Training Management Directorate).
|  | Assistant Director, Administration.
|  | Deputy Director, Federal Law Enforcement Training Center.
|  | Director, Federal Law Enforcement Training Center.
| Federal Emergency Management Agency | Deputy Regional Administrator, Region VI, Denton.
|  | Deputy Assistant Administrator, National Preparedness Directorate.
|  | Deputy Regional Administrator, Region IV, Atlanta.
|  | Deputy Associate Administrator, Management and Performance Improvement.
|  | Deputy Principal Legal Advisor for Management.
|  | Director, National Disaster Recovery Planning Division.
|  | Chief, Enterprise Business Unit.
|  | Chief Security Officer.
|  | Chief Technology Officer.
|  | Senior Counselor to the Administrator and International Relations Officer.
|  | Director, Emergency Communication Division.
|  | Chief Administrative Officer.
|  | Deputy Associate Administrator, Policy and Strategy.
|  | Director, Technology Hazards Division.
|  | Director, Financial Management Division.
|  | Deputy Assistant Administrator, Grants Program.
|  | Deputy Chief Counsel.
|  | Superintendent, Center for Domestic Preparedness.
|  | Deputy Director, External Affairs.
|  | Executive Director for Readiness.
|  | Deputy Executive Administrator, Mount Weathers Emergency Operations Center.
|  | Deputy Assistant Administrator for Response.
|  | Director, Office of Federal Disaster Coordination.
|  | Director, Acquisition Operations Division.
|  | Director, Acquisition Programs and Planning Division.
|  | Deputy Associate Administrator, Mission Support Bureau.
|  | Chief Procurement Officer.
|  | Director, National Exercise Division.
|  | Chief Financial Officer.
|  | Planning Division Director, Office of Response and Recovery.
|  | Deputy Chief Component Human Capital Officer.
|  | Deputy Associate Administrator for Insurance, Federal Insurance and Mitigation.
|  | Chief, Risk Reduction Branch (Mitigation).
|  | Director, Grants Management Division.
|  | Director, National Processing Service Center.
|  | Deputy Associate Administrator for Mitigation, Federal Insurance and Mitigation.
|  | Deputy Chief Financial Officer.
| Office of the Chief Security Officer | Deputy Chief Security Officer. Chief Personnel Security Officer.
|  | Chief Security Officer.
|  | Chief Counterintelligence and Investigations.
| Office of the Chief Financial Officer | Director, Financial Management.
|  | Director, Resource Management Transformation Office.
|  | Director, Departmental General Accounting Office/Inspector General (GAO/IG) Liaison Office.
|  | Director, Financial Risk Management and Assurance.
|  | Director, Office of Budget.
|  | Deputy Budget Director, Office of Budget.
| Office of the Chief Procurement Officer. | Executive Director, Program Accountability and Risk Management Office.
|  | Director, Oversight and Strategic Support.
|  | Chief Procurement Officer.
|  | Deputy Chief Procurement Officer.
|  | Director, Enterprise Acquisition and Information Technology.
|  | Executive Director, Office of Procurement Operations.
|  | Director, Policy and Acquisition Workforce.
|  | Director, Procurement Policy and Oversight.
| Office of the Chief Human Capital Officer | Executive Director Cyber skills Management Task Force.
|  | Executive Director, Human Capital Policy and Programs.
|  | Deputy Chief Human Capital Officer.
|  | Executive Director, Human Capital Business Systems.
|  | Executive Director, Diversity and Inclusion.
|  | Deputy Chief Learning Officer.
|  | Executive Director, Human Resources Management and Services.
| Office of the Chief Information Officer | Senior Advisor, Chief Information Officer.
|  | Executive Director, Enterprise System Development Office.
|  | Executive Director, Customer Relationship Management Division.
|  | Deputy Chief Information Officer.
|  | Deputy Executive Director, Information Technology Services Office.
|  | Executive Director, Chief Information Security Officer.
|  | Director, Enterprise Business Management Office.
|  | Executive Director, Information Technology Services Office.
|  | Executive Director, Office of Applied Technology (Chief Technology Officer).
|  | Executive Director, Information Sharing.
| Office of the Chief Readiness Support Officer | Director of Asset and Logistics Management.
|  | Deputy Chief Readiness Support Officer, Operations Support.
|  | Deputy Chief Readiness Support Officer.
|  | Director, Headquarters Management and Development.
|  | Director, Safety and Environmental Programs.
| Office of the Under Secretary for Science and Technology | Director, Cyber Security Division.
|  | Deputy Director, Office of National Laboratories.
|  | Director, Interagency Office.
|  | Director, Test and Evaluation.
|  | Director, Borders and Maritime Security Division.
|  | Director, Chemical Biological Defense Division.
|  | Director, Finance and Budget Division.
|  | Director, Infrastructure Protection and Disaster Management Division.
|  | Director, Explosives Division.
|  | Director, Office of National Laboratories.
|  | Director, Acquisition Support and Operations Analysis Division.
|  | Director, Homeland Security Advanced Research Projects Agency.
|  | Director, Office for Interoperability and Compatibility.
|  | Deputy Director, Homeland Security Advanced Research Projects Agency.
|  | Director, Research and Development Partnerships.
DEPARTMENT OF HOMELAND SECURITY OFFICE OF THE INSPECTOR GENERAL | Department of Homeland Security Office of the Inspector General | Assistant Inspector General, Integrity and Quality Oversight. Assistant Inspector General for Management.
|  | International Senior Advisor.
|  | Deputy Assistant Inspector General for Investigations.
|  | Deputy Assistant Inspector General for Investigations.
|  | Deputy Assistant Inspector General, Audits.
|  | Chief of Staff.
|  | Deputy Inspector General.
|  | Deputy Assistant Inspector General, Audits.
|  | Deputy Assistant Inspector General, Emergency Management Oversight.
|  | Assistant Inspector General for Emergency Management Oversight.
|  | Assistant Inspector General, Inspections.
|  | Assistant Inspector General, Information Technology Audits.
|  | Assistant Inspector General, Investigations.
|  | Counsel to the Inspector General.
|  | Assistant Inspector General, Audits.
|  | Deputy Assistant Inspector General for Management.
DEPARTMENT OF HOUSING AND URBAN DEVELOPMENT | Office of the Administration Office of the Chief Human Capital Officer | Chief Disaster and National Security Officer. Director, Office of Human Capital Services.
|  | Deputy Chief Human Capital Officer.
|  | Chief Learning Officer.
| Office of the Chief Financial Officer | Assistant Chief Financial Officer for Systems.
|  | Assistant Chief Financial Officer for Financial Management.
|  | Assistant Chief Financial Officer for Accounting.
|  | Deputy Chief Financial Officer.
|  | Assistant Chief Financial Officer for Budget.
|  | Deputy Assistant Chief Financial Officer for Budget.
| Office of the Chief Information Officer | Deputy Chief Information Officer—Office of Customer Relationship and Performance Management.
|  | Deputy Chief Information Officer for Infrastructure and Operations.
|  | Deputy Chief Information Officer for Business and Information Technology Resource Management Officer.
|  | Principal Deputy Chief Information Officer.
| Office of the Chief Procurement Officer | Deputy Chief Procurement Officer.
| Office of Community Planning and Development | Deputy Assistant Secretary for Special Needs Programs.
| Office of Departmental Equal Employment Opportunity | Director, Office of Departmental Equal Employment Opportunity.
| Office of the General Counsel | Associate General Counsel for Program Enforcement.
|  | Director, Departmental Enforcement Center.
| Government National Mortgage Association | Senior Vice President, Office of Program Operations.
|  | Senior Vice President, Office of Capital Markets.
|  | Senior Vice President, Office of Finance.
|  | Senior Vice President and Chief Risk Officer.
|  | Senior Vice President, Office of Enterprise Data and Technology Solutions.
|  | Senior Vice President of Administration and Senior Advisor to the Office of the President.
|  | Senior Vice President and Chief Financial Officer.
|  | Senior Vice President for Mortgage-Backed Securities.
| Office of Housing | Deputy Assistant Secretary for Finance and Budget.
|  | Deputy Assistant Secretary for Healthcare Programs.
|  | Housing Federal Housing Administration-Comptroller.
|  | Associate Deputy Assistant Secretary for Healthcare Programs.
|  | Director, Program Systems Management Office.
|  | Housing Federal Housing Administration Deputy Comptroller.
| Office of Policy Development and Research | Associate Deputy Assistant Secretary for Policy Development.
| Office of Public and Indian Housing | Deputy Assistant Secretary for Public Housing Investments.
|  | General Deputy Assistant Secretary for Public and Indian Housing.
|  | Director for Budget and Financial Management.
|  | Deputy Assistant Secretary for Budget and Administration.
|  | Deputy Assistant Secretary for the Real Estate Assessment Center.
DEPARTMENT OF HOUSING AND URBAN DEVELOPMENT OFFICE OF THE INSPECTOR GENERAL | Department of Housing and Urban Development Office of the Inspector General | Assistant Inspector General for Office of Management and Technology.
|  | Deputy Assistant Inspector General for Audit—Special Operations.
|  | Deputy Assistant Inspector General for Audit (Field Operations).
|  | Deputy Assistant Inspector General for Investigation (Field Operations).
|  | Deputy Assistant Inspector General for Information Technology.
|  | Counsel to the Inspector General.
|  | Deputy Assistant Inspector General for Investigation (Headquarters Operations).
|  | Associate Counsel.
|  | Deputy Inspector General.
|  | Assistant Inspector General for Audit.
|  | Assistant Inspector General for Investigation.
|  | Assistant Inspector General for Office of Evaluation (OE).
DEPARTMENT OF THE INTERIOR | Office of the Solicitor | Designated Agency Ethics Official. Associate Solicitor for Administration.
| Office of the Assistant Secretary—Policy, Management and Budget | Deputy Assistant Secretary—Human Capital and Diversity.
|  | Director, Office of Emergency Management.
|  | Deputy Assistant Secretary—Public Safety, Resource Protection and Emergency Services.
|  | Deputy Director, Office of Financial Management.
|  | Director, Office of Human Resources.
|  | Chief Division of Budget and Program Review.
|  | Director, Office of Financial Management and Deputy Chief Financial Officer.
|  | Deputy Assistant Secretary—Budget, Finance, Performance and Acquisition.
|  | Chief, Budget Administration and Departmental Management.
|  | Chief Diversity Officer/Director, Office of Civil Rights.
|  | Director, Office of Law Enforcement and Security.
| Office of Natural Resources Revenue Management | Program Director for Audit and Compliance Management.
|  | Program Director for Coordination, Enforcement, Valuation and Appeals.
|  | Deputy Director, Office of Natural Resources Revenue Management.
|  | Program Director for Financial and Program Management.
| Office of Hearings and Appeals | Director, Office of Hearings and Appeals.
| United States Fish and Wildlife Service | Chief, Office of Law Enforcement.
| National Park Service | Financial Advisor (Comptroller).
|  | Associate Director Interpretation and Education.
| Field Offices | Park Manager (Superintendent).
|  | Park Manager.
| Bureau of Reclamation | Director, Management Services Office.
|  | Director, Safety, Security, and Law Enforcement.
| United States Geological Survey | Associate Director for Budget, Planning, and Integration.
|  | Associate Director for Communications and Publishing.
|  | Associate Director for Human Capital.
|  | Deputy Director, United States Geological Survey.
|  | Associate Director for Administration.
|  | Chief Scientist for Hydrology.
|  | Principal Deputy Director.
|  | Chief, Geospatial Information, Integration and Analysis.
|  | Director, Earth Resources Observation and Science Center and Space Policy Advisor.
|  | Associate Director for Climate Variability and Land Use Change.
|  | Associate Director for Water.
|  | Associate Director for Core Science Systems.
|  | Director, Office of Science Quality and Integrity.
|  | Associate Director for Ecosystems.
|  | Associate Director for Energy, Minerals and Environmental Health.
|  | Associate Director for Natural Hazards.
| Field Offices | Regional Director—Midwest.
|  | Regional Director—Pacific.
|  | Regional Director—Alaska.
|  | Regional Director—Northeast.
|  | Regional Director—Southeast.
|  | Regional Director—Southwest.
|  | Regional Director—Northwest.
| Bureau of Land Management | Assistant Director, Human Capital Management.
| Field Offices | Director, National Operations Center.
|  | Regional Director Mid Continent Regional Coordinating Center.
|  | Regional Director.
| Bureau of Ocean Energy Management | Strategic Resources Chief.
| Office of Assistant Secretary—Indian Affairs | Director of Human Capital Management.
DEPARTMENT OF THE INTERIOR OFFICE OF THE INSPECTOR GENERAL | Office of the Inspector General | Chief of Staff. Associate Inspector General for Communication.
|  | Senior Advisor.
|  | Chief of Staff.
|  | Deputy Inspector General.
| Office of General Counsel | General Counsel.
| Office of Recovery and Accountability | Assistant Inspector General for Recovery Oversight.
| Office of Investigations | Assistant Inspector General for Investigations.
| Office of Management | Deputy Assistant Inspector General for Management.
|  | Assistant Inspector General for Management.
| Office of Information Technology | Assistant Inspector General for Information Technology.
| Office of Audits, Inspections, and Evaluations | Deputy Assistant Inspector General for Compliance and Finance.
|  | Assistant Inspector General for Audits, Inspections, and Evaluations.
DEPARTMENT OF JUSTICE | Office of the Deputy Attorney General | Chief, Professional Misconduct Review Unit.
| Office of the Legal Counsel | Special Counsel (2).
| Office of Professional Responsibility | Counsel on Professional Responsibility.
|  | Deputy Counsel on Professional Responsibility.
| Justice Management Division | Deputy Assistant Attorney General for Information Resources Management/Chief Information Officer.
|  | Director, Debt Collection Management Staff.
|  | Director, Budget Staff.
|  | Director, Finance Staff.
|  | Deputy Director, Budget Staff, Operations and Funds Control.
|  | Director, Departmental Ethics Office.
|  | Director, Enterprise Solutions Staff.
|  | Director, Information Technology Services Staff (ITSS).
|  | Chief Technology Officer.
|  | Deputy Chief Information Officer.
|  | Director, Asset Forfeiture Management Staff.
|  | Deputy Director, Human Resources.
|  | Deputy Director, Auditing, Finance Staff.
|  | Deputy Director, Budget Staff, Programs and Performance.
|  | Director, Operations Services Staff.
|  | Director, Information Technology Policy and Planning Staff.
|  | Deputy, Chief Information Officer for E-Government Services Staff.
|  | Director, Office of Attorney Recruitment and Management.
|  | Director, Facilities and Administrative Services Staff.
|  | Director Library Staff.
|  | Deputy Assistant Attorney General for Human Resources and Administration.
|  | Deputy Assistant Attorney General (Controller).
|  | Director, Security and Emergency Planning Staff.
|  | Director, Human Resources.
|  | Deputy Assistant Attorney General, Policy, Management, and Planning.
|  | Assistant Attorney General for Administration.
|  | Director, Equal Employment Opportunity Staff.
|  | General Counsel.
|  | Director Procurement Services Staff.
| Professional Responsibility Advisory Office | Director, Professional Responsibility Advisory Office.
| Federal Bureau of Prisons | Warden, Federal Transfer Center, Oklahoma City, Oklahoma.
|  | Warden, Federal Correctional Complex, Allenwood, Pennsylvania.
|  | Warden, Federal Medical Center, Carswell, Texas.
|  | Warden, Federal Correctional Complex, Oakdale, Louisiana.
|  | Warden, United States Penitentiary—High, Florence, Colorado.
|  | Warden, Federal Correctional Complex, Florence, Colorado.
|  | Warden, Federal Correctional Institution, Fort Dix, New Jersey.
|  | Warden, Federal Correctional Institution, Talladega, Alabama.
|  | Deputy Director.
|  | Regional Director Middle Atlantic Region.
|  | Warden, Federal Medical Center, Rochester, Minnesota.
|  | Warden, Federal Correctional Institution, Phoenix, Arizona.
|  | Senior Deputy Assistant Director, Correctional Programs Division.
|  | Regional Director, Southeast Region.
|  | Warden, Federal Correctional Complex, Beaumont, Texas.
|  | Senior Deputy Assistant Director, Information, Policy, and Public Affairs Division.
|  | Warden, United States Penitentiary, Pollock, Louisiana.
|  | Warden, Metropolitan Detention Center, Brooklyn, New York.
|  | Senior Deputy Assistant Director Administration Division.
|  | Warden, Metropolitan Correctional Center, New York, New York.
|  | Warden, Federal Correctional Institution, Otisville, New York.
|  | Warden, Federal Correctional Institution, Jessup, Georgia.
|  | Warden, Federal Correctional Institution, Beckley, West Virginia.
|  | Warden, Federal Correctional Complex, Coleman, Florida.
|  | Warden, United States Penitentiary, Atwater, California.
|  | Warden, United States Penitentiary, Lee, Virginia.
|  | Senior Counsel, Office of General Counsel.
|  | Warden, United States Penitentiary, Big Sandy, Kentucky.
|  | Complex Warden, Federal Correction Complex, Petersburg, Virginia.
|  | Regional Director, South Central Region.
|  | Regional Director, Western Region.
|  | Regional Director, North Central Region.
|  | Regional Director, Northeast Region.
|  | Assistant Director, Office of General Counsel.
|  | Assistant Director Correctional Programs Division.
|  | Senior Deputy General Counsel, Office of the General Counsel.
|  | Senior Deputy Assistant Director, Program Review Division.
|  | Warden, Federal Correction Institution, Thomson, IL.
|  | Warden, Federal Correction Institution, Fort Worth Texas.
|  | Senior Deputy Assistant Director, Administration Division.
|  | Assistant Director, Reentry Services Division.
|  | Senior Deputy Assistant Director, Information, Policy, and Public Affairs Division.
|  | Warden, Federal Correctional Institution, Berlin, New Hampshire.
|  | Senior Deputy General Counsel, Office of General Counsel.
|  | Assistant Director, Information, Policy and Public Affairs.
|  | Senior Deputy Assistant Director, Health Services Division.
|  | Senior Deputy Assistant Director, Industries, Education and Vocational Training Division.
|  | Warden, Federal Correction Institution, Mendota, California.
|  | Warden, Federal Correctional Institution, Herlong, California.
|  | Warden, Federal Correctional Complex, Forrest City, Arkansas.
|  | Warden, Federal Correctional Institution, Williamsburg, South Carolina.
|  | Warden, Federal Correctional Institution, Bennettsville, South Carolina.
|  | Warden, Federal Correctional Institution, Manchester, Kentucky.
|  | Warden, Federal Correctional Institution, Gilmer, West Virginia.
|  | Warden, Federal Correctional Institution, Sheridan, Oregon.
|  | Warden, Federal Correctional Institution, Memphis, Tennessee.
|  | Warden, Metropolitan Detention Center, Guaynabo, Puerto Rico.
|  | Warden, Federal Correctional Institution, Three Rivers, Texas.
|  | Warden, Federal Correctional Institution, Schuylkill, Pennsylvania.
|  | Warden, Federal Correctional Institution, Pekin, Illinois.
|  | Warden, Federal Correctional Institution, Oxford, Wisconsin.
|  | Warden, Federal Correctional Institution, Mckean, Pennsylvania.
|  | Warden, Federal Correctional Institution, Greenville, Illinois.
|  | Warden, Federal Correctional Institution, Cumberland, Maryland.
|  | Complex Warden, United States Penitentiary, Tucson, Arizona.
|  | Warden, United States Penitentiary Coleman-I, Coleman, Florida.
|  | Senior Deputy Assistant Director Re-Entry Services Division.
|  | Warden, United States Penitentiary, Canaan, Pennsylvania.
|  | Complex Warden, Federal Correctional Complex, Yazoo City, Mississippi.
|  | Warden, United States Penitentiary, Hazelton, West Virginia.
|  | Warden, United States Penitentiary, McCreary, Kentucky.
|  | Complex Warden, Federal Correctional Complex, Victorville, California.
|  | Assistant Director Human Resources Management Division.
|  | Warden, Federal Correctional Institution, Marianna, Florida.
|  | Warden, Federal Correctional Complex, Butner, North Carolina.
|  | Warden, Federal Correctional Complex, Terre Haute, Indiana.
|  | Assistant Director, Industries, Education, and Vocational Training Division.
|  | Warden, United States Penitentiary, Marion, Illinois.
|  | Warden, Federal Medical Center, Lexington, Kentucky.
|  | Warden, United States Medical Center Federal Prisoners, Springfield, Missouri.
|  | Warden, Federal Correctional Complex, Lompoc, California.
|  | Warden, United States Penitentiary, Lewisburg, Pennsylvania.
|  | Warden, United States Penitentiary, Leavenworth, Kansas.
|  | Warden, United States Penitentiary, Atlanta, Georgia.
|  | Assistant Director for Administration.
|  | Warden, Metropolitan Detention Center, Los Angeles, California.
|  | Warden, Federal Medical Center, Devens, Massachusetts.
|  | Warden, Federal Correctional Institution, Edgefield, South Carolina.
|  | Assistant Director, Program Review Division.
|  | Warden, Federal Correctional Institution, Fairton, New Jersey.
|  | Warden, Federal Detention Center, Miami, Florida.
|  | Warden, Federal Correctional Institution, El Reno, Oklahoma.
|  | Senior Deputy Assistant Director, Human Resources Management Division.
| Executive Office for Immigration Review | Deputy Chief Immigration Judge.
|  | Assistant Director for Administration.
|  | Vice Chairman, Board of Immigration Appeals.
|  | Associate Director.
|  | General Counsel.
|  | Chairman, Board of Immigration Appeals.
|  | Chief Immigration Judge.
|  | Chief Administrative Hearing Officer.
| Criminal Division | Counselor for Transnational Organized Crime and International Affairs.
|  | Chief, Human Rights and Special Prosecutions Section.
|  | Chief, Computer Crime and Intellectual Property Section.
|  | Chief, Child Exploitation and Obscenity Section.
|  | Deputy Chief for Organized Crime and Gang Section.
|  | Chief, Narcotic and Dangerous Drug Section.
|  | Deputy Chief, Asset Forfeiture and Money Laundering Section.
|  | Chief, Fraud Section.
|  | Chief, Appellate Section.
|  | Chief, Organized Crime and Gang Section.
|  | Director, International Criminal Investigative Training Assistance Program.
|  | Executive Officer.
|  | Deputy Chief, Appellate Section.
|  | Deputy Chief Public Integrity Section.
|  | Chief, Asset Forfeiture and Money Laundering Section.
|  | Deputy Chief for Litigation.
|  | Chief, Public Integrity Section.
|  | Senior Counsel for Cybercrime.
|  | Director, Office of Overseas Prosecutorial Development, Assistance, and Training.
|  | Deputy Chief, Narcotic and Dangerous Drug Section.
|  | Deputy Chief, Computer Crime and Intellectual Property Section.
| National Security Division | Director, Freedom of Information Act and Declassification Program.
|  | Chief, Appellate Unit.
|  | Special Counsel for National Security.
|  | Executive Officer.
|  | Deputy Assistant Attorney General, Foreign Intelligence Surveillance Act Operations and Intelligence Oversight.
|  | Chief, Operations Section.
|  | Chief, Oversight Section.
|  | Deputy Chief, Counterespionage Section.
|  | Deputy Chief, Counterterrorism Section.
|  | Deputy Chief, Operations Section.
| Executive Office for United States Attorneys | Chief Financial Officer.
|  | Chief Information Officer.
|  | General Counsel.
|  | Counsel, Legal Programs and Policy.
|  | Deputy Director.
|  | Chief Human Resources Officer.
|  | Associate Director, Office of Legal Education.
|  | Deputy Director for Administration and Management.
| United States Marshals Service | Assistant Director, Investigative Operations.
|  | Principal Deputy General Counsel.
|  | Deputy Assistant Director, Acquisition and Procurement.
|  | Assistant Director, Judicial Security.
|  | Assistant Director, Office of Inspection.
|  | Assistant Director, Justice Prisoner and Alien Transportation System (JPATS).
|  | Deputy Director.
|  | Assistant Director for Prisoner Operations.
|  | Assistant Director, Tactical Operations.
|  | Associate Director, Administration.
|  | Associate Director, Operations.
|  | Assistant Director, Financial Services.
|  | Assistant Director, Information Technology.
|  | Assistant Director, Training.
|  | Assistant Director, Asset Forfeiture.
|  | Assistant Director, Management Support.
|  | Assistant Director, Witness Security.
|  | Assistant Director, Human Resources.
| Bureau of Alcohol, Tobacco, Firearms and Explosives | Executive Assistant to the Director.
|  | Deputy Director.
|  | Deputy Assistant Director, Industry Operations.
|  | Chief, Special Operations Division.
|  | Deputy Director, Terrorist Explosive Device Analytical Center.
|  | Deputy Assistant Director, Field Operations—East.
|  | Deputy Assistant Director, Human Resources and Professional Development.
|  | Deputy Assistant Director, Field Operations—West.
|  | Assistant Director, Management and Chief Financial Officer.
|  | Deputy Assistant Director, Management and Chief Financial Officer.
|  | Assistant Director, Human Resources and Professional Development.
|  | Special Agent In Charge, Denver.
|  | Special Agent In Charge, Newark.
|  | Special Agent In Charge, Baltimore.
|  | Special Agent In Charge, New Orleans.
|  | Special Agent In Charge, Columbus.
|  | Special Agent In Charge, Tampa.
|  | Special Agent In Charge, Seattle.
|  | Special Agent In Charge, Louisville.
|  | Special Agent In Charge, Detroit.
|  | Special Agent In Charge, Charlotte.
|  | Special Agent In Charge, Miami.
|  | Special Agent In Charge, San Francisco.
|  | Special Agent In Charge, Phoenix.
|  | Special Agent In Charge, Philadelphia.
|  | Special Agent In Charge, Kansas City.
|  | Special Agent In Charge, Chicago.
|  | Special Agent In Charge, Boston.
|  | Special Agent In Charge, Atlanta.
|  | Special Agent In Charge, Saint Paul.
|  | Deputy Assistant Director, Office of Public and Governmental Affairs.
|  | Assistant Director, Office of Public and Governmental Affairs.
|  | Deputy Assistant Director, Office of Strategic Intelligence and Information.
|  | Assistant Director, Office of Strategic Intelligence and Information.
|  | Special Agent In Charge, Dallas.
|  | Special Agent In Charge, Nashville.
|  | Deputy Assistant Director, Industry Operations.
|  | Deputy Assistant Director, Office of Professional Responsibility and Security Operations.
|  | Special Agent In Charge, Houston.
|  | Special Agent In Charge, Washington DC.
|  | Special Agent In Charge, New York.
|  | Special Agent In Charge, Los Angeles.
|  | Deputy Assistant Director, Forensic Services.
|  | Assistant Director, Science and Technology.
|  | Deputy Assistant Director for Information Technology and Deputy Chief Information Officer.
|  | Assistant Director, Office of Professional Responsibility and Security Operations.
|  | Deputy Assistant Director, Enforcement Programs and Services.
|  | Assistant Director, Enforcement Programs and Services.
|  | Deputy Assistant Director, Field Operations—Central.
|  | Assistant Director, Field Operations.
|  | Deputy Assistant Director, Field Operations (Programs).
| Antitrust Division | Chief, Telecommunications and Media Section.
|  | Director, Economic Enforcement.
|  | Executive Officer.
| Civil Division | Special Immigration Counsel.
|  | Deputy Branch Director, Federal Programs.
|  | Deputy Branch Director.
|  | Deputy Director, Appellate Staff.
|  | Deputy Director, Appellate Branch.
|  | Deputy Director, Commercial Litigation Branch.
|  | Deputy Branch Director, Federal Programs.
|  | Director, Office of Management Programs.
|  | Deputy Director, Commercial Litigation Branch.
|  | Deputy Branch Director, Federal Programs.
|  | Director, Consumer Protection Branch.
|  | Appellate Litigation Counsel.
|  | Director, Consumer Litigation Branch, Foreign Litigation Section.
|  | Special Litigation Counsel, Aviation and Admiralty Section.
|  | Deputy Director, Office of Immigration Litigation, Appellate Section.
|  | Deputy Director, Commercial Litigation Branch.
| Environment and Natural Resources Division | Deputy Chief, Environmental Enforcement Section.
|  | Chief, Natural Resources Section.
|  | Deputy Chief, Environmental Enforcement Section.
|  | Deputy Chief, Environmental Defense Section.
|  | Deputy Section Chief, Natural Resources Section.
|  | Deputy Chief, Natural Resources Section.
|  | Deputy Chief, Appellate Section.
|  | Senior Litigation Counsel.
|  | Deputy Chief, Environmental Enforcement Section.
|  | Chief, Environmental Enforcement Section.
|  | Chief, Environmental Crimes Section.
|  | Chief, Wildlife and Marine Resources Section.
|  | Chief, Environmental Defense Section.
|  | Chief, Indian Resources Section.
|  | Chief, Appellate Section.
|  | Chief, Land Acquisition Section.
|  | Executive Officer.
| Tax Division | Deputy Assistant Attorney General.
|  | Special Litigation Counsel.
|  | Senior Litigation Counsel.
|  | Chief, Civil Trial Section, Southwestern Region.
|  | Chief, Civil Trial Section, Central Region.
|  | Executive Officer.
|  | Chief, Civil Trial Section, Eastern Region.
|  | Chief, Criminal Appeals and Tax Enforcement Policy Section.
|  | Chief, Criminal Enforcement Section, Western Region.
|  | Chief, Criminal Enforcement Section, South Region.
|  | Chief, Criminal Enforcement Section, North Region.
|  | Chief, Office of Review.
|  | Chief, Appellate Section.
|  | Chief, Court of Federal Claims Section.
|  | Chief, Civil Trial Section, Northern Region.
|  | Chief, Civil Trial Section, Southern Region.
|  | Chief, Civil Trial Section, Western Region.
| Civil Rights Division | Executive Officer.
|  | Chief, Policy Strategy Section.
| Executive Office for Organized Crime Drug Enforcement Task Forces | Director, Organized Crime Drug Enforcement Task Forces.
|  | Deputy Director, Office for Victims of Crime.
| Office of Justice Programs | Deputy Chief Financial Officer.
|  | Director, Office of Administration.
|  | Chief Financial Officer.
|  | Director, Office of Audit, Assessment and Management.
| National Institute of Justice | Deputy Director, National Institute of Justice.
| Office of the Inspector General | Deputy Assistant Inspector General for Investigation.
|  | Deputy Assistant Inspector General for Audit.
|  | Director, Office of Oversight and Review.
|  | General Counsel.
|  | Deputy Inspector General.
|  | Assistant Inspector General for Management and Planning.
|  | Assistant Inspector General for Investigation.
|  | Assistant Inspector General for Audit.
|  | Assistant Inspector General, Evaluation and Inspections Division.
| Office of Tribal Justice | Director.
DEPARTMENT OF JUSTICE OFFICE OF THE INSPECTOR GENERAL | Audit Division | Deputy Assistant Inspector General, Audit Division. Assistant Inspector General, Audit Division.
| Evaluation and Inspections Division | Assistant Inspector General, Evaluation and Inspections Division.
| Front Office | General Counsel.
|  | Deputy Inspector General.
| Investigations Division | Deputy Assistant Inspector General, Investigations Division.
|  | Assistant Inspector General, Investigations Division.
| Management and Planning Division | Assistant Inspector General, Management and Planning Division.
| Oversight and Review Division | Deputy Assistant Inspector General, Oversight and Review Division.
|  | Assistant Inspector General, Oversight and Review Division.
DEPARTMENT OF LABOR | Women's Bureau | Deputy Director, Women's Bureau.
| Office of Public Affairs | Senior Managing Director.
| Bureau of International Labor Affairs | Director, Office of Child Labor, Forced Labor Human Trafficking.
|  | Director, Office of Trade and Labor Affairs.
|  | Regional Commissioner.
| Office of the Assistant Secretary for Policy | Director, Office of Regulatory and Programmatic Policy.
|  | Deputy Assistant Secretary for Policy.
| Office of the Solicitor | Regional Solicitor—Philadelphia.
|  | Associate Solicitor for Civil Rights and Labor Management.
|  | Regional Solicitor—San Francisco.
|  | Deputy Solicitor (Regional Operations).
|  | Associate Solicitor for Plan Benefits Security.
|  | Regional Solicitor—Chicago.
|  | Deputy Solicitor (National Operations).
|  | Associate Solicitor, Management and Administrative Legal Services Division.
|  | Regional Solicitor—Dallas.
|  | Associate Solicitor for Legal Counsel.
|  | Associate Solicitor for Occupational Safety and Health.
|  | Associate Solicitor for Mine Safety and Health.
|  | Associate Solicitor for Fair Labor Standards.
|  | Regional Solicitor—Atlanta.
|  | Associate Solicitor for Federal Employees' and Energy Workers' Compensation.
|  | Regional Solicitor—Boston.
|  | Regional Solicitor—New York.
|  | Associate Solicitor for Black Lung and Longshore Legal Services.
| Office of Chief Financial Officer | Deputy Chief Financial Officer. Associate Deputy Chief Financial Officer for Financial Systems.
| Office of the Assistant Secretary for Administration and Management | Director Business Operations Center.
|  | Director Office of Budget.
|  | Deputy Assistant Secretary for Operations.
|  | Director, Program Planning and Results Center.
|  | Chief Cyber Security Officer.
|  | Chief Procurement Officer.
|  | Director, Customer Service.
|  | Associate Deputy Chief Information Officer.
|  | Director of Enterprise Services.
|  | Deputy Director of Human Resources.
|  | Director, National Capital Service Center.
|  | Director of Civil Rights.
| Office of Federal Contract Compliance Programs | Administrative Officer.
|  | Regional Director for Office of Federal Contract Compliance Programs (6).
| Wage and Hour Division | Deputy Administrator for Program Operations.
|  | Director of Administrative Operations.
|  | Regional Director—Dallas.
|  | Director, Office of Program Operations.
|  | Regional Administrator for Wage and Hour.
|  | Assistant Administrator, Office of Government Contracts.
|  | Regional Administrator for Wage and Hour.
| Office of Workers Compensation Programs | Regional Director (Dallas).
|  | Director for Federal Employees' Compensation.
|  | Regional Director.
|  | Director, Office of Workers' Compensation Programs.
|  | Deputy Director for Office of Workers' Compensation Programs.
|  | Regional Director (Northeast Region).
|  | Director, Energy Employees' Occupational Illness Compensation.
|  | Administrative Officer.
|  | Comptroller.
|  | Regional Director (2).
| Office of Labor-Management Standards | Deputy Director, Office of Labor Management Standards.
|  | Senior Advisor and Director of Reports and Disclosures.
|  | Director, Office of Enforcement and International Union Audits.
| Employee Benefits Security Administration | Director, Office of Outreach Education and Assistance.
|  | Director of Information Management.
|  | Regional Director.
|  | Regional Director—Chicago.
|  | Chief Economist and Director of Policy and Research.
|  | Regional Director—Philadelphia.
|  | Regional Director—New York.
|  | Chief Accountant.
|  | Director of Exemption Determinations.
|  | Deputy Assistant Secretary for Program Operations.
|  | Director of Regulations and Interpretations.
|  | Director of Enforcement.
|  | Regional Director—San Francisco.
|  | Regional Director—Kansas City.
|  | Regional Director—Atlanta.
|  | Regional Director—Boston.
|  | Director of Health Plan Standards Compliance and Assistance.
| Bureau of Labor Statistics | Associate Commissioner for Publications and Special Studies.
|  | Associate Commissioner for Prices and Living Conditions.
|  | Assistant Commissioner for Industry Employment Statistics.
|  | Deputy Commissioner for Labor Statistics.
|  | Associate Commissioner for Survey Methods Research.
|  | Associate Commissioner for Employment and Unemployment Statistics.
|  | Director of Survey Processing.
|  | Director of Technology and Computing Services.
|  | Assistant Commissioner for Current Employment Analysis.
|  | Associate Commissioner for Technology and Survey Processing.
|  | Assistant Commissioner for Compensation Levels and Trends.
|  | Assistant Commissioner for Safety, Health and Working Conditions.
|  | Associate Commissioner for Compensation and Working Conditions.
|  | Assistant Commissioner for International Prices.
|  | Associate Commissioner for Field Operations.
|  | Associate Commissioner for Administration.
|  | Regional Commissioner (2).
|  | Assistant Commissioner for Occupational Statistics and Employment Projections.
|  | Assistant Commissioner for Consumer Prices and Prices Indexes.
|  | Associate Commissioner Productivity and Technology.
|  | Assistant Commissioner for Industrial Prices and Price Indexes.
| Employment and Training Administration | Administrator, Office of Financial and Administrative Management.
|  | Associate Administrator.
|  | Comptroller.
|  | Deputy Administrator, Job Corp.
|  | Administrator, Office of Policy Development and Research.
|  | Administrator, Office of Foreign Labor Certification.
|  | Administrator, Office of Workforce Security.
|  | Regional Administrator (6).
|  | Administrator, Office of Job Corps.
|  | Administrator, Apprenticeship and Training, Employee and Labor Services.
|  | Deputy Assistant Secretary (Operations and Management).
|  | Administrator, Office of Contract Management.
| Occupational Safety and Health Administration | Regional Administrator—Denver.
|  | Director, Directorate of Standards and Guidance.
|  | Regional Administrator—Seattle.
|  | Director of Construction.
|  | Regional Administrator—Atlanta.
|  | Regional Administrator—San Francisco.
|  | Regional Administrator—New York.
|  | Regional Administrator—Boston.
|  | Regional Administrator—Dallas.
|  | Director, Directorate of Enforcement Programs.
|  | Deputy Assistant Secretary.
|  | Director of Technical Support and Emergency Management.
|  | Regional Administrator—Philadelphia.
|  | Safety and Health Administrator—Chicago.
|  | Director, Administrative Programs.
|  | Director, Directorate of Cooperative and State Programs.
|  | Director, Office of Training and Education.
| Mine Safety and Health Administration | Program Manager. Administrator for Coal Mine Safety and Health.
|  | Deputy Administrator for Coal Mine Safety and Health.
|  | Deputy Assistant Secretary.
|  | Administrator for Metal and Nonmetal.
|  | Director, Educational Policy and Development.
|  | Director of Administration and Management.
|  | Director of Assessments.
|  | Director of Technical Support.
|  | Director of Program Evaluation and Information Resources.
| Veterans Employment and Training Service | Director, Office of Field Operations.
|  | Deputy Assistant Secretary for Operations and Management.
|  | Director, Department of Labor Homeless Assistance Program.
| Office of Disability Employment Policy | Deputy Assistant Secretary for Office of Disability Employment Policy (ODEP).
DEPARTMENT OF LABOR OFFICE OF INSPECTOR GENERAL | Department of Labor Office of Inspector General | Deputy Inspector General for Operations.
|  | Assistant Inspector General for Audit.
|  | Assistant Inspector General for Management and Policy.
|  | Deputy Assistant Inspector General for Labor Racketeering.
|  | Assistant Inspector General for Labor Racketeering.
|  | Assistant Inspector General for Inspections and Special Investigations.
|  | Deputy Inspector General.
|  | Counsel.
|  | Deputy Assistant Inspector General for Audit.
MERIT SYSTEMS PROTECTION BOARD | Office of the Clerk of the Board | Clerk of the Board.
| Office of Financial and Administrative Management | Director, Financial and Administrative Management.
| Office of Policy and Evaluation | Director, Office of Policy and Evaluation.
| Office of Information Resources Management | Director, Information Resources Management.
| Office of Regional Operations | Director, Office of Regional Operations.
| Atlanta Regional Office | Regional Director, Atlanta.
| Central Region, Chicago Regional Office | Regional Director, Chicago.
| Northeast Region, Philadelphia Regional Office | Regional Director, Philadelphia.
| Western Region, San Francisco Regional Office | Regional Director, San Francisco.
| Washington, DC Region, Washington Regional Office | Regional Director, Washington, District of Columbia.
| Dallas Regional Office | Regional Director, Dallas.
Manager, Safety and Mission Assurance/Program Risk Office, International Space Station Program | National Aeronautics and Space Administration | Director, National Aeronautics Space Administration and Research Institute.
|  | Associate Director for Mission Support.
|  | Director, National Aeronautics and Space Administration Lunar Science Institute.
|  | Director for Ames International Space Station Office.
|  | Deputy Director for Science.
|  | Senior Technical Advisor to the Director.
| Office of the Administrator | Deputy Associate Administrator.
| Office of the Deputy Administrator | Associate Administrator, Strategy and Policy.
| Office of the Chief of Staff | Director, Office of Evaluation.
|  | Senior Advisor to the Administrator for Policy and Strategy Implementation.
| Office of the Chief Scientist | Associate Chief Scientist for Planning and Evaluation.
|  | Associate Chief Scientist for Life and Microgravity Sciences.
| Exploration Systems Mission Directorate | Manager, Advanced Space Technology Program.
|  | Director, Directorate Integration Office.
|  | Assistant Associate Administrator, Strategic Integration and Management.
|  | Director, Mission Integration Division.
|  | Director, Business Operations Division.
|  | Assistant Associate Administrator for Administration.
|  | Director, Resources Management Office.
|  | Manager, Strategic Planning.
|  | Director, Strategic Integration and Management Office.
| Human Exploration and Operations Mission Directorate | Assistant Associate Administrator for International Space Station. Assistant Associate Administrator for Space Shuttle Program.
|  | Director, International Space Station and Space Shuttle Program Resource.
|  | Assistant Associate Administrator for Space Shuttle Program.
|  | Assistant Associate Administrator for Launch Services.
|  | Deputy Assistant Administrator for Program Integration.
|  | Director, Advanced Capabilities Division.
|  | Deputy Associate Administrator for Space Communications and Navigation.
|  | Assistant Associate Administrator for Resources Management and Analysis Office.
|  | Space Operations Mission Directorate Transition Manager.
|  | Assistant Associate Administrator for Human Exploration Capability.
|  | Director, Advanced Exploration Systems.
|  | Deputy Associate Administrator for Policy and Plans.
|  | Director, Program and Strategic Integration Office.
|  | Director, Human Spaceflight Capabilities Division.
|  | Director, Strategic Integration and Management Division.
|  | Manager, Rocket Propulsion Test Program Office.
| Office of the Chief Technologist | Deputy Chief Technologist.
| Office of Evaluation | Director, Cost Analysis Division.
| Science Mission Directorate | Deputy Director, for Programs, Earth Science Division.
|  | Deputy Associate Administrator for Research.
|  | Director, Strategic Integration and Management Division.
|  | Director, Science Engagement and Partnerships.
|  | Director, Applications Division.
|  | Deputy Associate Administrator for Management.
|  | Deputy Associate Administrator for Programs.
| James Webb Space Telescope Program Office | Director, James Webb Space Telescope Program.
| Planetary Science Division | Assistant Director for Strategy Communications and Integration.
|  | Mars Exploration Program Director.
|  | Director, Planetary Science Division.
|  | Deputy Director, Planetary Science Division.
| Astrophysics Division | Director, Astrophysics Division.
|  | Deputy Director, Astrophysics Division.
|  | Director, Astrophysics Division.
| Heliophysics Division | Director, Heliophysics Division.
|  | Deputy Director, Heliophysics Division.
|  | Program Director, Science Information and Telecommunications Systems.
| Earth Science Division | Program Director Science Division.
|  | Deputy Director, Earth Science.
|  | Program Director, Research and Analysis Program.
|  | Director, Earth Science Division.
| Joint Agency Satellite Division | Director, Joint Agency Satellite Division.
|  | Deputy Director, Joint Agency Satellite Division.
| Strategic Integration and Management Division | Director, Strategic Integration and Management Division.
| Aeronautics Research Mission Directorate | Director, Integration and Management Office.
|  | Director, Airspace Systems Program Office.
|  | Director, Aviation Safety Program Office.
|  | Director, Mission Support Office (2).
|  | Director, Fundamental Aeronautics.
|  | Director, Strategy, Architecture, and Analysis Office.
|  | Director, Strategy Communications and Program Integration.
|  | Director, Integrated Systems Research Program Office.
| Office of Program Analysis and Evaluation | Director, Independent Program Assessment Office.
|  | Deputy Associate Administrator.
|  | Deputy Director, Strategic Investments Division.
|  | Deputy Director, Strategic Investment Division.
|  | Director, Studies and Analysis Division.
|  | Deputy Director, Technical, Independent Program, Assessment.
| Office of Safety and Mission Assurance | Director, Independent Verification and Validation Program.
| Office of the Chief Financial Officer/Comptroller | Associate Deputy Chief Financial Officer (Finance).
|  | Deputy Chief Financial Officer (Agency Budget, Strategy and Performance).
| Office of Education | Senior Advisor, Education and STEM Engagement.
|  | Deputy Associate Administrator for Education.
|  | Deputy Associate Administrator for Integration.
| Space Technology Mission Directorate | Deputy Associate Administrator for Programs.
| Office of the Chief Engineer | Senior Advisor for Innovation.
| Mission Support Directorate | Assistant Associate Administrator for Resources and Performance.
|  | Deputy Associate Administrator for Mission Support.
|  | Assistant Administrator for Agency Operations.
| Office of Headquarters Operations | Director, Human Resource Management Division.
|  | Director, Headquarters Information Technology and Communications Division.
| Office of Human Capital Management | Deputy Assistant Administrator for Human Capital Management.
|  | Director, Workforce Management and Development Division.
|  | Director, Workforce Systems and Accountability Division.
|  | Director, Workforce Strategy Division.
|  | Assistant Administrator for Human Capital Management.
| Office of Strategic Infrastructure | Director, Integrated Asset Management Division.
|  | Director, Strategic Capability Asset Program.
|  | Director, Facilities Engineering and Real Property Division.
|  | Deputy Assistant Administrator for Strategic Infrastructure.
|  | Director, Facilities Engineering.
|  | Director, Environmental Management Division.
|  | Deputy Assistant Administrator for Policy.
| National Aeronautics and Space Administration Shared Services Center | Director, Business and Administration.
|  | Deputy Director, National Aeronautics and Space Administration Shared Services Center.
|  | Executive Director of National Aeronautics and Space Administration Shared Services Center.
| Office of Protective Services | Assistant Administrator for Protective Services.
|  | Assistant Administrator for Security and Program Protection.
|  | Deputy Assistant Administrator for Protective Services.
|  | Director of Counterintelligence/Counterterrorism for Protective Services.
| Office of Procurement | Director, Contract Management Division.
|  | Assistant Administrator for Procurement.
|  | Director, Analysis Division.
|  | Director, Program Operations Division.
|  | Director, Contract Management Division.
| National Aeronautics and Space Administration Management Office | Director National Aeronautics and Space Administration Management Office.
| Office of Safety and Mission Assurance | Director, National Aeronautics and Space Administration Safety Center.
|  | Director, Mission Support Division.
|  | Deputy Chief, Safety and Mission Assurance Officer.
|  | Director, Safety and Assurance Requirements Division.
|  | Chief, Safety and Mission Assurance Office.
| Office of the Chief Financial Officer/Comptroller | Director, Financial and Budget Systems Management Division.
|  | Director, Policy Division.
|  | Director, Business Integration.
|  | Director for Performance Reporting.
|  | Director, Strategic Management and Planning.
|  | Director, Quality Assurance.
|  | Director, Financial Management.
|  | Senior Advisor to the Deputy Chief Financial Officer.
|  | Deputy Chief Financial Officer.
|  | Director, Budget Division.
| Office of the Chief Information Officer | Deputy Chief Information Officer for Information Technology Reform.
|  | Chief Technology Officer for Information Technology.
|  | Deputy Chief Information Officer for Information Technology Security.
|  | Associate Chief Information Officer for Capital Planning and Governance.
|  | Associate Chief Information Officer for Enterprise Service and Integration Division.
| Office of the Chief Engineer | Senior Advisor. Aeronautics Research Mission Directorate (ARMD), Chief Engineer.
|  | Science Mission Chief Engineer.
|  | Exploration Systems Mission Directorate Chief Engineer.
| Office of Communications | Deputy Assistant Administrator for Legislative Affairs.
|  | Director, Media Services Division.
|  | Assistant Administrator for Legislative and Intergovernmental Affairs.
| Office of Program and Institutional Integration | Director of Program and Institutional Integration Office.
|  | Deputy Director of the Office of Program and Institutional Integration.
| Office International and Interagency Relations | Deputy Director, Export Control and Interagency Liaison Division.
|  | Director, Advisory Committee Management Division.
|  | Director, Export Control and Interagency Liaison Division.
|  | Director, Human Exploration and Operations Division.
| Office of Legislative and Intergovernmental Affairs | Deputy Associate Administrator for Legislative Affairs.
| Office of Diversity and Equal Opportunity | Director, Complaints Management Division.
|  | Director, Programs, Planning and Evaluation Division.
| Office of Small Business Programs | Associate Administrator, Small Business Programs.
| Johnson Space Center | Director, Human Exploration Development Support Office.
|  | Manager, Program Planning and Control, Multi-Purpose Crew Vehicle (MPCV).
|  | Program Executive for Federal Aviation Administration and International Space Station.
|  | Manager, Space Shuttle Transition and Retirement.
|  | Assistant Manager, Exploration Planning.
|  | Deputy Associate Administrator, Exploration Planning.
|  | Chief of Staff, Exploration Planning.
|  | Deputy Manager, Commercial Crew Program.
|  | Assistant to the Director, Innovation and Partnerships.
|  | Associate Director for Strategic Capabilities.
|  | Director, Astromaterials Research and Exploration Science.
|  | Deputy Associate Administrator, Strategic Program Planning.
|  | Chief of Staff, Office of the Director.
|  | Chief Knowledge Officer.
|  | Manager, Advanced Planning.
|  | Chief Financial Officer.
|  | Director of Human Resources.
|  | Associate Director (Technical).
|  | Assistant to the Director, Engineering.
|  | Associate Director.
|  | Director, External Relations.
|  | Associate Director, Commercial Crew Program.
|  | Special Assistant for Program Integration, Orion.
|  | Manager, Technology Transfer and Commercialization.
| Space Station Program Office | Manager, International Space Station Program Transportation Integration Office.
|  | Deputy Manager, International Space Station Program.
|  | Manager, Program Projects Integration.
|  | Senior Advisor, Exploration and Space Operations.
|  | Manager, Operations Integration.
|  | Director, Human Space Flight Program—Russia.
|  | Manager, Vehicle Office.
|  | Manager, Program Planning and Control Office, International Space Station.
|  | Manager, International Space Station Payloads Office.
|  | Manager, International Space Station Program.
|  | Deputy Manager for Utilization.
|  | Manager, Avionics and Software Office.
|  | Manager, Mission Integration and Operations Office.
| Space Shuttle Program | Manager, Space Shuttle Business Office.
|  | Manager, Orbiter Project Office.
|  | Manager, Space Shuttle Systems Engineering and Integration Office.
|  | Deputy Manager, Space Shuttle Program.
|  | Manager, Space Shuttle Program.
|  | Associate Manager, Space Shuttle Program.
|  | Deputy Space Shuttle Program Manager for Kennedy Space Center.
|  | Manager, Launch Integration (Kennedy Space Center).
|  | Manager, Safety and Mission Assurance Office.
| Mission Operations | Director, Mission Operations.
|  | Deputy Director, Mission Operations.
|  | Chief, Engineering Projects.
| Constellation Program Office | Director, Systems Engineering and Integration, Constellation.
|  | Manager, Constellation Program.
|  | Deputy Manager, Orbiter Project Office.
|  | Director, Operation Integration, Constellation Program.
|  | Deputy Manager, Constellation Office.
|  | Director, Program Planning and Control, Constellation.
|  | Deputy Manager, Orion Project.
|  | Transition Manager, Operations and Test Integration Office, Constellation Program.
|  | Assistant Orion Project Manager, Program Planning and Control, Constellation.
|  | Assistant to the Director for Constellation.
|  | Associate Program Manager for Lunar Formulation.
|  | Constellation Program Deputy for the Orion Project.
|  | Director, Safety Reliability and Quality Assurance, Constellation.
| Orion Program | Manager, Orion Program.
|  | Manager, Crew and Service Module Office.
|  | Manager, Avionics, Power and Software Office.
|  | Deputy Manager, Orion Program.
|  | Manager, Vehicle Integration Office.
| Flight Operations | Deputy Director, Flight Crew Operations.
|  | Director, Flight Crew Operations.
|  | Chief, Aircraft Operations Division.
|  | Assistant Director, Flight Crew Operations.
|  | Deputy Director, Flight Operations.
|  | Director, Flight Operations.
|  | Chief Flight Director Office.
|  | Chief Astronaut Office.
| Office of Engineering | Deputy Director, Engineering.
|  | Manager, Systems Architecture and Integration Office.
|  | Manager, Program Engineering Integration Office.
|  | Manager, Engineering Services and Management Integration Office.
|  | Chief, Crew and Thermal Systems Division.
|  | Chief, Propulsion and Power Division.
|  | Associate Director for Commercial Spaceflight.
|  | Director, Engineering.
|  | Chief, Structural Engineering Division.
|  | Associate Director for Commercial Spaceflight.
| Human Health and Performance | Manager, Human Research Program. Director, Human Health and Performance.
|  | Deputy Director, Human Health and Performance.
| Exploration Integration and Science | Director, Performance Management Integration Office.
|  | Director, Exploration Integration and Science.
|  | Manager, Strategic Analysis and Integration Office.
|  | Director, Strategic Opportunities and Partnership Development.
|  | Deputy Director, Exploration Integration and Science.
| Information Resources | Director, Information Resources.
| Office of Procurement | Director, Office of Procurement.
| Center Operations | Director, Center Operations.
| Safety and Mission Assurance | Director, Safety and Mission Assurance.
|  | Assistant to the Director, Safety and Mission Assurance.
|  | Deputy Director, Safety and Mission Assurance.
| White Sands Test Facility | Manager, National Aeronautics and Space Administration White Sands Test Facility.
| Eva Project Office | Manager, Eva Project Office.
| Kennedy Space Center | Director, Ground Processing Directorate.
|  | Manager, Office of the Chief Engineer, Engineering and Technology Directorate.
|  | Kennedy Space Center Associate Manager, Commercial Crew Program.
|  | Manager, Commercial Crew Program.
|  | 21st Century Space Launch Complex Project Manager, Ground Systems Development and Operations Program.
|  | Deputy Director, Technical, Engineering and Technology Directorate.
|  | Director, Engineering and Technology Directorate.
|  | Deputy Director, Management, Engineering and Technology Directorate.
|  | Exploration Systems Manager, Ground Systems Development and Operations Program.
|  | Deputy Director, Engineering and Technology Directorate.
|  | Director, International Space Station Ground Processing and Research Project Office.
|  | Deputy Manager, Ground Processing Development and Operations Program.
|  | Manager, Ground Systems Development and Operations Program.
|  | Director, Center Operations Directorate.
|  | Director, Procurement Office.
|  | Director, Human Resources Office.
|  | Chief Financial Officer.
|  | Associate Director, John F. Kennedy Space Center.
|  | Director, John F. Kennedy Space Center.
|  | Director, Public Affairs Directorate.
|  | Deputy Manager, Launch Services Program.
| Information Technology and Communications Services | Director, Information Technology and Communications Services.
| Safety and Mission Assurance | Director, Safety and Mission Assurance.
| Launch Services Program | Manager, Launch Services Program.
| Office of the Director | Associate Director, Technical, Marshall Space Flight Center.
| Office of the Deputy Director | Chief Engineer, Exploration Systems Development Division.
|  | Senior Executive for Technology and Integration.
| Office of the Associate Director | Associate Director, Marshall Space Flight Center.
| Michaud Assembly Facility | Deputy Director, Michaud Assembly Facility. Director, Michaud Assembly Facility.
| Engineering Directorate | Director, Mission Operations Laboratory, Engineering Directorate.
|  | Deputy Director, Engineering Directorate, Engineering Directorate.
|  | Deputy Director, Space Systems Department, Engineering Directorate.
|  | Director, Space Systems Department, Engineering Directorate.
|  | Deputy Director, Propulsion Systems Department, Engineering Directorate.
|  | Director, Propulsion Systems Department, Engineering Directorate.
|  | Director, Materials and Processes Laboratory, Engineering Directorate.
|  | Director, Test Laboratory, Engineering Directorate.
|  | Director, Spacecraft and Vehicle Systems Department, Engineering Directorate.
|  | Deputy Director, Spacecraft and Vehicle Systems Department, Engineering Directorate.
|  | Associate Director for Technical Operations, Engineering Directorate.
|  | Deputy Manager, Office of the Chief Engineer, Engineering Directorate.
|  | Associate Director for Operations, Engineering Directorate.
|  | Chief Engineer, Space Launch System, Engineering Directorate.
|  | Deputy Chief Engineer, Space Launch System Program, Engineering Directorate.
|  | Manager, Office of the Chief Engineer, Engineering Directorate.
| Office of the Chief Financial Officer | Chief Financial Officer (2).
| Office of Center Operations | Deputy Director, Office of Center Operations.
|  | Director, Office of Center Operations.
| Office of Procurement | Director, Office of Procurement.
| Safety and Mission Assurance Directorate | Chief Safety Officer, Safety and Mission Assurance Directorate.
|  | Deputy Director, Safety and Mission Assurance Directorate.
|  | Director, Safety and Mission Assurance Directorate.
| Office of Strategic Analysis and Communications | Director, Office of Strategic Analysis and Communications.
| Space Launch System Program Office | Manager, Space Launch System Program.
|  | Deputy Manager, Space Launch System Program Office.
|  | Manager, Spacecraft/Payload Integration and Evolution Office, Space Launch System Program.
|  | Manager, Stages Office, Space Launch System Program.
|  | Associate Program Manager, Space Launch System Program Office.
|  | Manager, Boosters Office, Space Launch System Program.
|  | Manager, Program Planning and Control Office, Space Launch System Program.
|  | Manager, Engines Office, Space Launch System Program.
| Science and Technology Office | Deputy Manager, Science and Technology Office.
|  | Manager, Science and Technology Office.
| Office of Chief Information Officer | Deputy Director, Enterprise Integration Office.
|  | Deputy Chief Information Officer, National Aeronautics and Space Administration Enterprise Applications Competency Center.
| Flight Programs and Partnerships Office | Manager, Flight Programs and Partnerships.
|  | Deputy Manager, Flight Programs and Partnerships Office.
| Office of Human Capital | Director, Office of Human Capital.
|  | Special Assistant to Director, Office of Human Capital.
| Stennis Space Center | Deputy Director, Engineering and Test Directorate.
|  | Director, Office of Safety and Mission Assurance.
|  | Chief Financial Officer.
|  | Director, Projects Directorate.
|  | Associate Director.
|  | Deputy Director, Stennis Space Center.
|  | Director, Engineering and Science Directorate.
|  | Director, Center Operations Directorate.
| Chief of Strategic Communications | Director, Business and Administration Operations.
| Ames Research Center | Ames Research Center Liaison for University Affiliated Research Center.
|  | Procurement Officer.
|  | Deputy Associate Director for Institutions and Research.
|  | Human Capital Director.
|  | Chief, Flight Vehicle Research and Tech Division.
|  | Director of Engineering.
|  | Deputy Director, Exploration Technology.
|  | Associate Director for Institutions and Research.
|  | Director, New Ventures and Communications Directorate.
|  | Director, Aeronautics Test Program.
|  | Director, Programs and Projects Directorate.
|  | Director, National Aeronautics and Space Administration Astrobiology Institute.
|  | Chief, Intelligent Systems Division.
|  | Chief Information Officer.
|  | Director, Exploration Technology Directorate.
|  | Associate Director for Institutional Management and Engineering.
|  | Director of Center Operations.
|  | Chief Financial Officer.
|  | Special Assistant to the Director.
|  | Deputy Director for Research.
|  | Chief, Space Technology Division.
|  | Deputy Director, Ames Research Center.
|  | Chief, Computational Sciences Division.
|  | Director, Office of Safety, Environment and Mission Assurance.
|  | Chief, Aviation Systems Division.
|  | Chief Counsel.
|  | Deputy Director, Center Operations.
|  | Deputy Director of Aeronautics.
| Astrobiology and Space Research | Chief, Life Sciences Division. Director of Science.
| Dryden Flight Research Center | Assistant Director for Strategic Implementation.
|  | Associate Center Director.
|  | Director of Mission Information and Test Systems.
|  | Program Manager for Stratospheric Observatory for Infrared Astronomy (SOFIA).
|  | Director for Programs.
|  | Chief Counsel.
|  | Director for Safety and Mission Assurance.
|  | Chief Financial Officer (Financial Manager).
|  | Director, Flight Operations Directorate.
| Langley Research Center | Director, Space Technology and Exploration Directorate.
|  | Director, Flight Projects Directorate.
|  | Deputy Director for Programs.
|  | Associate Director for Special Programs.
|  | Director, Office of Strategic Analysis, Communications, and Business Development.
|  | Senior Advisor for Space Technology.
|  | Deputy Director, Facilities and Laboratory Operations.
|  | Senior Advisor for Engineering Development.
|  | Deputy Director for Safety.
|  | Director, Ground Facilities and Testing Directorate.
|  | Director, Earth System Science Pathfinder Program Office.
|  | Associate Director, Langley Research Center.
|  | Deputy Director, Safety and Mission Assurance Office.
|  | Deputy Director for Advanced Projects.
|  | Chief Information Officer.
|  | Deputy Director, Research and Technology Test Operations.
|  | Deputy Director for Program Development.
|  | Deputy Director, National Aeronautics and Space Administration Engineering and Safety Center.
|  | Director, Research Services Directorate.
|  | Director, Systems Analysis and Advanced Concepts Directorate.
|  | Director, Science Directorate.
|  | Director, Aeronautics Research Directorate.
|  | Director, Center Operations Directorate.
|  | Deputy Director, Research Directorate.
|  | Director, Research Directorate.
|  | Deputy Director, Engineering Directorate.
|  | Director, Engineering Directorate.
|  | Manager, Systems Engineering Office.
|  | Director, Office of Human Capital Management.
|  | Manager, Management and Technical Support Office.
|  | Director, National Aeronautics and Space Administration Engineering and Safety Center.
|  | Special Assistant to the Director.
|  | Chief Financial Officer.
|  | Director, Safety and Mission Assurance Office.
|  | Director, Office of Procurement.
| Glenn Research Center | Director, Safety and Mission Assurance Directorate.
|  | Associate Director for Strategy.
|  | Director, Venture and Partnerships.
|  | Director, Space Flight Systems Directorate.
|  | Chief, Office of Acquisition.
|  | Deputy Director, Office of Technical Partnerships and Planning.
|  | Director, Office of Technology Incubation and Innovation.
|  | Plum Brook Station Manager.
|  | Director of Center Operations.
|  | Chief Financial Officer.
|  | Director, Systems Management Office.
| Aeronautics Directorate | Director, Aeronautics Directorate.
| Facilities and Test Directorate.
|  | Chief, Facilities and Test Engineering Division.
|  | Associate Director for Infrastructure Assessment.
|  | Director of Facilities and Test.
|  | Director, Facilities and Test Directorate.
|  | Director, Facilities and Test Directorate.
| Deputy Director, Facilities, Test and Manufacturing Directorate | Deputy Director of Facilities, Test and Manufacturing Directorate.
| Research and Technology Directorate | Chief, Structures and Materials Division.
|  | Chief, Power and On-Board Propulsion Division.
|  | Chief, Turbomachinery and Propulsion.
|  | Chief, Communications, Instrumentation and Controls Division.
| Space Flight Systems Directorate | Deputy Director, Space Flight Systems. Strategic Capability Manager.
| Engineering Directorate | Chief, Mechanical and Fluid Systems Division.
|  | Director of Engineering.
|  | Deputy Director of Engineering and Technical Services.
|  | Chief, Avionics and Electrical Systems Division.
|  | Chief, Systems Engineering and Analysis Division.
|  | Deputy Director of Engineering.
|  | Director, Engineering Directorate.
| Research and Engineering Directorate | Director, Research and Engineering Directorate.
|  | Deputy Chief, Power Division.
|  | Deputy Director, Research and Engineering Directorate.
|  | Chief, Power Division.
|  | Chief, Chief Engineer Office.
|  | Deputy Chief, Materials and Structures Division.
| Systems Engineering and Architecture Division | Deputy Chief, Systems Engineering and Architecture Division.
|  | Chief, Systems Engineering and Architecture Division.
| Materials and Structures Division | Chief, Materials and Structures Division.
| Propulsion Division | Chief, Propulsion Division.
|  | Deputy Chief, Propulsion Division.
| Communications and Intelligent Systems Division | Chief, Communications and Intelligent Systems Division.
| Office of the Chief Information Officer | Chief Information Officer.
| Safety and Mission Assurance Directorate | Director, Safety and Mission Assurance.
| National Aeronautics and Space Administration Safety Center | Director, Technical Excellence. Director, Audits and Assessments.
| Goddard Space Flight Center | Assistant Director for Advanced Concepts.
|  | Associate Director of Flight Projects for James Webb Space Telescope (JWST).
|  | Deputy Director for Science, Operations and Program Performance.
| Office of Human Resources | Director of Human Capital Management.
| Office of Comptroller | Chief Financial Officer/Comptroller.
|  | Deputy Chief Financial Officer.
| Office of Management Operations | Deputy Director of Management Operations.
|  | Associate Director for Acquisition.
| Office of Flight Assurance | Director of Systems Safety and Mission Assurance.
|  | Deputy Director of Safety and Mission Assurance.
| Flight Projects | Deputy Associate Director for Earth Science Projects Division.
|  | Associate Director for Earth Science Projects Division.
|  | Associate Director for Exploration and Space Communications Projects Division.
|  | Deputy Director for Planning and Business Management.
|  | Deputy Director of Flight Projects.
|  | Director of Flight Projects.
|  | Associate Director for Astrophysics Projects Division.
|  | Associate Director for Explorers and Heliophysics Projects Division.
|  | Associate Director for Earth Science Technology Office (ESTO).
|  | Deputy Associate Director for Explorers and Heliophysics Science Projects Division.
|  | Associate Director for Space Servicing Capabilities Project.
|  | Associate Director for Joint Polar Satellite System (JPSS) Program.
|  | Deputy Associate Director for Joint Polar Satellite System (JPSS) Program.
| Applied Engineering and Technology Directorate | Chief, Instrument Systems and Technology Division.
|  | Chief, Mission Engineering and Systems Analysis Division.
|  | Chief, Electrical Systems Division.
|  | Deputy Director of Applied Engineering and Technology for Planning and Business Management.
|  | Deputy Director of Applied Engineering and Technology.
|  | Chief, Software Engineering Division.
|  | Chief, Mechanical Systems Division.
| Sciences and Exploration | Director, Earth Sciences Division.
|  | Chief, Laboratory for Atmospheres.
|  | Director, Solar System Exploration Division.
|  | Deputy Director, Solar System Exploration Division.
|  | Deputy Director of Sciences and Exploration for Planning and Business Management.
|  | Deputy Director of Sciences and Exploration.
|  | Director of Sciences and Exploration.
|  | Deputy Director, Earth Sciences Division.
|  | Chief, Goddard Institute for Space Studies.
|  | Director, Astrophysics Science Division.
|  | Director, Heliophysics Science Division.
| Suborbital Projects and Operations | Special Assistant for Project Management Training.
| Office of Security Management and Safeguards | Deputy Assistant Administrator for Security and Program Protection.
| Office of Chief Education Officer | Deputy Chief Education Officer. Director Elementary and Secondary Education Division.
| Office of Security Management and Safeguards | Assistant Administrator for Security Management.
|  | Deputy Assistant Administrator for Security Management and Safeguards.
NATIONAL AERONAUTICS AND SPACE ADMINISTRATION OFFICE OF THE INSPECTOR GENERAL | National Aeronautics and Space Administration Office of the Inspector General | Counsel to the Inspector General. Assistant Inspector General for Management and Planning.
|  | Deputy Inspector General.
|  | Assistant Inspector General for Investigations.
|  | Assistant Inspector General for Auditing.
NATIONAL ARCHIVES AND RECORDS ADMINISTRATION | Archivist of United States and Deputy Archivist of the United States | Deputy Archivist of the United States.
| Office of the General Counsel | General Counsel.
| Office of the Congressional Affairs Staff | Director, Congressional and Legislative Affairs.
| Office of the Chief Operating Officer | Chief Operating Officer.
| Agency Services | Chief Records Officer.
|  | Director, Information Security Oversight Office.
|  | Director, Office of Government Information Services.
|  | Director, National Declassification Center.
|  | Director, Records Center Programs.
|  | Agency Services Executive.
| Business Support Services | Chief Financial Officer. Business Support Services Executive.
| Research Services | Director, Preservation Programs.
|  | Research Services Executive.
| Office of the Federal Register | Director of the Federal Register.
| Information Services | Information Services Executive/Chief Information Officer.
|  | Director, Information Technology Operations.
| Legislative Archives, Presidential Libraries and Museum Services | Legislative Archives, Presidential Libraries and Museum Services Executive.
| Office of Presidential Libraries | Deputy for Presidential Libraries.
| Office of Human Capital | Chief Human Capital Officer.
| Office of Strategy and Communications | Chief Strategy and Communications Officer.
| Office of Innovation | Chief Innovation Officer.
NATIONAL ARCHIVES AND RECORDS ADMINISTRATION OFFICE OF THE INSPECTOR GENERAL | National Archives and Records Administration Office of the Inspector General | Inspector General.
NATIONAL CAPITAL PLANNING COMMISSION | National Capital Planning Commission Staff | General Counsel.
|  | Chief Operating Officer.
|  | Deputy Executive Director.
|  | Executive Director.
NATIONAL ENDOWMENT FOR THE ARTS | National Endowment for the Arts | Chief Information Officer. Deputy Chairman for Programs and Partnerships.
|  | Director, Research and Analysis.
|  | Deputy Chairman for Management and Budget.
NATIONAL ENDOWMENT FOR THE ARTS OFFICE OF THE INSPECTOR GENERAL | National Endowment for the Arts Office of the Inspector General | Inspector General.
NATIONAL ENDOWMENT FOR THE HUMANITIES | National Endowment for the Humanities | Assistant Chairman for Planning and Operations.
NATIONAL LABOR RELATIONS BOARD | National Labor Relations Board | Deputy Associate General Counsel, Division of Enforcement Litigation.
| Office of the Board Members | Assistant General Counsel.
|  | Deputy Executive Secretary.
|  | Inspector General.
|  | Chief Information Officer.
| Division of Enforcement Litigation | Deputy Associate General Counsel , Appellate Court Branch.
|  | Director, Office of Appeals.
| Division of Advice | Deputy Associate General Counsel, Division of Advice.
|  | Associate General Counsel, Division of Advice.
| Division of Administration | Director, Division of Administration.
|  | Deputy Director, Division of Administration.
|  | Director of Administration.
| Division of Operations Management | Deputy Associate General Counsel, Division of Operations-Management.
|  | Associate General Counsel, Division of Operation-Management.
|  | Assistant to General Counsel (2).
|  | Assistant General Counsel (2).
| Regional Offices | Regional Director, Region 24, Hato Rey, Puerto Rico.
|  | Regional Director, Region 22, Newark, New Jersey.
|  | Regional Director, Region 21, Los Angeles, California.
|  | Regional Director, Region 20, San Francisco, California.
|  | Regional Director, Region 19, Seattle, Washington.
|  | Regional Director, Region 18, Minneapolis, Minnesota.
|  | Regional Director, Region 17, Kansas City, Kansas.
|  | Regional Director, Region 16, Fort Worth, Texas.
|  | Regional Director, Region 15, New Orleans, Louisiana.
|  | Regional Director, Region 14, Saint Louis, Missouri.
|  | Regional Director, Region 13, Chicago, Illinois.
|  | Regional Director, Region 12, Tampa, Florida.
|  | Regional Director, Region 11, Winston Salem, North Carolina.
|  | Regional Director, Region 10, Atlanta, Georgia.
|  | Regional Director, Region 9, Cincinnati, Ohio.
|  | Regional Director, Region 8, Cleveland, Ohio.
|  | Regional Director, Region 7, Detroit, Michigan.
|  | Regional Director, Region 6, Pittsburgh, Pennsylvania.
|  | Regional Director, Region 5, Baltimore, Maryland.
|  | Regional Director, Region 4, Philadelphia, Pennsylvania.
|  | Regional Director, Region 3, Buffalo, New York.
|  | Regional Director Region 2, New York.
|  | Regional Director, Region 1, Boston, Massachusetts.
|  | Regional Director, Region 32, Oakland, California.
|  | Regional Director, Region 31, Los Angeles, California.
|  | Regional Director, Region 25, Indianapolis, Indiana.
|  | Regional Director, Region 26, Memphis, Tennessee.
|  | Regional Director, Region 27, Denver, Colorado.
|  | Regional Director, Region 28, Phoenix, Arizona.
|  | Regional Director, Region 34, Hartford, Connecticut.
|  | Regional Director, Region 30, Milwaukee, Wisconsin.
|  | Regional Director, Region 29, Brooklyn, New York.
NATIONAL SCIENCE FOUNDATION | Office of the Director Office of Integrative Activities | Chief Technology Officer. Senior Advisor (Level-II).
|  | Senior Advisor.
| Office of Diversity and Inclusion | Office Head, Office of Diversity and Inclusion.
| Office of the General Counsel | Deputy General Counsel.
| Directorate for Geosciences | Deputy Assistant Director.
| Division of Atmospheric and Geospace Sciences | Section Head, National Center for Atmospheric Research (NCAR)/Facilities Section.
| Division of Earth Sciences | Head, Deep Earth Processes Section.
| Division of Ocean Sciences | Section Head, Integrative Programs Section.
| Division of Polar Programs | Head, Section for Antarctic Infrastructure and Logistic.
| Division of Engineering Education and Centers | Deputy Division Director.
| Division of Civil, Mechanical, and Manufacturing Innovation | Deputy Division Director.
| Division of Industrial Innovation and Partnerships | Deputy Division Director. Senior Advisor.
| Division of Chemical, Bioengineering, Environmental, and Transport Systems | Deputy Division Director (2).
| Division of Electrical, Communication and Cyber Systems | Deputy Division Director.
| Directorate for Biological Sciences | Deputy Assistant Director.
| Division of Environmental Biology | Deputy Division Director.
| Division of Integrative Organismal Systems | Deputy Division Director.
| Directorate for Mathematical and Physical Sciences | Senior Science Associate. Senior Advisor.
|  | Deputy Assistant Director.
| Division of Astronomical Sciences | Deputy Division Director.
| Division of Mathematical Sciences | Deputy Division Director.
| Division of Materials Research | Deputy Division Director.
| Division of Research on Learning In Formal and Informal Settings | Senior Advisor for Research.
| Directorate for Social, Behavioral and Economic Sciences | Deputy Assistant Director.
| National Center for Science and Engineering Statistics | Division Director.
| Directorate for Computer and Information Science and Engineering | Deputy Assistant Director.
| Office of Budget, Finance and Award Management | Director, Budget, Finance and Award and Chief Financial Officer.
|  | Deputy Director-Planning, Coordination and Analysis.
| Budget Division | Deputy Director.
|  | Division Director.
| Division of Financial Management | Deputy Division Director, Division of Financial Management.
|  | Division Director and Deputy Chief Financial Officer.
| Division of Grants and Agreements | Division Director.
| Division of Acquisition and Cooperative Support | Division Director.
| Division of Institutional and Award Support | Deputy Division Director.
|  | Division Director.
| Office of Information and Resource Management | Senior Staff Associate.
|  | Deputy Director.
|  | Head, Office of Information and Resource Management and Chief Human Capital Officer.
| Division of Information Systems | Deputy Division Director.
| Division of Human Resource Management | Deputy Division Director.
|  | Division Director.
| Division of Administrative Services | Deputy Division Director.
|  | Division Director.
NATIONAL SCIENCE FOUNDATION OFFICE OF THE INSPECTOR GENERAL. | National Science Foundation Office of the Inspector General | Assistant Inspector General for Audit/Chief Information Officer to Office of Inspector General.
|  | Assistant Inspector General for Management, Legal and External Affairs.
|  | Inspector General.
|  | Deputy Inspector General.
|  | Assistant Inspector General for Investigations.
NATIONAL TRANSPORTATION SAFETY BOARD. | Office of the Managing Director | Deputy Managing Director (2).
| Office of Administration | Director, Office of Administration.
| Office of Aviation Safety | Director Bureau of Accident Investigation.
|  | Deputy Director, Office of Aviation Safety.
|  | Deputy Director, Regional Operations.
| Office of Research and Engineering | Director Office of Research and Engineering.
|  | Deputy Director Office of Research and Engineering.
| Office of Chief Financial Officer | Chief Financial Officer.
| Office of Railroad, Pipeline and Hazardous Materials Investigations | Deputy Director, Office of Railroad, Pipeline and Hazardous Materials Safety.
|  | Director, Office of Railroad, Pipeline and Hazardous Materials Investigations.
| Office of Communications | Deputy Director, Office of Communications.
| Office of Highway Safety | Director, Office of Highway Safety.
| Office of Chief Information Officer | Chief Information Officer.
| Office of Marine Safety | Director, Office of Marine Safety.
NUCLEAR REGULATORY COMMISSION. | Office of the Chief Financial Officer | Controller.
|  | Budget Director.
|  | Deputy Chief Financial Officer.
| Office of Commission Appellate Adjudication | Director, Office of Commission Appellate Adjudication.
| Office of Information Services | Deputy Director, Office of Information Services.
|  | Director, Information Technology/Information Management Portfolio Management and Planning Division.
|  | Director, Operations Division.
|  | Director, Customer Service Division.
|  | Director, Solutions Development Division.
| Computer Security Office | Chief Information Security Officer/Director, Computer Security Office.
| Office of Administration | Director, Acquisition Management Division.
|  | Director, Division of Administrative Services.
|  | Director, Division of Facilities and Security.
|  | Associate Director for Space Planning and Consolidation.
|  | Deputy Director, Office of Administration.
| Office of Nuclear Security and Incident Response | Deputy Director, Office of Nuclear Security and Incident Response.
| Division of Security Policy | Director, Division of Security Policy.
|  | Deputy Director, Division of Security Policy.
| Division of Preparedness and Response | Director, Division of Preparedness and Response.
|  | Deputy Director, Division of Preparedness and Response.
| Division of Security Operations | Director, Division of Security Operations.
|  | Deputy Director, Division of Security Operations.
| Cyber Security Directorate | Director, Cyber Security Directorate.
| Office of Small Business and Civil Rights | Director, Office of Small Business and Civil Rights.
| Office of New Reactors | Deputy Director, Office of New Reactors.
| Division of Advanced Reactors and Rulemaking | Deputy Director, Division of Advanced Reactors and Rulemaking.
|  | Director, Division of Advanced Reactors and Rulemaking.
| Division of New Reactor Licensing | Director, Division of New Reactor Licensing.
|  | Deputy Director, Division of New Reactor Licensing (2).
| Division of Site Safety and Environmental Analysis | Deputy Director, Division of Site Safety and Environmental Analysis.
|  | Deputy Director, Division of Site Safety and Environmental Analysis.
|  | Director, Division of Site Safety and Environmental Analysis.
| Division of Safety Systems and Risk Assessment | Deputy Director, Division of Safety Systems and Risk Assessment.
|  | Director, Division of Safety Systems and Risk Assessment.
| Division of Engineering | Deputy Director, Division of Engineering.
|  | Director, Division of Engineering.
| Division of Construction Inspection and Operational Programs | Director, Division of Construction Inspection and Operational Programs.
|  | Deputy Director, Division of Construction Inspection and Operational Programs.
| Office of Nuclear Reactor Regulation | Director, Japan Lessons Learned Project Directorate.
| Division of Safety Systems | Deputy Director, Division of Safety Systems.
|  | Director, Division of Safety Systems.
|  | Deputy Director, Division of Systems Safety.
| Division of Engineering | Director, Division of Engineering.
|  | Deputy Director, Division of Engineering.
| Division of Risk Assessment | Deputy Director, Division of Risk Assessment.
|  | Director, Division of Risk Assessment.
| Division of License Renewal | Deputy Director, Division of License Renewal.
|  | Director, Division of License Renewal.
| Division of Operating Reactor Licensing | Deputy Director, Division of Operating Reactor Licensing (2).
|  | Director, Division of Operating Reactor Licensing.
| Division of Inspection and Regional Support | Director, Division of Inspection and Regional Support.
|  | Deputy Director, Division of Inspection and Regional Support.
| Division of Policy and Rulemaking | Director, Division of Policy and Rulemaking.
|  | Deputy Director, Division of Policy and Rulemaking (2).
| Office of Nuclear Material Safety and Safeguards | Special Assistant.
|  | Director, Program Planning, Budgeting, and Program Analysis Staff.
| Division of Fuel Cycle Safety, Safeguards, and Environmental Review | Deputy Director, Division of Fuel Cycle Safety, Safeguards, and Environmental Review.
|  | Director, Division of Fuel Cycle Safety, Safeguards, and Environmental Review.
| Yucca Mountain Directorate | Director, Yucca Mountain Directorate.
| Division of Spent Fuel Management | Deputy Director, Division of Spent Fuel Management.
|  | Director, Division of Spent Fuel Management.
| Division of Materials Safety, States, Tribal, and Rulemaking Programs | Director, Division of Materials Safety, State, Tribal, and Rulemaking Programs.
|  | Deputy Director, Division of Materials Safety, State, Tribal, and Rulemaking Programs.
| Division of Decommissioning, Uranium Recovery, and Waste Programs | Deputy Director, Environmental Protection and Performance Assessment Directorate.
|  | Director, Division of Decommissioning, Uranium Recovery, and Waste Programs.
|  | Deputy Director, Division of Decommissioning, Uranium Recovery, and Waste Programs.
| Office of Federal and State Materials and Environmental Management Programs | Deputy Director, Office of Federal and State Materials and Environmental Management Programs.
| Division of Intergovernmental Liaison and Rulemaking | Deputy Director, Division of Intergovernmental Liaison and Rulemaking.
|  | Director, Division of Intergovernmental Liaison and Rulemaking.
| Division of Engineering | Deputy Director, Division of Engineering.
|  | Director, Division of Engineering.
| Division of Systems Analysis | Deputy Director, Division of Systems Analysis (2).
|  | Director, Division of Systems Analysis.
| Division of Risk Analysis | Deputy Director, Division of Risk Analysis.
|  | Director, Division of Risk Analysis.
| Region I | Deputy Regional Administrator.
|  | Director, Division of Nuclear Materials Safety.
|  | Director, Division of Reactor Projects.
|  | Director Division of Reactor Safety.
|  | Deputy Director, Division of Reactor Safety.
|  | Deputy Director, Division of Reactor Projects.
| Region II | Director, Division of Fuel Facility Inspection.
|  | Deputy Director, Division of Reactor Projects.
|  | Director, Division of Reactor Projects.
|  | Deputy Regional Administrator for Operations.
|  | Director, Division of Reactor Safety.
|  | Deputy Regional Administrator for Construction.
|  | Director, Division of Construction Projects.
|  | Deputy Director, Division of Construction Projects.
|  | Director, Division of Construction Inspection.
|  | Deputy Director, Division of Construction Inspection.
|  | Deputy Director, Division of Reactor Safety.
|  | Deputy Director, Division of Fuel Facility Inspection.
| Region III | Director, Division of Nuclear Materials Safety.
|  | Deputy Regional Administrator.
|  | Director, Division of Reactor Projects.
|  | Deputy Director, Division of Reactor Safety.
|  | Deputy Director, Division of Reactor Projects.
|  | Director, Division of Reactor Safety.
| Region IV | Deputy Director, Division of Reactor Projects.
|  | Deputy Regional Administrator.
|  | Director, Division of Reactor Safety.
|  | Director, Division of Nuclear Materials Safety.
|  | Director, Division of Reactor Projects.
|  | Deputy Director, Division of Reactor Safety.
NUCLEAR REGULATORY COMMISSION OFFICE OF THE INSPECTOR GENERAL. | Nuclear Regulatory Commission Office of the Inspector General | Deputy Inspector General.
| Office of Assistant Inspector General for Audits | Assistant Inspector General for Audits.
| Office of Assistant Inspector General for Investigations | Assistant Inspector General for Investigations.
OCCUPATIONAL SAFETY AND HEALTH REVIEW COMMISSION | Office of the Executive Director | Executive Director.
OFFICE OF GOVERNMENT ETHICS. | Office of Government Ethics | Deputy Director for Internal Operations Division.
|  | Deputy Director for Compliance.
|  | Deputy Director for Financial Disclosure.
|  | Supervisory Attorney Advisor.
OFFICE OF MANAGEMENT AND BUDGET | Office of the Director | Senior Advisor to the Deputy/*Director for Management.
| Staff Offices | Deputy Associate Director for Economic Policy.
|  | Assistant Director for Management and Operations.
|  | Associate Director for Management and Operations.
|  | Deputy Assistant Director for Management.
| Legislative Reference Division | Chief, Economics, Science and Government Branch.
|  | Assistant Director Legislative Reference.
|  | Chief, Resources-Defense-International Branch.
|  | Chief, Labor, Welfare, Personnel Branch.
| Office of Federal Procurement Policy | Associate Administrator.
|  | Associate Administrator (Acquisition Policy).
|  | Associate Administrator for Acquisition Implementation.
|  | Associate Administrator.
|  | Deputy Administrator for Federal Procurement Policy.
|  | Associate Administrator for Procurement Law and Legislation.
| Office of the General Counsel | Associate General Counsel for Budget.
| Office of Information and Regulatory Affairs | Chief, Information Policy Branch.
|  | Chief, Statistical Policy Branch.
|  | Chief, Natural Resources and Environment Branch.
|  | Senior Advisor (2).
|  | Chief, Food, Health and Labor Branch.
| Office of E-Government and Information Technology | Deputy Administrator for E-Government and Information Technology.
|  | Chief Architect.
| Office of Federal Financial Management | Chief, Financial Standards and Grants Branch.
|  | Chief, Federal Financial Systems Branch.
|  | Senior Advisor to the Director.
|  | Chief, Financial Integrity and Analysis Branch.
|  | Chief, Accountability, Performance, and Reporting Branch.
| Office of Budget Review | Deputy Assistant Director for Budget Review.
|  | Deputy Chief, Budget Analysis Branch.
|  | Chief, Budget Analysis Branch.
|  | Assistant Director for Budget Review.
|  | Deputy Assistant Director for Budget Analysis and Systems.
|  | Chief, Budget Concepts Branch.
|  | Deputy Chief, Budget Review Branch.
|  | Chief, Budget Review Branch.
|  | Chief, Budget Systems Branch.
| International Affairs Division | Deputy Associate Director for International Affairs.
|  | Chief, Economic Affairs Branch.
|  | Chief, State/United States Information Agency Branch.
| National Security Division | Chief Operations and Support Branch.
|  | Chief, Force Structure and Investment Branch.
|  | Deputy Associate Director for National Security.
|  | Chief, Veteran Affairs Branch.
|  | Chief, Command, Control, Communication, Computers, and Intelligence Branch.
|  | Chief, Veterans Affairs and Defense Health Branch.
| Human Resource Programs | Senior Advisor.
|  | Chief, Personnel Policy Branch.
|  | Chief, Income Maintenance Branch.
|  | Deputy Associate Director for Education, Income Maintenance and Labor.
|  | Chief, Education Branch.
|  | Chief, Labor Branch.
|  | Deputy Associate Director, Education and Human Resources Division.
| Health Division | Deputy Associate Director for Health.
|  | Chief, Health and Financing Branch.
|  | Chief, Public Health Branch.
|  | Chief, Health and Human Services Branch.
|  | Chief, Health Insurance and Data Analysis Branch.
|  | Chief, Medicaid Branch.
|  | Chief, Medicare Branch.
| Transportation, Homeland, Justice and Services Division | Deputy Associate Director, Transportation, Homeland, Justice and Services.
|  | Chief, Transportation Branch.
|  | Chief, Transportation/General Services Administration Branch.
|  | Chief, Justice Branch.
|  | Chief, Homeland Security Branch.
| Housing, Treasury and Commerce Division | Chief, Commerce Branch.
|  | Deputy Associate Director for Housing, Treasury and Commerce.
|  | Chief, Treasury Branch.
|  | Chief, Housing Branch.
| Natural Resource Programs | Senior Advisor.
| Natural Resources Division | Deputy Associate Director for Natural Resources.
|  | Chief, Agricultural Branch.
|  | Chief, Interior Branch.
|  | Chief, Environment Branch.
| Energy, Science and Water Division | Deputy Associate Director for Energy, Science, and Water Division.
|  | Chief, Energy Branch.
|  | Chief, Science and Space Programs Branch.
|  | Chief, Water and Power Branch.
OFFICE OF NATIONAL DRUG CONTROL POLICY. | Office of Supply Reduction | Assistant Deputy Director of Supply Reduction.
|  | Associate Director for Intelligence.
| National Youth Anti-Drug Media Campaign | Associate Deputy Director for State, Local and Tribal Affairs (National Youth Anti-Drug Media Campaign).
OFFICE OF PERSONNEL MANAGEMENT. | Office of Planning and Policy Analysis | Deputy Director, Actuary.
| Office of Facilities, Security and Contracting | Director, Facilities, Security and Contracting.
|  | Deputy Director, Facilities, Security and Contracting.
| Office of Healthcare and Insurance | Assistant Director, Federal Employee Insurance Operations.
| Retirement Services | Deputy Associate Director, Retirement Operations.
|  | Deputy Associate Director, Retirement Services.
|  | Associate Director, Retirement Services.
| Office of Merit System Audit and Compliance | Deputy Associate Director, Merit System Audit and Compliance.
| Federal Investigative Services | Deputy Associate Director, Operations.
| Office of the Chief Financial Officer | Deputy Chief Financial Officer.
|  | Associate Chief Financial Officer, Financial Services.
|  | Chief Financial Officer.
| Office of the Chief Information Officer | Chief Information Officer.
OFFICE OF PERSONNEL MANAGEMENT OFFICE OF THE INSPECTOR GENERAL | Office of the Inspector General | Deputy Inspector General.
| Office of Investigations | Assistant Inspector General for Investigations.
|  | Deputy Assistant Inspector General for Investigations.
| Office of Audits | Assistant Inspector General for Audits.
|  | Deputy Assistant Inspector General for Audits.
|  | Senior Advisor to the Assistant Inspector General for Audits.
|  | Deputy Assistant Inspector General for Audits.
| Office of Legal Affairs | Assistant Inspector General for Legal Affairs.
| Office of Policy, Resources Management, and Oversight | Chief Information Technology Officer.
|  | Assistant Inspector General for Management.
OFFICE OF SPECIAL COUNSEL. | Headquarters, Office of Special Counsel | Director of Management and Budget.
|  | Chief Financial Officer and Director of Administrative Services.
|  | Director, Office of Planning and Analysis.
|  | Senior Associate Special Counsel for Investigation and Prosecution.
|  | Associate Special Counsel for Investigation and Prosecution (3).
|  | Associate Special Counsel Planning and Oversight.
|  | Associate Special Counsel for Legal Counsel and Policy.
OFFICE OF THE UNITED STATES TRADE REPRESENTATIVE | Office of Labor | Assistant United States Trade Representative for Labor.
| Office of Industry, Market Access and Telecommunications | Assistant United States Trade Representative for Industry, Market Access and Telecommunications.
| Office of South Asian Affairs | Assistant United States Trade Representative for South Asian Affairs.
RAILROAD RETIREMENT BOARD | Board Staff | Director of Policy and Systems.
|  | Director of Operations.
|  | Director of Fiscal Operations.
|  | Director of Programs.
|  | General Counsel.
|  | Chief Financial Officer.
|  | Deputy General Counsel.
|  | Director of Administration.
|  | Director of Field Service.
|  | Chief Actuary.
|  | Director of Hearings and Appeals.
|  | Chief of Technology Service.
|  | Chief Information Officer.
| Office of Inspector General | Assistant Inspector General for Audit.
|  | Assistant Inspector General for Investigations.
SELECTIVE SERVICE SYSTEM | Selective Service System | Associate Director for Operations.
| Office of the Director | Senior Advisor to the Director.
|  | Associate Director for Operations.
SMALL BUSINESS ADMINISTRATION | Office of the General Counsel | Associate General Counsel, Litigation.
|  | Associate General Counsel for Procurement Law.
|  | Associate General Counsel for Financial Law and Lender Oversight.
|  | Associate General Counsel for General Law.
| Office of Field Operations | District Director, Washington Metro Area District Office.
|  | District Director (4).
| Office of Hearings and Appeals | Assistant Administrator for Hearings and Appeals.
| Office of the Chief Financial Officer | Deputy Chief Financial Officer.
|  | Associate Administrator for Performance Management and Chief Financial Officer.
| Office of Capital Access | Director of Economic Opportunity.
| Office of Surety Guarantees | Director for Surety Bonds and Guarantees Programs.
| Office of Investment and Innovation | Deputy Associate Administrator for Investment.
| Office of Entrepreneurial Development | Deputy Associate Administrator for Entrepreneurial Development.
|  | Associate Administrator for Small Business Development Centers.
| Office of Human Resources Solutions | Deputy Chief Human Capital Officer.
|  | Deputy Chief Operating Officer/Chief Human Capital Officer.
| Office of the Chief Information Officer | Deputy Chief Information Officer.
| Office of Government Contracting and Business Development | Director for Policy Planning and Liaison.
| Office of Hub zone Empowerment Contracting | Director of Hub zone.
| Office of Business Development | Associate Administrator for Business Development.
SMALL BUSINESS ADMINISTRATION OFFICE OF THE INSPECTOR GENERAL | Small Business Administration Office of the Inspector General | Counsel to the Inspector General.
|  | Assistant Inspector General for Management and Policy.
|  | Assistant Inspector General for Auditing Division.
|  | Assistant Inspector General for Investigations.
|  | Deputy Inspector General.
SOCIAL SECURITY ADMINISTRATION | Office of the Chief Strategic Officer | Chief Strategic Officer.
| Office of Disability Adjudication and Review | Assistant Deputy Commissioner for Disability Adjudication and Review.
|  | Deputy Commissioner for Disability Adjudication and Review.
| Office of Appellate Operations | Deputy Executive Director, Office of Appellate Operations.
|  | Executive Director, Office of Appellate Operations.
| Office of Medical and Vocational Expertise | Associate Commissioner for Medical and Vocational Expertise.
| Office of the Chief Actuary | Chief Actuary. Deputy Chief Actuary (Long-Range).
|  | Deputy Chief Actuary (Short-Range).
| Office of Disability Determinations | Associate Commissioner for Disability Determinations.
| Office of Personnel | Deputy Associate Commissioner for Personnel.
|  | Associate Commissioner for Personnel.
| Office of Civil Rights and Equal Opportunity | Deputy Associate Commissioner for Civil Rights and Equal Opportunity.
|  | Associate Commissioner for Civil Rights and Equal Opportunity.
| Office of Labor-Management and Employee Relations | Deputy Associate Commissioner for Labor-Management and Employee Relations.
|  | Associate Commissioner for Labor-Management and Employee Relations.
| Office of Budget, Finance, Quality and Management | Assistant Deputy Commissioner for Budget, Finance and Management.
| Office of Financial Policy and Operations | Associate Commissioner, Office of Finance Policy and Operations.
|  | Deputy Associate Commissioner, Financial Policy and Operations.
| Office of Budget | Deputy Associate Commissioner for Budget.
|  | Associate Commissioner for Budget.
| Office of Acquisition and Grants | Deputy Associate Commissioner for Acquisition and Grants.
|  | Associate Commissioner for Acquisition and Grants.
| Office of Telecommunications and Systems Operations | Assistant Associate Commissioner for Enterprise Information Technology Services Management.
|  | Deputy Associate Commissioner for Telecommunications and Systems Operations.
|  | Associate Commissioner for Telecommunications and Systems Operations.
| Office of Information Security | Associate Commissioner for Information Security.
| Office of General Law | Deputy Associate General Counsel for General Law.
|  | Associate General Counsel for General Law.
| Office of Program Law | Deputy Associate General Counsel for Program Law.
| Office of Public Disclosure | Executive Director for Public Disclosure.
SOCIAL SECURITY ADMINISTRATION OFFICE OF THE INSPECTOR GENERAL | Immediate Office of the Inspector General | Deputy Inspector General.
| Office of Counsel to the Inspector General | Counsel to the Inspector General.
| Office of External Relations | Assistant Inspector General for External Relations (2).
| Office of Audit | Assistant Inspector General for Audit.
|  | Deputy Assistant Inspector General for Audit (Program Audit and Evaluations).
|  | Deputy Assistant Inspector General for Audit (Financial Systems and Operations Audits).
| Office of Investigations | Deputy Assistant Inspector General for Investigations (Western Field Operations).
|  | Deputy Assistant Inspector General for Investigations (Eastern Field Operations).
|  | Assistant Inspector General for Investigations.
| Office of Communications and Resource Management | Deputy Assistant Inspector General for Communications and Resource Management.
|  | Assistant Inspector General for Communications and Resource Management.
DEPARTMENT OF STATE | Office of Civil Rights Office of the Under Secretary for Management | Deputy Director. Ombudsman.
| Bureau of Administration | Director, Office of Acquisitions.
|  | Procurement Executive.
| Bureau of Human Resources | Principal Deputy Assistant Secretary.
|  | Human Resources Officer.
| Bureau of International Security and Nonproliferation | Office Director (2).
| Bureau of Arms Control, Verification, and Compliance | Director, Office of Strategic Negotiations and Implementation.
DEPARTMENT OF STATE OFFICE OF THE INSPECTOR GENERAL. | Office of Inspector General | Deputy Assistant Inspector General for Middle East Regional Office. Deputy Inspector General.
|  | Assistant Inspector General for Management.
|  | Deputy General Counsel.
|  | Deputy Assistant Inspector General for Inspections.
|  | Assistant Inspector General for Evaluations and Special Projects.
|  | Deputy Assistant Inspector General for Management.
|  | Assistant Inspector General for Audits.
|  | Deputy Assistant Inspector General for Investigations.
|  | Deputy Assistant Inspector General for Audits.
|  | General Counsel to the Inspector General.
|  | Assistant Inspector General for Investigations.
TRADE AND DEVELOPMENT AGENCY | Office of the Director | Deputy Director.
|  | Assistant Director for Policy and Programs.
| Office of the General Counsel | General Counsel.
DEPARTMENT OF TRANSPORTATION | Office of the Secretary | Executive Director for the Office of the Under Secretary of Transportation for Policy.
| Office of Intelligence, Security and Emergency Response | Deputy Director. Director, Office of Intelligence, Security and Emergency Response.
| Chief Information Officer | Chief Information Security Officer.
| Office of Safety, Energy and Environment | Director.
| Assistant Secretary for Budget and Programs | Chief Financial Officer. Deputy Chief Financial Officer.
| Office of the Senior Procurement Executive | Senior Procurement Executive.
| Office of the Administrator | Executive Director.
|  | Chief Financial Officer.
| Office of Associate Administrator for Railroad Safety | Associate Administrator for Railroad Safety/Chief Safety Officer.
| Office of the Administrator | Executive Director.
| Office of Associate Administrator for Strategic Sealift | Deputy Associate Administrator for Federal Sealift.
| Office of Associate Administrator for Environment and Compliance | Deputy Associate Administrator for Environment and Compliance. Associate Administrator for Environment and Compliance.
| Office of the Administrator | Executive Director.
|  | Director of Innovative Program Delivery.
| Office of the Chief Financial Officer | Director, Office of Acquisition Management.
|  | Chief Financial Officer.
|  | Deputy Chief Financial Officer and Chief Budget Officer.
| Office of Real Estate Services | Director, Office of Real Estate Services.
| Office of Associate Administrator for Safety | Associate Administrator for Safety.
| Office of Safety Research and Development | Director, Office of Safety Research, Development and Technology.
| Office of the Administrator | Assistant Administrator/Chief Safety Officer.
|  | Chief Financial Officer.
| Office of Licensing and Safety Information | Director, Office for Licensing and Safety Information.
| Office of Bus and Truck Standards and Operations | Director, Office of Bus and Truck Standards and Operations.
| Office of Enforcement and Compliance | Director, Office of Enforcement and Compliance.
| Office of Associate Administrator for Enforcement | Director, Office of Defects Investigation. Associate Administrator for Enforcement.
|  | Director, Office of Vehicle Safety Compliance.
| Office of Proceedings | Deputy Director—Legal Analysis.
| Office of the Managing Director | Managing Director.
| Office of Chief Safety Officer | Assistant Administrator and Chief Safety Officer.
| Office of Pipeline Safety | Associate Administrator for Pipeline Safety.
|  | Deputy Associate Administrator for Policy and Programs.
|  | Deputy Associate Administrator for Field Operations.
DEPARTMENT OF TRANSPORTATION OFFICE OF THE INSPECTOR GENERAL | Deputy Inspector General Office of Auditing and Evaluation | Deputy Inspector General. Principal Assistant Inspector General for Auditing and Evaluation (2).
|  | Deputy Principal Assistant Inspector General for Auditing and Evaluating.
| Office of Financial and Information Technology Audits | Assistant Inspector General for Financial and Information Technology Audits.
| Office of Acquisition and Procurement Audits | Assistant Inspector General for Acquisition and Procurement Audits.
| Office of Aviation Audits | Assistant Inspector General for Aviation Audits (2).
| Office of Surface Transportation Audits | Assistant Inspector General for Surface Transportation Audits.
| Principal Assistant Inspector General for Investigations | Principal Assistant Inspector General for Investigations.
| Assistant Inspector General for Investigations | Deputy Assistant Inspector General for Investigations.
| Office of Administration | Assistant Inspector General for Administration.
| Office of Legal, Legislative and External Affairs | Assistant Inspector General for Legal, Legislative and External Affairs.
| Office of Surface Transportation Audits | Assistant Inspector General for Surface Transportation Audits.
| Office of Aviation Audits | Assistant Inspector General for Aviation Audits.
DEPARTMENT OF THE TREASURY | Office of the Secretary of the Treasury | Director, Office of Small and Disadvantaged Business Utilization.
| Office of the Under Secretary for Domestic Finance | Director of Policy.
| Office of the Fiscal Assistant Secretary | Fiscal Assistant Secretary. Deputy Assistant Secretary (Accounting Policy).
|  | Deputy Assistant Secretary for Fiscal Operations and Policy.
| Bureau of the Fiscal Service | Deputy Assistant Commissioner, Office of Retail Securities.
|  | Deputy Assistant Commissioner, Payment Management.
|  | Director, Cash Management Infrastructure Group.
|  | Assistant Commissioner, Payment Management.
|  | Deputy Assistant Commissioner (Office of Information and Security Services).
|  | Deputy Assistant Commissioner (Financing).
|  | Deputy Assistant Commissioner, Government-wide Accounting.
|  | Assistant Commissioner (Office of Management Services).
|  | Deputy Chief Information Officer.
|  | Executive Director (Administrative Resource Center).
|  | Assistant Commissioner (Financing).
|  | Director, Regional Financial Center (Austin).
|  | Director, Regional Financial Center (San Francisco).
|  | Executive Director, Government Securities Regulations.
|  | Assistant Commissioner, Federal Finance.
|  | Assistant Commissioner, Management (Chief Financial Officer).
|  | Director, Revenue Collection Group.
|  | Assistant Commissioner (Public Debt Accounting).
|  | Assistant Commissioner, Debt Management Services.
|  | Assistant Commissioner, Government-wide Accounting.
|  | Director, Regional Financial Center (Philadelphia).
|  | Director, Regional Financial Center (Kansas City).
|  | Deputy Assistant Commissioner (Debt Management Services).
|  | Director, Debt Management Services Operations, West.
|  | Deputy Commissioner, Accounting and Shared Services.
|  | Deputy Commissioner, Finance and Administration.
|  | Deputy Assistant Commissioner for Information Services.
|  | Commissioner, Bureau of the Fiscal Service.
|  | Deputy Commissioner, Financial Services and Operations.
|  | Deputy Assistant Commissioner (Fiscal Accounting Operations).
|  | Assistant Commissioner, Information and Security Services (Chief Information Officer).
| Bureau of the Public Debt | Deputy Executive Director, Administrative Resources Center.
| Office of the Assistant Secretary for Financial Institutions | Deputy Director, Federal Insurance Office. Director, Federal Insurance Office.
| Office of the Assistant Secretary for Terrorist Financing | Director, Executive Office for Asset Forfeiture.
| Financial Crimes Enforcement Network | Associate Director, Enforcement Division.
|  | Associate Director, Intelligence Division.
|  | Executive Advisor.
|  | Deputy Associate Director, Compliance and Enforcement Programs.
|  | Associate Director, International.
|  | Associate Director, Management Programs Division.
|  | Associate Director, Technology Solutions and Services Division/Chief Information Officer.
|  | Associate Director, Regulatory Policy and Programs Division.
|  | Associate Director, Liaison Division.
|  | Deputy Director.
|  | Director, Financial Crimes Enforcement Network.
|  | Chief Counsel, Financial Crimes Enforcement Network.
| Office of Assistant Secretary for Intelligence and Analysis | Deputy Assistant Secretary for Security.
| Treasury Inspector General for Tax Administration | Assistant Inspector General for Investigation.
|  | Deputy Inspector General for Audit.
|  | Assistant Inspector General for Audit (Wage and Investment).
|  | Assistant Inspector General for Audit (Small Business and Corporate Entities).
|  | Assistant Inspector General for Audit (Headquarters Operations).
|  | Deputy Inspector General for Investigations.
|  | Assistant Inspector General for Audit (Information Systems Programs).
|  | Deputy Assistant Inspector General for Investigations.
|  | Assistant Inspector General for Investigations (Field Operations).
|  | Counsel to the Treasury Inspector General for Tax Administration.
|  | Associate Inspector General for Mission Support.
|  | Deputy Inspector General.
|  | Deputy Inspector General for Inspections and Evaluations.
| Office of Assistant Secretary (Tax Policy) | Director, Economic Modeling and Computer Applications.
| Alcohol and Tobacco Tax and Trade Bureau | Assistant Administrator, Field Operations.
|  | Deputy Administrator, Alcohol and Tobacco Tax and Trade Bureau.
|  | Assistant Administrator, Headquarter Operations.
|  | Administrator, Alcohol and Tobacco Tax and Trade Bureau.
|  | Assistant Administrator Information Resources/Chief Information Officer.
|  | Assistant Administrator, Management/Chief Financial Officer.
| Office of Assistant Secretary for Management | Director, Office of Procurement. Director, Office of Minority and Women Inclusion.
|  | Deputy Chief Financial Officer.
| Internal Revenue Service | Deputy Director, Prefiling and Technical Guidance.
|  | Director, Field Specialists—Large and Mid-Size Business.
|  | Director, Field Operations, Special—Wage and Investment.
|  | Director, Exempt Organizations, Rulings and Agreements.
|  | Director, Operations.
|  | Director, Program Analysis Customer Account Services—Wage and Investment.
|  | Director, Compliance Area.
|  | Director, Detroit Computing Center.
|  | Director, Portfolio Management.
|  | Director of Compliance, Atlanta—Wage and Investment.
|  | Deputy Director, Procurement.
|  | Director, Taxpayer Education and Communication Area, St Louis—Small Business and Self Employed.
|  | Area Director, Stakeholder, Partnership, Education, and Communication, Dallas—Wage and Investment.
|  | Director, Compliance Area, Baltimore—Small Business and Self Employed.
|  | Director, Procurement.
|  | Director, Taxpayer Education Area, Chicago—Small Business and Self Employed.
|  | Deputy Associate Commissioner, Systems Integration.
|  | Director, Compliance Area, Dallas—Small Business and Self Employed.
|  | Director, Mission Assurance.
|  | Compliance Service Field Director, Andover—Wage and Investment.
|  | Director, Security Policy, Support and Oversight.
|  | Director, Field Assistance Area.
|  | Accounts Management Field Director, Fresno—Wage and Investment.
|  | Director of Field Operations, New York—Large and Mid-Size Business.
|  | Associate Chief Financial Officer for Internal Financial Management—National Headquarters.
|  | Director, Compliance Area, Oakland—Small Business and Self-Employed.
|  | Director, Statistics of Income.
|  | Executive Director, Systemic Advocacy—National Taxpayer Advocate.
|  | Director, Media and Publications.
|  | Director, Internet Development Services.
|  | Director, Strategic Services.
|  | Director, Compliance Area.
|  | Associate Chief Financial Officer for Corporate Strategy.
|  | Director, Strategic Planning and Program Management.
|  | Director, Pre-Filing and Technical Guidance.
|  | Director, Compliance Area—Denver, Small Business and Self Employed.
|  | Submission Processing Field Director—Fresno, California.
|  | Director, Customer Account Manager.
|  | Director, Safety and Security.
|  | Deputy Director, Enterprise Operations Services.
|  | Director, Enterprise Operations Services.
|  | Director, Corporate Data and Systems Management Division.
|  | Deputy Director, Business Systems Development Division.
|  | Director, Management Services.
|  | Director, Change Management and Release Management.
|  | Director, Professional Responsibility.
|  | Director, Strategy and Finance, Appeals.
|  | Compliance Service, Field Director—Atlanta.
|  | Director, Strategy and Finance.
|  | Director, Management and Support.
|  | Director, Product Assurance.
|  | Submission Processing Field Director—Austin.
|  | Deputy Chief, Appeals.
|  | Deputy Director, Submission Processing, Cincinnati—Small Business and Self Employed.
|  | Chief, Information Technology Services.
|  | Director, Strategy, Research and Performance Management.
|  | Area Director, Stakeholder, Partnership, Education and Communications—New Orleans.
|  | Director, Compliance , Detroit—Small Business and Self Employed.
|  | Director, Business Systems Planning—Large and Mid-Size Business.
|  | Project Director—Appeals.
|  | Industry Director—Financial Services—Large and Mid-Size Business.
|  | Director, Performance, Quality and Innovation—Large and Mid Size Business.
|  | Field Director, Accounts Management, Wage and Investment.
|  | Director, Reporting Compliance.
|  | Deputy Director, Office of Professional Responsibility.
|  | Director, Accounts Management, Wage and Investment.
|  | Director, Media and Publications Distribution Division.
|  | Director, Field Operations, East, Appeals.
|  | Director, Field Operations, West, Appeals.
|  | Area Director, Information Technology.
|  | Director, Business Systems Planning.
|  | Deputy Director, Taxpayer Education and Communication.
|  | Deputy Chief, Criminal Investigation.
|  | Director, Taxpayer Education Area—Los Angeles.
|  | Director, Field Operations.
|  | Accounts Management Field Director.
|  | Executive Director, Equity, Diversity, and Inclusion.
|  | Area Director, Western.
|  | National Director of Appeals.
|  | Director, Human Resources—Wage and Investment.
|  | Deputy National Taxpayer Advocate.
|  | Commissioner, Tax Exempt and Government Entities Division.
|  | Deputy Chief, Agency wide Shared Services.
|  | Director, Government Entities.
|  | Industry Director, Heavy Manufacturing and Pharmaceuticals.
|  | Chief, Management and Finance—Large and Mid-Size Business.
|  | Deputy Division Commissioner, Tax Exempt and Government Entities.
|  | Director, Employee Plans.
|  | Director, Tax Exempt Bonds.
|  | Director, Field Operations (Financial Services), Laguna Niguel.
|  | Director, Personnel Services.
|  | Director, Communications, Technology and Media Industry—Large and Mid-Size Business.
|  | Director, Submission Processing (Cincinnati)—Wage and Investment.
|  | Director, Customer Account Services—Wage and Investment.
|  | Director, Strategy and Finance—Wage and Investment.
|  | Director, Field Assistance—Wage and Investment.
|  | Director, Field Assistance Area (Phoenix)—Wage and Investment.
|  | Director, Communication, Assistance, Research and Education.
|  | Deputy Chief, Criminal Investigation.
|  | Director, Taxpayer Education and Communication—Small Business and Self Employed.
|  | Compliance Service Field Director—Philadelphia.
|  | Compliance Service Field Director—Kansas City.
|  | Submission Processing Field Director—Andover.
|  | Submission Processing Field Director—Atlanta.
|  | Deputy Director, Submission Processing.
|  | Submission Processing Field Director—Philadelphia.
|  | Accounts Management Field Director—Andover.
|  | Accounts Management Field Director, Fresno.
|  | Director, Exempt Organizations.
|  | Director, Personnel Policy.
|  | Director, Field Operations, Communications, Technology and Media—Northwest.
|  | Special Agent In Charge, Los Angeles.
|  | Director, Equal Employment Opportunity and Diversity.
|  | Commissioner, Wage and Investment.
|  | Compliance Service Field Director, Austin—Wage and Investment.
|  | Accounts Management Field Director, Austin—Wage and Investment.
|  | Director, Research, Analysis and Statistics of Income.
|  | Project Director—Small Business and Self Employed.
|  | Area Director, Stakeholder Partnership Education and Communication.
|  | Director, Human Resources—Small Business and Self Employed.
|  | Senior Counselor to the Commissioner (Tax Administration, Practice and Professional Responsibility).
|  | Division Information Officer—Large and Mid-Size Business.
|  | Director, Real Estate and Facilities Management.
|  | Project Director.
|  | Director of Research.
|  | Director, Compliance Systems Division.
|  | Director, Internet Development Services.
|  | Deputy Director, Office of Professional Responsibility.
|  | Deputy Director, Operation Standards.
|  | Director, Field Operations-Heavy Manufacturing and Transportation.
|  | Director, Product Assurance.
|  | Compliance Service Field Director.
|  | Project Director (Small Business and Self Employed) Transition Executive).
|  | Submission Processing Field Director.
|  | Accounts Management Field Director.
|  | Compliance Service Field Director.
|  | Project Director.
|  | Director, Field Operations-Natural Resources and Construction.
|  | Director, Field Operations-Financial Services.
|  | Associate Chief Information Officer for Management and Finance.
|  | Area Director, Field Assistance.
|  | Director, Office of Information Technology Acquisition.
|  | Project Director.
|  | Deputy Director, Enterprise Operations Services.
|  | Director, Financial Management Services.
|  | Assistant Deputy Commissioner for Services and Enforcement.
|  | Director, Internal Management Systems Development Division.
|  | Deputy Chief Financial Officer.
|  | Project Director, Employee Tax Compliance.
|  | Director, Business Systems Planning.
|  | Deputy Associate Chief Information Officer, Business Systems Development.
|  | Project Director, Office of Professional Responsibility.
|  | Chief, Communications and Liaison.
|  | Director of Field Operations.
|  | Associate Chief Information Officer for Information Technology Services.
|  | Director, Employment, Talent, and Security.
|  | Director, Operational Readiness.
|  | Project Director.
|  | Director, Technical Systems Software.
|  | Director, Tax Forms and Publications.
|  | Director, Development Services.
|  | Director, Compliance Area (2).
|  | Director, Technical Services.
|  | Area Director, Field Assistance.
|  | Director, Enterprise Operations Services.
|  | Director, Research.
|  | Director, Employee Plan Determination Letter Redesign.
|  | Director, Regulatory Compliance.
|  | Chief, Criminal Investigation.
|  | Director, Strategy, Program Management and Personnel Security.
|  | Chief Financial Officer, Internal Revenue Service.
|  | Chief, Mission Assurance and Security Services.
|  | Director, Operations Policy and Support.
|  | Director, Stakeholder, Partnership, Education and Communications.
|  | Director, Competitive Sourcing.
|  | Assistant Deputy Commissioner for Operations Support.
|  | Chief Human Capital Officer, Internal Revenue Service.
|  | Director, Financial Management Services.
|  | Director, Strategy, Criminal Investigations.
|  | Assistant to Director, Real Estate and Facilities Management.
|  | Information Technology Manager, Policy and Planning.
|  | Chief Information Officer.
|  | Commissioner, Large and Mid-Sized Business Division.
|  | Commissioner, Small Business and Self Employed.
|  | Compliance Service Field Director.
|  | Project Manager.
|  | Deputy Commissioner, Operations Support.
|  | Chief of Staff, Internal Revenue Service.
|  | Submission Processing Field Director.
|  | Director, Special Programs and Oversight.
|  | Director, Strategy and Resource Management.
|  | Director, Compliance Campus Operations (5).
|  | Director, Campus Reporting Compliance.
|  | Director, Specialty Programs.
|  | Director, Technical Services.
|  | Director, Examination Area (3).
|  | Director, Abusive Transactions.
|  | Director, Examination Policy
|  | Director, Examination Area.
|  | Director, Collection Area (6).
|  | Director, Collection Business Reengineering.
|  | Director, Planning and Analysis.
|  | Director, Collection Policy.
|  | Modernization Executive.
|  | Director, Taxpayer Education and Communication Field Operations.
|  | Director, Criminal Investigation Technology Operations and Investigative Services.
|  | Director, Collection.
|  | Director, Workforce Relations.
|  | Submission Processing Field Director.
|  | Director, Collection Area.
|  | Deputy Chief Human Capital Officer, Internal Revenue Service.
|  | Director, Compliance Services Campus Operations.
|  | Area Director of Information Technology.
|  | Submission Processing Field Director.
|  | Director, Media and Publications Distribution Division.
|  | Director, Office of Privacy and Information Protection.
|  | Director, Refund Crimes.
|  | Accounts Management Field Director.
|  | Director, Filing and Payment Compliance.
|  | Director, Joint Operations Center.
|  | Director, Examination Operations Support.
|  | Senior Advisor, Information Systems Current Processing Environment Security.
|  | Director, Emergency Management Programs.
|  | Director of Field Operations (2).
|  | Director, Advisory, Insolvency and Quality.
|  | Director, Field Operations.
|  | Director, Employee Support Services.
|  | Deputy Commissioner, Small Business/Self-Employed.
|  | Associate Chief Financial Officer for Revenue and Financial Management.
|  | Project Director (Business Requirements).
|  | Director, Operational Assurance.
|  | Deputy Division Commissioner.
|  | Deputy Director, Field Specialists.
|  | Director, Leadership and Education.
|  | Accounts Management Field Director.
|  | Director, Filing Systems.
|  | Deputy Director, Procurement.
|  | Special Agent In Charge.
|  | Deputy Commissioner, Services and Enforcement.
|  | Director, Enterprise Systems Testing.
|  | Deputy Associate Chief Information Officer, Applications Development.
|  | Director, Corporate Data.
|  | Director, Individual Master File.
|  | Director, Project Services.
|  | Director, Internal Management.
|  | Director, Submission Processing.
|  | Deputy Director, Submission Processing.
|  | Director, Client Services Division.
|  | Director, Customer Applications Development.
|  | Accounts Management Field Director.
|  | Director, Earned Income and Health Coverage Tax Credits.
|  | Director, Centers of Excellence.
|  | Director, Program Control and Process Management.
|  | Deputy Director, Electronic Tax Administration.
|  | Business Modernization Executive.
|  | Accounts Management Field Director.
|  | Deputy Commissioner, Large and Mid-Size Business, International.
|  | Director, Field Operations.
|  | Director, Contact Center Support Division.
|  | Director, Network Architecture, Engineering, and Voice.
|  | Director, Capital Planning and Investment.
|  | Project Director, Technology Operations and Investigative Services.
|  | Director, E-File Systems.
|  | Director, Cyber Security Operations.
|  | Deputy Director, Field Assistance.
|  | Industry Director, Natural Resources and Construction.
|  | Director, Examination Planning and Delivery.
|  | Associate Chief Financial Officer for Corporate Planning and Internal Control.
|  | Associate Chief Financial Officer for Corporate Budget.
|  | Deputy Chief, Mission Assurance and Security Services.
|  | Director, Workforce Progression and Management.
|  | Director, Customer Relationship and Integration.
|  | Director, Emergency Management Programs.
|  | Director, Fraud/Bank Secrecy Act.
|  | Director, Burden Reduction and Compliance Strategies.
|  | Special Agent In Charge.
|  | Director, Strategy, Research and Program Planning.
|  | Director, Field Operations.
|  | Project Director, Collection.
|  | Director, Stakeholder Liaison Field.
|  | Director, Research.
|  | Director, Communications and Stakeholder Outreach.
|  | Director, Correspondence Production Services.
|  | Area Director, Southeast.
|  | Director, Data Management.
|  | Director, Field Operations.
|  | Deputy Director, Accounts Management.
|  | Chief, Agency-Wide Shared Services.
|  | Director, Employee Plans, Rulings, and Agreements.
|  | Director, Campus Collection Compliance.
|  | Director, Examination Area (3).
|  | Accounts Management Field Director (4).
|  | Director, Retail, Food, Pharmaceutical, and Health Care.
|  | Deputy Director, Customer Account Data Engine.
|  | Special Agent In Charge—Criminal Investigation.
|  | Director, Development Services.
|  | Field Director, Accounts Management.
|  | Director, Reporting Compliance.
|  | Director, Infrastructure Architecture and Engineering.
|  | Director, Data Strategy Implementation.
|  | Director, Cyber Security Policy and Programs.
|  | Associate Chief Information Officer, End User Equipment and Services.
|  | Deputy Associate Chief Information Officer, Enterprise Operations.
|  | Director, Electronic Tax Administration.
|  | Deputy Commissioner (Domestic), Large Business and International.
|  | Project Director (33).
|  | Executive Director, Case Advocacy.
|  | Director, Campus Compliance Services.
|  | Project Director, Security and Law Enforcement.
|  | Director, Online Fraud Detection and Prevention.
|  | Deputy Associate Chief Information Officer, End User Equipment and Services.
|  | Project Director, Private Debt Collection.
|  | Associate Chief Information Officer, Enterprise Networks.
|  | Field Director, Accounts Management.
|  | Director, Office of Privacy, Information Protection and Data Security.
|  | Director, Operational Security Program.
|  | Senior Advisor, Operational Information.
|  | Director, Enterprise Networks Operations.
|  | Associate Chief Information Officer, Cybersecurity.
|  | Submission Processing Field Director.
|  | Director, Earned Income and Health Coverage Tax Credits.
|  | Project Director.
|  | Director, Office of Taxpayer Burden.
|  | Director, Personnel Security.
|  | Director, Treaty Administration and Tax Advisory Services.
|  | Director, Office of Program Evaluation and Risk Analysis.
|  | Accounts Management Field Director.
|  | Director, Information Technology Security Engineering.
|  | Director, Information Technology Infrastructure.
|  | Director, Examination Area, Boston.
|  | Associate Chief Information Officer, Applications Development.
|  | Director, Field Operations.
|  | Supervisory Criminal Investigator (Project Director).
|  | Director, Office of Professional Responsibility.
|  | Director, Office of Communications.
|  | Director, Field Operations.
|  | Director, Whistleblower Office.
|  | Director, Program Management and Technology.
|  | Director, Product and Partnership Development.
|  | Director, Portal Program Management.
|  | Project Director.
|  | Director, Business Systems Planning.
|  | Special Agent In Charge
|  | Director, International Compliance, Strategy, and Policy.
|  | Director, Management Services and Security.
|  | Director, Reporting Compliance.
|  | Accounts Management Field Director.
|  | Director, Customer Service.
|  | Director, Telecommunications Center of Excellence.
|  | Director, Examination Area.
|  | Area Director, Field Assistance.
|  | Director, Server, Middleware and Test Systems Infrastructure Division.
|  | Director, Requirements and Demand Management.
|  | Field Director, Compliance Services.
|  | Director, Headquarters Operations.
|  | Deputy Director, Enterprise Architecture.
|  | Field Director, Compliance Services (Atlanta).
|  | Director, Collection Area, Gulf States.
|  | Director, Financial Management Services.
|  | Deputy Chief of Staff.
|  | Director, Delivery Management.
|  | Deputy Director, Customer Relationships and Integration.
|  | Deputy Commissioner for Support, Wage and Investment.
|  | Director, Global High Wealth Industry.
|  | Associate Chief Information Officer for Enterprise Operations.
|  | Director, Management Services.
|  | Director, Business Systems Planning.
|  | Director, Compliance Campus Operations.
|  | Deputy Director, Enterprise Systems Testing.
|  | Deputy Director, Employment, Talent, and Security.
|  | Associate Chief Information Officer, Strategy and Planning.
|  | Deputy Commissioner for Operations, Wage and Investment.
|  | Director, Individual Master Files.
|  | Director, Strategy and Capital Planning.
|  | Senior Advisor to the Deputy Commissioner (Operations Support).
|  | Director, Appeals Policy and Valuation.
|  | Deputy Associate Chief Information Officer for Cybersecurity.
|  | Counselor.
|  | Director, Capital Planning and Investment.
|  | Project Director, Customer Account Data Engine.
|  | Director, Planning, Research and Analysis.
|  | Deputy Director, Submission Processing.
|  | Special Assistant to the Associate Chief Information Officer for Applications Development.
|  | Deputy Director, Program Management.
|  | Director, Collection Policy.
|  | Deputy Division Counsel #2 (Operations)/Small Business and Self Employed.
|  | Director, Service Delivery Management.
|  | Project Director, Taxpayer Communication.
|  | Director, Program Integration.
|  | Deputy Associate Chief Information Officer.
|  | Project Director, Workforce of Tomorrow.
|  | Director, Enterprise Voice Networks.
|  | Director, Continuity Operations.
|  | Project Director.
|  | Deputy Director, Electronic Tax Administration and Refund Credits.
|  | Special Assistant to the Deputy Commissioner for Services and Enforcement.
|  | Deputy Chief of Staff.
|  | Director, Filing and Payment Compliance.
|  | Submission Processing Field Director.
|  | Director, Enforcement.
|  | Director, Collection Area.
|  | Senior Advisor to Associate Chief Information Officer (Enterprise Network).
|  | Director, Business Rules and Requirements Management.
|  | Deputy Chief Information Officer for Operations.
|  | Director, Field Operations East.
|  | Deputy Director, Return Preparer Office.
|  | Director, Compliance Campus Operations.
|  | Deputy Commissioner for Support, Wage and Investment.
|  | Director, Filing and Payment Compliance.
|  | Director, Tax Forms and Publications.
|  | Director, Customer Service and Stakeholders.
|  | Project Director.
|  | Deputy Associate Chief Financial Officer for Financial Management.
|  | Director, Business Services and Management.
|  | Director, Portfolio Control and Performance.
|  | Director, Real Estate and Facilities Operations.
|  | Executive Director, Systems Advocacy.
|  | Area Director, Field Assistance (Area 1).
|  | Area Director, Field Assistance (Area 2).
|  | Director, Network Engineering.
|  | Director, Enforcement.
|  | Director, Program Management.
|  | Director, Business Modernization.
|  | Director, Examination Area.
|  | Director, Implementation Oversight.
|  | Director, Information Technology Technical Director.
|  | Director, Campus Compliance Operations.
|  | Director, Examination Area.
|  | Director, Enterprise Collection Strategy.
|  | Director, Transition State 2 Program Management.
|  | Director, Field Operations, International Business Compliance West.
|  | Director, Field Operations, Field Specialists East.
|  | Compliance Services Field Director.
|  | Director, Return Preparer Office.
|  | Deputy Director, Pre-Filing and Technical Guidance.
|  | Deputy Director, Strategy and Finance.
|  | Director, Examination Operations Support.
|  | Director, Operations Service Support.
|  | Deputy Commissioner, Operations Support.
|  | Associate Chief Information Officer, Affordable Care Act—Program Management Office.
|  | Chief Engineer.
|  | Deputy Associate Chief Information Officer for Applications.
|  | Deputy Associate Chief Information Officer for Enterprise Networks.
|  | Director, Examination Policy.
|  | Area Director, Stakeholder Partnership, Education, and Communication.
|  | Area Director, Stakeholder Partnership, Education, and Communication.
|  | Project Director.
|  | Director, Refund Crimes.
|  | Area Director, Field Assistance.
|  | Director, Transfer Pricing Operations.
|  | Director, International Operations.
|  | Deputy Director, Research, Analysis, and Statistics.
|  | Director, Program Strategy and Integration.
|  | Director, Field Operations, Retailers, Food, Transportation and Healthcare—East.
|  | Director, International Business Compliance.
|  | Director, Collection Area.
|  | Deputy Associate Chief Information Officer for Enterprise Services.
|  | Director, Field Operations, Field Specialists West.
|  | Director, Cade 2 Database.
|  | Director, Accounts Management Services.
|  | Deputy Director, Portal Program Management.
|  | Director, Filing and Payment Compliance.
|  | Director, Large Systems and Storage Infrastructure Division.
|  | Director, Business Performance Solutions.
|  | Director, Earned Income Tax Credit.
|  | Director, E-File Systems.
|  | Director, Real Estate and Facilities Operations.
|  | Director of Field Operations Southern Area.
|  | Director, Shared Support.
|  | Director, Field Operations, Engineering.
|  | Director of Field Operations, Heavy Manufacturing and Pharmaceuticals, Southeast.
|  | Director, Collection Strategy and Organization.
|  | Executive Director, Business Modernization.
|  | Area Director, Stakeholder, Partnership, Education, and Communication.
|  | Director, Business Planning and Risk Management.
|  | Director, Implementation and Testing.
|  | Director, Campus Operations.
|  | Director, Business Reengineering.
|  | Director, Campus Compliance Operations.
|  | Project Director Extension Legislation.
|  | Compliance Services Field Director.
|  | Submission Processing Field Director.
|  | Director, Service Delivery Management.
|  | Director, Detroit Program Management Office.
|  | Director, Privacy and Information Protection.
|  | Director, International Data Management.
|  | Director, Strategy, Research and Program Planning.
|  | Area Director, Stakeholder, Partnerships, Education and Communication.
|  | Director, Program Strategy and Integration.
|  | Director, Compliance Strategy and Policy.
|  | Director, Technical Services.
|  | Director, Data Delivery Services.
|  | Director, Examination Policy.
|  | Director, Strategic Supplier Management.
|  | Director, Transfer Pricing Operations.
|  | Director, Infrastructure and Portal Programs.
|  | Director, Collection Area—California.
|  | Director, Exempt Organizations Examination.
|  | Director, Leadership, Education and Development.
|  | Director, Business Relationship and Service Delivery.
|  | Director, Examination Area—North Atlantic.
|  | Executive Director, Investigative and Enforcement Services.
|  | Executive Director, Investigative and Enforcement Operations.
|  | Director, Large Systems and Storage Infrastructure Division.
|  | Director, Filing and Payment Compliance.
|  | Director, Contact Center Support Division.
|  | Director, Field Operations, Retail Food, Pharmaceuticals, and Healthcare—West.
|  | Director, Cybersecurity Policy and Programs.
|  | Director, Return Integrity and Correspondence Services.
|  | Director, Advanced Pricing and Mutual Agreement.
|  | Director, Product Management.
|  | Associate Chief Financial Officer, Corporate Planning and Internal Control.
|  | Director, International Individual Compliance.
|  | Director, Customer Service Support.
|  | Director, Abusive Transactions and Technical Issues.
|  | Deputy Director, Office of Professional Responsibility Operations.
|  | Director, Examination Area.
|  | Accounts Management Field Director.
|  | Director, Campus Compliance Operations.
|  | Director, Collection Area.
|  | Director, Field Operations, Natural Resources and Construction—West.
|  | Field Director, Submission Processing.
|  | Director, Information Technology Transition Initiatives.
|  | Assistant Deputy Commissioner (International).
|  | Director, Filing and Premium Tax Credit.
|  | Director, Field Operations, International Business Compliance.
|  | Accounts Management Field Director.
|  | Deputy Commissioner, Wage and Investments.
|  | Director, Human Capital.
|  | Director, Enterprise Networks Operations.
|  | Associate Chief Information Officer, Affordable Care Act Program Management Office.
|  | Director, Unified Communications.
|  | Director, Infrastructure Services.
|  | Director, Executive Services.
|  | Director, Foreign Account Tax Compliance Act—Program Management Office.
|  | Senior Director for Operations, Affordable Care Act.
|  | Associate Chief Information Officer, Enterprise Information Technology Program Management.
|  | Director, E-File Services.
|  | Chief of Staff.
| Internal Revenue Service Chief Counsel | Assistant Chief Counsel (Disclosure and Privacy Law).
|  | Division Counsel (Wage and Investment).
|  | Deputy Associate Chief Counsel (Strategic International Programs).
|  | Deputy Division Counsel/Deputy Associate Chief Counsel (Tax Exempt and Government Entities).
|  | Deputy Associate Chief Counsel (General Legal Services) (Labor and Personnel Law).
|  | Division Counsel (Small Business and Self Employed).
|  | Deputy Associate Chief Counsel (Finance and Management).
|  | Area Counsel (Large and Mid-Size Business) (Area 2) (Heavy Manufacturing, Construction and Transportation).
|  | Area Counsel (Large and Mid-Size Business) (Area 4) (Natural Resources).
|  | Deputy to the Special Counsel to the Chief Counsel.
|  | Special Counsel to the Chief Counsel.
|  | Area Counsel, Small Business and Self Employed, Area 9.
|  | Deputy Division Counsel (Technical), Large Business and International.
|  | Deputy Associate Chief Counsel (International Field Service and Litigation).
|  | Director, Employee Plans Examinations.
|  | Special Counsel to the Chief Counsel.
|  | Assistant Chief Counsel (International) (Litigation).
|  | Associate Chief Counsel (Financial Institutions and Products).
|  | Associate Chief Counsel (Finance and Management).
|  | Associate Chief Counsel (International).
|  | Deputy Chief Counsel (Technical).
|  | Deputy Chief Counsel (Operations).
|  | Associate Chief Counsel/Operating Division Counsel (Tax Exempt and Government Entities).
|  | Deputy Associate Chief Counsel (International Technical).
|  | Special Counsel to the National Taxpayer Advocate.
|  | Deputy Division Counsel and Deputy Associate Chief Counsel (Tax Exempt and Government Entities).
|  | Associate Chief Counsel (General Legal Services).
|  | Deputy Associate Chief Counsel (General Legal Services).
|  | Deputy Division Counsel/Deputy Associate Chief Counsel.
|  | Associate Chief Counsel (Corporate).
|  | Associate Chief Counsel (Procedure and Administration).
|  | Deputy Associate Chief Counsel (Financial Institutions and Products).
|  | Assistant Chief Counsel (Collection, Bankruptcy and Summonses).
|  | Deputy Division Counsel/Deputy Assistant Chief Counsel (Criminal Tax).
|  | Associate Chief Counsel (Income Tax and Accounting).
|  | Deputy Associate Chief Counsel (Procedure and Administration).
|  | Associate Chief Counsel (Pass-through and Special Industries).
|  | Deputy Division Counsel (Large and Mid-Size Business).
|  | Deputy Associate Chief Counsel (Corporate).
|  | Deputy Associate Chief Counsel #2 (Pass-throughs and Special Industries).
|  | Division Counsel (Large and Mid-Size Business).
|  | Deputy Associate Chief Counsel #2 (Income Tax and Accounting).
|  | Division Counsel/Associate Chief Counsel (Criminal Tax).
|  | Area Counsel, Large and Mid-Size Business (Area 3) (Food, Mass Retailers, and Pharmaceuticals).
|  | Area Counsel (Large Business and International) (Area 1).
|  | Area Counsel (Small Business and Self Employed) (Area 7).
|  | Area Counsel (Small Business and Self Employed)—Los Angeles.
|  | Area Counsel (Small Business and Self Employed)—Denver.
|  | Area Counsel (Small Business and Self Employed).
|  | Area Counsel (Small Business and Self Employed)—Chicago.
|  | Area Counsel (Small Business and Self Employed)—Jacksonville.
|  | Area Counsel (Small Business and Self Employed)—Philadelphia.
|  | Area Counsel (Small Business and Self Employed)—New York.
|  | Deputy Division Counsel (Small Business and Self Employed).
|  | Area Counsel (Large Business and International).
| United States Mint | Associate Director for Information Technology (Chief Information Officer).
|  | Associate Director for Financial Management/Chief Financial Officer.
|  | Associate Director for Sales and Marketing.
|  | Associate Director for Manufacturing.
|  | Chief Administrative Officer.
|  | Plant Manager, Philadelphia.
|  | Associate Director for Workforce Solutions.
|  | Associate Director for Systems Integration.
|  | Plant Manager.
DEPARTMENT OF THE TREASURY OFFICE OF THE INSPECTOR GENERAL | Immediate Office of the Inspector General | Special Deputy Inspector General for Small Business Lending Fund.
|  | Deputy Inspector General.
| Office of Counsel | Counsel to the Inspector General.
| Office of Management | Assistant Inspector General for Management.
| Office of Audit | Deputy Assistant Inspector General for Audit (Program Audits).
|  | Assistant Inspector General for Audit.
|  | Deputy Assistant Inspector General for Audit (Financial Management).
| Office of Investigations | Assistant Inspector General for Investigations.
|  | Deputy Assistant Inspector General for Investigations.
DEPARTMENT OF THE TREASURY SPECIAL INSPECTOR GENERAL FOR THE TROUBLED ASSET RELIEF PROGRAM | Department of the Treasury Special Inspector General for the Troubled Asset Relief Program | Chief Investigative Counsel.
|  | Assistant Deputy Special Inspector General for Audit and Evaluation.
|  | Deputy Special Inspector General, Operations.
|  | Deputy Special Inspector General, Audit.
|  | General Counsel for Special Inspector General for the Troubled Asset Relief Program (SIGTARP).
|  | Deputy Special Inspector General, Investigations.
|  | Assistant Deputy Special Inspector General for Investigations.
DEPARTMENT OF THE TREASURY TAX ADMINISTRATION OFFICE OF THE INSPECTOR GENERAL | Department of the Treasury Tax Administration Office of the Inspector General | Deputy Counsel to the Inspector General.
|  | Deputy Inspector General for Audit.
|  | Deputy Assistant Inspector General for Investigations.
|  | Chief Information Officer (2).
|  | Assistant Inspector General for Management, Planning and Workforce Development.
|  | Assistant Inspector General for Audit, Compliance and Enforcement Organizations.
|  | Deputy Assistant Inspector General for Investigations.
|  | Deputy Inspector General for Inspections and Evaluations.
|  | Principal Deputy Inspector General.
|  | Associate Inspector General for Mission Support.
|  | Chief Counsel.
|  | Assistant Inspector General for Investigations (4).
|  | Assistant Inspector General, Returns Processing and Accounting Services.
|  | Assistant Inspector General for Audit, Management Planning and Workforce Development.
|  | Assistant Inspector General Returns Processing and Accounting Services.
|  | Assistant Inspector General for Audit, Management Services and Exempt Organizations.
|  | Assistant Inspector General for Investigations.
UNITED STATES AGENCY FOR INTERNATIONAL DEVELOPMENT | Office of the General Counsel | Deputy General Counsel.
|  | Assistant General Counsel for Ethics and Administrations.
|  | General Counsel, Chief Innovation Counsel.
| Office of the Inspector General | Deputy Assistant Inspector General for Audit.
|  | Deputy Inspector General.
|  | Counselor to the Inspector General.
|  | Assistant Inspector General for Management.
|  | Supervisory Criminal Investigator.
|  | Assistant Inspector General for Millennium Challenge Corporation.
| Office of Security | Director, Office of Security.
| Office of Small and Disadvantaged Business Utilization | Director, Office of Small and Disadvantage Business Utilization.
| Office of Civil Rights and Diversity | Equal Opportunity Officer.
| Bureau for Democracy, Conflict, and Humanitarian Assistance | Deputy Assistant Administrator.
|  | Deputy Director, Office of Military Affairs (OMA).
|  | Deputy Director, Office of Foreign Disaster Assistance.
| Office of Afghanistan and Pakistan Affairs | Assistant Administrator.
| Office of Budget and Resource Management | Director, Budget and Resource Management.
| Bureau for Global Health | Deputy Assistant Administrator.
| Bureau for Africa | Deputy Assistant Administrator, Bureau for Africa.
| Bureau for Management | Deputy Controller.
|  | Deputy Director for Office of Acquisition and Assistance Policy, Support, and Evaluation.
|  | Deputy Chief Financial Officer (2).
|  | Deputy Director, Office of Acquisition and Assistance Operations.
|  | Deputy Director, Office of Management, Policy, Budget, and Performance.
|  | Deputy Director, Accountability, Compliance, Transparency and System Support.
|  | Director, Office of Administrative Service.
|  | Chief Information Officer.
|  | Deputy Assistant Administrator.
|  | Director, Office of Management, Policy, Budget and Performance.
| Office of Human Capital Talent Management | Chief Human Capital Officer.
|  | Deputy Chief Human Capital Officer.
| Bureau for Foreign Assistance | Senior Coordinator.
UNITED STATES AGENCY FOR INTERNATIONAL DEVELOPMENT OFFICE OF THE INSPECTOR GENERAL | United States Agency for International Development Office of the Inspector General | Deputy Assistant Inspector General for Investigations.
|  | Assistant Inspector General for Investigations.
|  | Deputy Assistant Inspector General for Audit.
|  | Deputy Inspector General.
|  | Counselor to the Inspector General.
|  | Deputy Assistant Inspector General for Audit.
|  | Assistant Inspector General for Management.
UNITED STATES INTERNATIONAL TRADE COMMISSION | Office of External Relations | Director, Office of External Relations.
| Office of Industries | Director, Office of Industries.
| Office of Investigations | Director, Office of Investigations.
| Office of the Inspector General | Inspector General.
DEPARTMENT OF VETERANS AFFAIRS | Office of the Secretary and Deputy | Director, Office of Employment Discrimination Complaint Adjudication.
|  | Executive Director.
| Office of Acquisitions, Logistics and Construction | Executive Director.
|  | Director, Facilities, Programs, and Plans.
|  | Associate Chief Facilities Management Officer for Resource Management.
|  | Associate Chief Facilities Management Officer for Strategic Management.
|  | Associate Executive Director, Office of Operations.
|  | Director, Facilities Acquisition Support.
|  | Associate Executive Director, Strategic Acquisition Center.
|  | Executive Director.
|  | Executive Director, Construction and Facilities Management.
| Office of Acquisition and Materiel Management | Executive Director, Center for Acquisition Innovation.
|  | Associate Deputy Assistant Secretary for Acquisition Program Support.
|  | Deputy Assistant Secretary for Acquisition and Materiel Management.
|  | Executive Director National Acquisition Center.
| Board of Veterans' Appeals | Vice Chairman.
|  | Deputy Vice Chairman (2).
|  | Principal Deputy Vice Chairman.
|  | Director, Management, Planning and Analysis.
| Office of the General Counsel | Regional Counsel (22).
|  | Deputy General Counsel, Legal Policy.
|  | Senior Advisor (Strategic Planning).
|  | Deputy General Counsel, Legal Operations.
|  | Executive Director, Management Planning and Analysis.
| Office of the Assistant Secretary for Management | Principal Deputy Assistant Secretary for Management.
| Office of Finance | Associate Deputy Assistant Secretary for Financial Business Operations.
|  | Director, Financial Services Center.
|  | Associate Deputy Assistant Secretary for Finance.
|  | Director, Debt Management Center.
|  | Deputy Assistant Secretary for Finance.
| Office of Acquisition and Materiel Management | Executive Director, Office of Acquisition Operations.
| Office of Asset Enterprise Management | Deputy Director, Asset Enterprise Management.
| Office of Business Oversight | Director, Office of Business Oversight.
| Office of Human Resources Management | Associate Deputy Assistant Secretary for Human Resources Management Policy.
| Office of Corporate Senior Executive Management | Executive Director.
| Office of the Assistant Secretary for Information and Technology | Deputy Assistant Secretary for Information Security.
|  | Associate Deputy Assistant Secretary for Policy, Privacy and Incident Management.
|  | Executive Director, Acquisition Strategy and Business Relationship.
|  | Executive Director for Quality and Performance.
|  | Deputy Assistant Secretary for Information Technology Resource Management.
|  | Executive Director, Budget and Finance.
|  | Executive Director (Enterprise Operations).
|  | Associate Deputy Assistant Secretary for Security Operations.
| National Cemetery Administration | Deputy Under Secretary for Finance and Planning/Chief Financial Officer.
| Veterans Benefits Administration | Deputy Director for Operations.
|  | Deputy Director for Policy and Procedures.
|  | Deputy Chief Financial Officer.
|  | Chief Financial Officer.
| Veterans Health Administration | Associate Chief Financial Officer.
|  | Chief Procurement and Logistics Officer.
|  | Associate Chief Financial Officer for Managerial Cost Accounting.
|  | Director, Service Area Office (East).
|  | Associate Chief Financial Officer.
|  | Director, Service Area Office (West).
|  | Director Service Area Office (Central).
|  | Deputy Chief Procurement Officer.
|  | Director, Veterans Canteen Service.
|  | Chief Financial Officer.
|  | Chief Compliance and Business Integrity Officer
|  | Deputy Chief Financial Officer.
|  | Chief Operating Officer.
| Medical Center Directors | Medical Center Director (Advisory).
| Office of Emergency Management | Deputy Assistant Secretary for Emergency Management.
| Office of Operations, Security and Preparedness | Director for Security and Law Enforcement.
DEPARTMENT OF VETERANS AFFAIRS OFFICE OF THE INSPECTOR GENERAL | Immediate Office of the Inspector General | Counselor to the Inspector General.
|  | Deputy Counselor to the Inspector General.
|  | Deputy Inspector General.
| Office of the Assistant Inspector General for Investigations | Deputy Inspector General for Investigations (Field Operations).
|  | Assistant Inspector General for Investigations.
|  | Deputy Assistant Inspector General for Investigations (Headquarters Operations).
| Office of the Assistant Inspector General for Audits and Evaluations | Assistant Inspector General for Audits and Evaluations.
|  | Deputy Assistant Inspector General for Audits and Evaluations (Field Operations).
|  | Deputy Assistant Inspector General for Audits and Evaluations (Headquarters Management and Inspections).
| Office of the Assistant Inspector General for Management and Administration | Assistant Inspector General for Management and Administration.
|  | Deputy Assistant Inspector General for Management and Administration.
| Office of the Assistant Inspector General for Healthcare Inspections | Medical Officer (Deputy Director of Medical Consultation and Review).
|  | Medical Officer (Director of Medical Consultation and Review).
|  | Deputy Assistant Inspector General for Healthcare Inspections.
|  | Assistant Inspector General for Healthcare Inspections.

Authority: 5 U.S.C. 3132.

U.S. Office of Personnel Management.
Beth F. Cobert,
Acting Director.

[FR Doc. 2015-25893 Filed 10-14-15; 8:45 am]

BILLING CODE 6325-39-P